POSTAL SERVICE

Change in Rates and Classes of General Applicability for Competitive Products

AGENCY: Postal Service™.

ACTION: Notice of a change in rates of general applicability for competitive products.

SUMMARY: This notice sets forth changes in rates of general applicability for competitive products.

DATES: The rate change is effective January 27, 2019.

FOR FURTHER INFORMATION CONTACT: Elizabeth Reed, 202-268-3179.

SUPPLEMENTARY INFORMATION: On October 4, 2018, pursuant to their authority under 39 U.S.C. 3632, the Governors of the Postal Service established prices and classification changes for competitive products. The Governors' Decision and the record of proceedings in connection with such decision are reprinted below in accordance with section 3632(b)(2).

Elizabeth Reed,
Attorney, Corporate and Postal Business Law.

Decision of the Governors of the United States Postal Service on Changes in Rates of General Applicability for Competitive Products (Governors' Decision No. 18-1)

October 4, 2018

Statement of Explanation and Justification

Pursuant to authority under section 3632 of title 39, as amended by the Postal Accountability and Enhancement Act of 2006 (“PAEA”), we establish new prices of general applicability for the Postal Service's shipping services (competitive products), and such changes in classifications as are necessary to define the new prices. The changes are described generally below, with a detailed description of the changes in the attachment. The attachment includes the draft Mail Classification Schedule sections with classification changes in legislative format, and new prices displayed in the price charts.

As shown in the nonpublic annex being filed under seal herewith, the changes we establish should enable each competitive product to cover its attributable costs (39 U.S.C. 3633(a)(2)) and should result in competitive products as a whole complying with 39 U.S.C. 3633(a)(3), which, as implemented by 39 CFR 3015.7(c), requires competitive products collectively to contribute a minimum of 5.5 percent to the Postal Service's institutional costs. Accordingly, no issue of subsidization of competitive products by market dominant products should arise (39 U.S.C. 3633(a)(1)). We therefore find that the new prices are in accordance with 39 U.S.C. 3632-3633 and 39 CFR 3015.2.

I. Domestic Products

A. Priority Mail Express

Overall, the Priority Mail Express price change represents a 3.9 percent increase. The existing structure of zoned Retail, Commercial Base, and Commercial Plus price categories is maintained, with Commercial Base and Commercial Plus prices continuing to be set equal to each other. New for 2019, dimensional weighting will be implemented for Priority Mail Express for all Zones, with a dim divisor of 166.

Retail prices will increase an average of 3.9 percent. The price for the Retail Flat Rate Envelope, a significant portion of all Priority Mail Express volume, is increasing to $25.50, with the Legal Size and Padded Flat Rate Envelopes priced at $25.70 and $26.20, respectively.

The Commercial Base price category offers lower prices to customers who use online and other authorized postage payment methods. The Commercial Base prices will increase 3.9 percent on average. Commercial Base prices will, on average, reflect a 12.0 percent discount off of Retail prices.

The Commercial Plus price category has traditionally offered even lower prices to large-volume customers. However, recognizing that the Postal Service is at a competitive disadvantage in the marketplace by publishing these highly discounted prices that are viewable by all customers, Commercial Plus prices were matched to the Commercial Base prices in 2016 and will continue to be in 2019. For January, Commercial Plus prices as a whole will receive a 3.9 percent increase on average.

B. Priority Mail

On average, the Priority Mail prices will be increased by 5.9 percent. The existing structure of Priority Mail Retail, Commercial Base, and Commercial Plus price categories is maintained. New for 2019, dimensional weighting will be extended from Zones 5-9 to all Zones, and the dim divisor will be changed from 194 to 166. This change will eliminate the need for balloon pricing, the existing proxy for dim-weight pricing in Zones L-4.

Retail prices will increase an average of 6.6 percent. Retail Flat Rate Box prices will be: Small, $7.90; Medium, $14.35; Large, $19.95 and Large APO/FPO/DPO, $18.45. Thus, the Large APO/FPO/DPO Flat Rate Box will be $1.50 less than the Large Flat Rate Box. The regular Flat Rate Envelope will be priced at $7.35, with the Legal Size and Padded Flat Rate Envelopes priced at $7.65 and $8.00, respectively.

The Commercial Base price category offers lower prices to customers using authorized postage payment methods. The Commercial Base prices will increase 3.2 percent on average. Commercial Base prices will, on average, reflect a 13.6 percent discount off of Retail prices.

The Commercial Plus price category has traditionally offered even lower prices to large-volume customers. For January, Commercial Plus prices as a whole will receive a 6.2 percent increase and will average 13.6 percent off Retail prices.

C. Parcel Select

On average, prices for destination-entered non-Lightweight Parcel Select, the Postal Service's bulk ground shipping product, will increase 9.3 percent. For destination delivery unit (DDU) entered parcels, the average price increase is 9.9 percent. For destination sectional center facility (DSCF) destination entered parcels, the average price increase is 9.6 percent. For destination network distribution center (DNDC) parcels, the average price increase is 9.1 percent. Prices for Parcel Select Lightweight will increase by 12.3 percent. Parcel Select Ground will see a 1.3 percent price decrease, to encourage volume growth. New for 2019, dimensional weighting will be implemented for non-Lightweight Parcel Select over one cubic foot, with a dim divisor of 166. This change will eliminate the need for balloon pricing, the existing proxy for dim-weight pricing. Also new for 2019, an optional small parcel forwarding fee of $4.53 will be introduced for shippers of Parcel Select Lightweight parcels for which forwarding is desired.

D. Parcel Return Service

Parcel Return Service prices will have an overall price increase of 6.8 percent. Prices for parcels retrieved at a return Sectional Center Facility (RSCF) will increase by 7.3 percent, and prices for parcels picked up at a return delivery unit (RDU) will increase 6.4 percent.

E. First-Class Package Service

First-Class Package Service (FCPS) continues to be positioned as a lightweight (less than one pound) offering primarily used by businesses for fulfillment purposes. In 2017, First-Class Mail Parcels were transferred to the competitive product list and renamed First-Class Package Service—Retail. New for 2019, the FCPS-Retail and FCPS-Commercial price categories will have zone-based pricing. Overall, First-Class Package Service prices will increase 12.3 percent, with a 13.3 percent increase for FCPS-Retail and an 11.9 percent increase for FCPS-Commercial.

F. Retail Ground

Retail Ground prices will increase 3.9 percent. Customers shipping in Zones 1-4 will continue to receive Priority Mail service and will only default to Retail Ground if the item contains hazardous material or is otherwise not permitted to travel by air transportation.

G. Domestic Extra Services

Premium Forwarding Service (PFS) prices will increase between 4.9 and 11.1 percent in 2019, depending on the specific rate element. The retail counter enrollment fee will increase to $21.10. The online enrollment option, introduced in 2014, will now be available for $19.35. The weekly reshipment fee will increase to $21.10. A new category called PFS Local will be introduced in 2019 for P.O. Box customers, with a daily reshipment fee of $21.10. Prices for Adult Signature service will increase to $6.40 for the basic service and $6.66 for the person-specific service. Address Enhancement Service prices will be increasing between 2.6 and 4.0 percent depending on the particular rate element, to ensure adequate cost coverage. Competitive Post Office Box prices will be increasing 10.0 percent on average, which is within the existing price ranges. Package Intercept Service will increase 4.8 percent, to $14.10. The Pickup On Demand fee will increase to $23.00 for 2019.

II. International Products

A. Expedited Services

International expedited services include Global Express Guaranteed (GXG) and Priority Mail Express International (PMEI). Overall, GXG prices will rise by 4.9 percent, and PMEI will be subject to an overall 3.9 percent increase. Commercial Plus prices will be equivalent to Commercial Base; however, deeper discounting may still be made available to customers through negotiated service agreements.

B. Priority Mail International

The overall increase for Priority Mail International (PMI) will be 3.9 percent. Commercial Plus prices will be equivalent to Commercial Base; however, deeper discounting may still be made available to customers through negotiated service agreements.

C. International Priority Airmail and International Surface Air Lift

Published prices for International Priority Airmail (IPA) and International Surface Air Lift (ISAL), as well as their associated M-Bags, will increase by 19.9 percent.

D. Airmail M-Bags

The published prices for Airmail M-Bags will increase by 5.0 percent.

E. First-Class Package International Service™

The overall increase First-Class Package International Service (FCPIS) prices will be 3.9 percent. Commercial Plus prices will be equivalent to Commercial Base; however, deeper discounting will still be made available to customers through negotiated service agreements.

F. International Ancillary Services and Special Services

Prices for several international ancillary services will be increased, with an overall increase of 10.4 percent. However, some services will be increased above average to ensure cost coverage, including International Postal Money Orders and Money Transfer Service, which will increase by 11.2 percent, and PMEI Insurance and PMI Insurance, which will increase by 21.5 and 20.7 percent, respectively.

Order

The changes in prices and classes set forth herein shall be effective at 12:01 a.m. on January 27, 2019. We direct the Secretary to have this decision published in the Federal Register in accordance with 39 U.S.C. 3632(b)(2), and direct management to file with the Postal Regulatory Commission appropriate notice of these changes.

By The Governors:

/s/

Robert M. Duncan,

Chairman, Temporary Emergency Committee of the Board of Governors.

United States Postal Service Office of the Board Of Governors

Certification of Governors' Vote on Governors' Decision No. 18-1

Consistent with 39 U.S.C. 3632(a), I hereby certify that the following Governors voted in favor of Governors' Decision No. 18-1:

Robert M. Duncan

David C. Williams

/s/

Date: October 4, 2018

Michael J. Elston,

Secretary of the Board of Governors (A).

Part B

Competitive Products

2000 Competitive Product List

2100 Domestic Products

* * *

* * *

2105 Priority Mail Express

* * *

2105.2 Size and Weight Limitations

| Length | Height | Thickness | Weight
Minimum | large enough to accommodate postage, address, and other required elements on the address side |  |  | none.
Maximum | 108 inches in combined length and girth |  |  | 70 pounds.¹
| Nominal Sizes:
Flat Rate Envelopes | Regular: 9.5 x 12.5 inches
| Legal: 9.5 x 15 inches
| Padded: 9.5 x 12.5 inches
¹ An overweight item charge, as described in the Domestic Mail Manual, applies to pieces found in the postal network that exceed the 70-pound maximum weight limitation. Such items are nonmailable and will not be delivered.

* * *

2105.4 Price Categories

The following price categories are available for the product specified in this section:

• Retail

○ Zone/Weight—Prices are based on weight and zone

○ Flat Rate Envelopes—Envelope provided or approved by the Postal Service

○ Dimensional Weight—Applies to parcels in zones local through 9 that exceed one cubic foot

• Commercial Base—Prices are available to customers who use specifically authorized postage payment methods.

○ Zone/Weight—Prices are based on weight and zone

○ Flat Rate Envelopes—Envelope provided or approved by the Postal Service

○ Dimensional Weight—Applies to parcels in zones local through 9 that exceed one cubic foot

• Commercial Plus—Prices are available to customers who use specifically authorized postage payment methods and mail over 5,000 pieces annually.

○ Zone/Weight—Prices are based on weight and zone

○ Flat Rate Envelopes—Envelope provided or approved by the Postal Service

○ Dimensional Weight—Applies to parcels in zones local through 9 that exceed one cubic foot

* * *

2105.6 Prices

Retail Priority Mail Express Zone/Weight
Maximum weight (pounds) | Local, Zones 1 & 2 ($) | Zone 3 ($) | Zone 4 ($) | Zone 5 ($) | Zone 6 ($) | Zone 7 ($) | Zone 8 ($) | Zone 9 ($)
0.5 | 25.50 | 25.60 | 26.40 | 29.05 | 31.05 | 32.95 | 35.20 | 47.70
1 | 25.60 | 26.80 | 32.25 | 36.60 | 37.85 | 40.20 | 41.45 | 56.10
2 | 25.70 | 28.65 | 35.25 | 39.95 | 41.65 | 44.05 | 45.55 | 61.80
3 | 25.80 | 30.10 | 39.80 | 47.10 | 49.10 | 52.05 | 53.50 | 72.55
4 | 25.85 | 32.25 | 42.55 | 53.45 | 55.55 | 58.80 | 60.40 | 81.90
5 | 27.05 | 36.20 | 45.40 | 57.20 | 62.45 | 65.40 | 67.15 | 91.00
6 | 30.95 | 41.40 | 52.65 | 65.00 | 68.40 | 71.95 | 74.10 | 100.45
7 | 33.90 | 45.35 | 60.35 | 71.05 | 74.25 | 78.55 | 81.35 | 110.25
8 | 37.25 | 49.75 | 65.35 | 76.50 | 80.65 | 85.25 | 87.55 | 118.70
9 | 38.70 | 51.75 | 67.80 | 81.75 | 86.90 | 91.85 | 94.30 | 127.80
10 | 40.75 | 53.95 | 70.35 | 85.40 | 91.35 | 96.55 | 99.00 | 134.20
11 | 43.25 | 60.55 | 78.90 | 89.85 | 94.25 | 99.45 | 102.00 | 138.30
12 | 45.50 | 64.80 | 83.80 | 94.55 | 98.45 | 104.05 | 106.55 | 144.45
13 | 48.20 | 68.95 | 87.65 | 98.90 | 102.60 | 108.35 | 112.75 | 152.80
14 | 50.40 | 73.25 | 91.10 | 102.70 | 106.90 | 112.90 | 117.35 | 159.15
15 | 52.00 | 77.30 | 94.95 | 107.05 | 111.30 | 117.35 | 122.10 | 165.50
16 | 54.25 | 81.75 | 98.65 | 111.25 | 116.10 | 122.45 | 126.15 | 171.05
17 | 56.35 | 85.95 | 102.40 | 115.25 | 120.00 | 126.45 | 129.70 | 175.80
18 | 58.60 | 90.05 | 106.05 | 119.35 | 124.20 | 130.95 | 134.40 | 182.10
19 | 60.75 | 94.35 | 109.60 | 123.30 | 128.50 | 135.35 | 138.85 | 188.15
20 | 62.05 | 96.65 | 112.95 | 126.85 | 130.95 | 137.95 | 142.25 | 192.85
21 | 64.10 | 103.70 | 117.65 | 132.15 | 138.05 | 145.30 | 149.05 | 202.00
22 | 66.50 | 107.95 | 122.75 | 137.95 | 142.35 | 149.80 | 154.75 | 209.75
23 | 68.50 | 112.10 | 126.30 | 141.90 | 146.75 | 154.40 | 159.25 | 215.85
24 | 71.00 | 116.50 | 130.45 | 146.45 | 151.15 | 159.05 | 162.75 | 220.70
25 | 73.85 | 120.80 | 133.65 | 149.80 | 155.30 | 163.25 | 167.90 | 227.60
26 | 75.50 | 125.15 | 137.40 | 154.15 | 159.65 | 167.85 | 172.65 | 234.10
27 | 77.70 | 129.20 | 141.05 | 158.05 | 163.90 | 172.20 | 177.20 | 240.25
28 | 79.25 | 133.60 | 145.60 | 163.00 | 168.15 | 176.60 | 181.85 | 246.50
29 | 81.70 | 137.75 | 150.35 | 168.30 | 172.50 | 181.15 | 186.30 | 252.55
30 | 84.00 | 142.00 | 155.10 | 173.50 | 177.40 | 186.30 | 192.25 | 260.55
31 | 86.10 | 146.25 | 159.75 | 178.75 | 183.05 | 192.15 | 198.30 | 268.80
32 | 88.40 | 150.70 | 164.60 | 183.95 | 188.35 | 197.70 | 204.20 | 276.85
33 | 91.15 | 154.90 | 169.25 | 189.20 | 193.90 | 203.40 | 210.05 | 284.70
34 | 93.75 | 159.00 | 174.15 | 194.55 | 199.25 | 208.90 | 215.90 | 292.75
35 | 96.10 | 163.30 | 178.75 | 199.45 | 204.60 | 214.40 | 221.80 | 300.65
36 | 98.60 | 167.65 | 183.55 | 204.85 | 210.20 | 220.25 | 227.75 | 308.85
37 | 100.75 | 171.75 | 188.30 | 210.00 | 215.80 | 226.00 | 233.75 | 316.80
38 | 103.10 | 176.20 | 193.05 | 215.30 | 221.15 | 231.55 | 239.50 | 324.75
39 | 105.65 | 180.45 | 197.90 | 220.50 | 226.30 | 236.85 | 245.45 | 332.80
40 | 107.90 | 184.50 | 202.70 | 225.80 | 231.85 | 242.50 | 251.50 | 340.90
41 | 110.00 | 188.85 | 207.40 | 230.90 | 237.45 | 248.40 | 257.35 | 348.75
42 | 111.95 | 193.20 | 212.20 | 236.05 | 243.05 | 254.10 | 263.20 | 356.80
43 | 114.55 | 197.40 | 216.80 | 241.20 | 248.40 | 259.60 | 269.15 | 364.85
44 | 116.65 | 201.70 | 221.65 | 246.45 | 253.75 | 265.15 | 275.00 | 372.75
45 | 118.90 | 206.00 | 226.25 | 251.50 | 259.20 | 270.75 | 281.05 | 380.95
46 | 121.20 | 210.10 | 231.30 | 256.85 | 264.60 | 276.30 | 286.85 | 388.85
47 | 123.75 | 214.35 | 236.00 | 262.00 | 270.10 | 281.95 | 292.80 | 396.85
48 | 125.85 | 218.80 | 240.65 | 267.00 | 275.50 | 287.50 | 298.70 | 404.90
49 | 128.15 | 222.90 | 245.50 | 272.15 | 281.15 | 293.25 | 304.60 | 413.00
50 | 130.85 | 227.30 | 250.25 | 277.50 | 286.40 | 298.65 | 310.50 | 420.90
51 | 133.15 | 231.60 | 255.00 | 282.55 | 291.75 | 304.15 | 315.60 | 427.85
52 | 135.40 | 235.60 | 259.65 | 287.65 | 297.40 | 309.90 | 322.50 | 437.05
53 | 137.65 | 240.05 | 264.50 | 292.80 | 302.85 | 315.45 | 328.35 | 445.10
54 | 140.10 | 244.30 | 269.20 | 297.80 | 308.35 | 321.10 | 334.20 | 453.05
55 | 142.90 | 249.95 | 274.10 | 303.10 | 313.65 | 326.55 | 340.10 | 461.00
56 | 145.85 | 254.30 | 278.75 | 308.10 | 319.05 | 332.15 | 346.00 | 469.10
57 | 148.40 | 258.60 | 283.50 | 313.30 | 324.45 | 337.65 | 351.90 | 476.95
58 | 150.90 | 262.70 | 288.25 | 318.30 | 329.95 | 343.25 | 357.80 | 484.95
59 | 153.00 | 266.95 | 292.90 | 323.40 | 335.55 | 348.85 | 363.70 | 493.00
60 | 155.05 | 271.25 | 297.70 | 328.50 | 340.95 | 354.40 | 369.60 | 501.00
61 | 157.25 | 275.55 | 302.75 | 333.90 | 346.40 | 359.85 | 375.50 | 509.00
62 | 159.70 | 279.75 | 307.35 | 338.75 | 351.75 | 365.40 | 381.55 | 517.15
63 | 162.30 | 283.95 | 312.10 | 343.90 | 357.30 | 371.05 | 387.45 | 525.20
64 | 164.55 | 288.20 | 316.80 | 348.85 | 362.80 | 376.65 | 393.35 | 533.30
65 | 167.35 | 292.45 | 321.55 | 353.90 | 368.20 | 381.95 | 399.25 | 541.15
66 | 170.50 | 296.85 | 326.45 | 359.15 | 373.70 | 387.50 | 405.10 | 549.00
67 | 172.45 | 301.05 | 331.25 | 364.25 | 378.90 | 392.90 | 411.00 | 557.15
68 | 174.70 | 305.25 | 336.00 | 369.20 | 384.60 | 398.65 | 417.10 | 565.40
69 | 177.45 | 309.55 | 340.65 | 374.25 | 389.90 | 404.00 | 422.75 | 573.05
70 | 180.70 | 313.85 | 345.50 | 379.35 | 395.35 | 409.50 | 428.70 | 581.15

Retail Flat Rate Envelope
| ($)
Retail Regular Flat Rate Envelope, per piece | 25.50
Retail Legal Flat Rate Envelope, per piece | 25.70
Retail Padded Flat Rate Envelope, per piece | 26.20

Retail Dimensional Weight

In Zones 1-9 (including local), parcels exceeding one cubic foot are priced at the actual weight or the dimensional weight, whichever is greater.

For box-shaped parcels, the dimensional weight (pounds) is calculated by multiplying the length (inches) times the width (inches) times the height (inches) of the parcel, and dividing by 166.

For irregular-shaped parcels (parcels not appearing box-shaped), the dimensional weight (pounds) is calculated by multiplying the length (inches) times the width (inches) times the height (inches) at the associated maximum cross-sections of the parcel, dividing by 166, and multiplying by an adjustment factor of 0.785.

Commercial Base Zone/Weight
Maximum weight (pounds) | Local, Zones 1 & 2 ($) | Zone 3 ($) | Zone 4 ($) | Zone 5 ($) | Zone 6 ($) | Zone 7 ($) | Zone 8 ($) | Zone 9 ($)
0.5 | 22.68 | 22.73 | 23.49 | 25.56 | 27.38 | 29.10 | 31.08 | 41.67
1 | 22.74 | 23.77 | 28.66 | 32.11 | 33.29 | 35.37 | 36.52 | 49.00
2 | 22.78 | 25.42 | 31.30 | 35.06 | 36.54 | 38.72 | 40.16 | 53.87
3 | 22.83 | 26.65 | 35.26 | 40.43 | 42.22 | 44.76 | 46.10 | 61.80
4 | 22.87 | 28.45 | 37.67 | 45.81 | 47.65 | 50.51 | 51.96 | 69.70
5 | 23.91 | 31.94 | 40.16 | 49.01 | 53.56 | 56.16 | 57.79 | 77.47
6 | 27.34 | 36.55 | 46.52 | 55.65 | 58.61 | 61.67 | 63.69 | 85.41
7 | 29.96 | 40.04 | 53.30 | 60.86 | 63.67 | 67.37 | 69.91 | 93.79
8 | 32.90 | 43.94 | 57.76 | 65.44 | 69.11 | 73.13 | 75.29 | 100.95
9 | 34.19 | 45.67 | 59.90 | 70.00 | 74.47 | 78.79 | 81.06 | 108.72
10 | 35.99 | 47.61 | 62.19 | 73.14 | 78.31 | 82.85 | 85.12 | 114.12
11 | 37.46 | 52.48 | 68.46 | 77.05 | 80.91 | 85.53 | 87.87 | 117.84
12 | 39.47 | 56.16 | 72.75 | 81.13 | 84.56 | 89.44 | 91.78 | 123.09
13 | 41.78 | 59.81 | 76.09 | 84.83 | 88.10 | 93.12 | 97.12 | 130.22
14 | 43.70 | 63.49 | 79.08 | 88.13 | 91.81 | 97.04 | 101.11 | 135.59
15 | 45.10 | 67.01 | 82.42 | 91.86 | 95.55 | 100.92 | 105.17 | 141.04
16 | 47.07 | 70.85 | 85.67 | 95.41 | 99.69 | 105.26 | 108.69 | 145.77
17 | 48.90 | 74.53 | 88.92 | 98.91 | 103.04 | 108.71 | 111.75 | 149.83
18 | 50.86 | 78.08 | 92.07 | 102.40 | 106.63 | 112.56 | 115.74 | 155.23
19 | 52.66 | 81.76 | 95.21 | 105.85 | 110.34 | 116.36 | 119.60 | 160.38
20 | 54.92 | 85.45 | 99.93 | 111.01 | 114.63 | 120.90 | 124.94 | 167.55
21 | 56.16 | 90.79 | 103.08 | 114.51 | 119.69 | 126.18 | 129.63 | 173.84
22 | 58.25 | 94.59 | 107.60 | 119.48 | 123.49 | 130.09 | 134.63 | 180.54
23 | 59.99 | 98.22 | 110.75 | 122.97 | 127.28 | 134.06 | 138.53 | 185.79
24 | 62.18 | 102.00 | 114.36 | 126.87 | 131.13 | 138.07 | 141.61 | 189.87
25 | 64.69 | 105.80 | 117.10 | 129.83 | 134.69 | 141.75 | 146.05 | 195.84
26 | 66.11 | 109.57 | 120.50 | 133.57 | 138.47 | 145.71 | 150.20 | 201.45
27 | 68.02 | 113.16 | 123.64 | 136.96 | 142.12 | 149.51 | 154.15 | 206.71
28 | 69.39 | 116.94 | 127.58 | 141.29 | 145.82 | 153.37 | 158.20 | 212.15
29 | 71.55 | 120.63 | 131.76 | 145.82 | 149.61 | 157.20 | 162.06 | 217.30
30 | 73.56 | 124.37 | 135.94 | 150.34 | 153.90 | 161.75 | 167.19 | 224.21
31 | 75.38 | 128.10 | 140.03 | 154.88 | 158.77 | 166.78 | 172.48 | 231.32
32 | 77.38 | 131.97 | 144.26 | 159.37 | 163.40 | 171.61 | 177.63 | 238.23
33 | 79.78 | 135.61 | 148.39 | 163.90 | 168.19 | 176.53 | 182.72 | 245.01
34 | 82.08 | 139.25 | 152.66 | 168.56 | 172.83 | 181.38 | 187.80 | 251.85
35 | 84.20 | 143.03 | 156.65 | 172.85 | 177.46 | 186.16 | 192.95 | 258.76
36 | 86.35 | 146.80 | 160.92 | 177.47 | 182.34 | 191.18 | 198.14 | 265.71
37 | 88.22 | 150.45 | 165.05 | 181.94 | 187.15 | 196.18 | 203.32 | 272.66
38 | 90.29 | 154.27 | 169.23 | 186.54 | 191.79 | 201.00 | 208.37 | 279.44
39 | 92.53 | 158.02 | 173.47 | 191.02 | 196.28 | 205.64 | 213.55 | 286.41
40 | 94.50 | 161.60 | 177.71 | 195.64 | 201.05 | 210.58 | 218.74 | 293.36
41 | 96.36 | 165.44 | 181.83 | 200.07 | 205.93 | 215.64 | 223.84 | 300.16
42 | 98.07 | 169.21 | 186.00 | 204.55 | 210.76 | 220.58 | 228.92 | 307.00
43 | 100.33 | 172.85 | 190.09 | 208.98 | 215.43 | 225.38 | 234.12 | 313.95
44 | 102.15 | 176.64 | 194.33 | 213.51 | 220.07 | 230.20 | 239.21 | 320.80
45 | 104.12 | 180.41 | 198.35 | 217.89 | 224.80 | 235.08 | 244.45 | 327.80
46 | 106.16 | 184.02 | 202.79 | 222.57 | 229.50 | 239.88 | 249.54 | 334.64
47 | 108.38 | 187.79 | 206.85 | 227.01 | 234.22 | 244.75 | 254.68 | 341.55
48 | 110.24 | 191.63 | 210.94 | 231.32 | 238.95 | 249.60 | 259.82 | 348.45
49 | 112.20 | 195.21 | 215.18 | 235.82 | 243.83 | 254.61 | 265.00 | 355.40
50 | 114.61 | 199.03 | 219.41 | 240.44 | 248.37 | 259.26 | 270.10 | 362.20
51 | 116.61 | 202.83 | 223.54 | 244.83 | 253.04 | 264.05 | 274.55 | 368.17
52 | 118.63 | 206.36 | 227.61 | 249.20 | 257.93 | 269.02 | 280.47 | 376.15
53 | 120.53 | 210.20 | 231.89 | 253.69 | 262.66 | 273.91 | 285.61 | 382.99
54 | 122.70 | 213.99 | 235.98 | 258.06 | 267.38 | 278.74 | 290.71 | 389.85
55 | 125.14 | 218.89 | 240.30 | 262.65 | 272.06 | 283.48 | 295.79 | 396.70
56 | 127.74 | 222.72 | 244.38 | 266.98 | 276.74 | 288.32 | 300.98 | 403.64
57 | 129.95 | 226.45 | 248.56 | 271.45 | 281.42 | 293.14 | 306.08 | 410.44
58 | 132.16 | 230.05 | 252.69 | 275.78 | 286.20 | 297.98 | 311.22 | 417.33
59 | 133.98 | 233.77 | 256.82 | 280.21 | 291.04 | 302.85 | 316.35 | 424.22
60 | 135.80 | 237.51 | 261.01 | 284.64 | 295.72 | 307.65 | 321.50 | 431.12
61 | 137.70 | 241.34 | 265.38 | 289.27 | 300.45 | 312.44 | 326.63 | 438.03
62 | 139.85 | 244.97 | 269.42 | 293.50 | 305.09 | 317.16 | 331.87 | 445.04
63 | 142.16 | 248.67 | 273.60 | 297.93 | 309.86 | 322.10 | 337.06 | 451.98
64 | 144.06 | 252.40 | 277.72 | 302.26 | 314.64 | 326.92 | 342.20 | 458.89
65 | 146.51 | 256.14 | 281.87 | 306.66 | 319.33 | 331.62 | 347.24 | 465.68
66 | 149.27 | 259.98 | 286.14 | 311.18 | 324.05 | 336.46 | 352.34 | 472.46
67 | 151.00 | 263.59 | 290.37 | 315.62 | 328.64 | 341.09 | 357.53 | 479.43
68 | 152.99 | 267.34 | 294.50 | 319.89 | 333.58 | 346.12 | 362.81 | 486.54
69 | 155.41 | 271.12 | 298.62 | 324.28 | 338.15 | 350.76 | 367.71 | 493.11
70 | 158.24 | 274.86 | 302.86 | 328.65 | 342.92 | 355.54 | 372.90 | 500.07

Commercial Base Flat Rate Envelope
| ($)
Commercial Base Regular Flat Rate Envelope, per piece | 22.68
Commercial Base Legal Flat Rate Envelope, per piece | 22.80
Commercial Base Padded Flat Rate Envelope, per piece | 23.18

Commercial Base Dimensional Weight

In Zones 1-9 (including local), parcels exceeding one cubic foot are priced at the actual weight or the dimensional weight, whichever is greater.

For box-shaped parcels, the dimensional weight (pounds) is calculated by multiplying the length (inches) times the width (inches) times the height (inches) of the parcel, and dividing by 166.

For irregular-shaped parcels (parcels not appearing box-shaped), the dimensional weight (pounds) is calculated by multiplying the length (inches) times the width (inches) times the height (inches) at the associated maximum cross-sections of the parcel, dividing by 166, and multiplying by an adjustment factor of 0.785.

Commercial Plus Zone/Weight
Maximum weight (pounds) | Local, Zones 1 & 2 ($) | Zone 3 ($) | Zone 4 ($) | Zone 5 ($) | Zone 6 ($) | Zone 7 ($) | Zone 8 ($) | Zone 9 ($)
0.5 | 22.68 | 22.73 | 23.49 | 25.56 | 27.38 | 29.10 | 31.08 | 41.67
1 | 22.74 | 23.77 | 28.66 | 32.11 | 33.29 | 35.37 | 36.52 | 49.00
2 | 22.78 | 25.42 | 31.30 | 35.06 | 36.54 | 38.72 | 40.16 | 53.87
3 | 22.83 | 26.65 | 35.26 | 40.43 | 42.22 | 44.76 | 46.10 | 61.80
4 | 22.87 | 28.45 | 37.67 | 45.81 | 47.65 | 50.51 | 51.96 | 69.70
5 | 23.91 | 31.94 | 40.16 | 49.01 | 53.56 | 56.16 | 57.79 | 77.47
6 | 27.34 | 36.55 | 46.52 | 55.65 | 58.61 | 61.67 | 63.69 | 85.41
7 | 29.96 | 40.04 | 53.30 | 60.86 | 63.67 | 67.37 | 69.91 | 93.79
8 | 32.90 | 43.94 | 57.76 | 65.44 | 69.11 | 73.13 | 75.29 | 100.95
9 | 34.19 | 45.67 | 59.90 | 70.00 | 74.47 | 78.79 | 81.06 | 108.72
10 | 35.99 | 47.61 | 62.19 | 73.14 | 78.31 | 82.85 | 85.12 | 114.12
11 | 37.46 | 52.48 | 68.46 | 77.05 | 80.91 | 85.53 | 87.87 | 117.84
12 | 39.47 | 56.16 | 72.75 | 81.13 | 84.56 | 89.44 | 91.78 | 123.09
13 | 41.78 | 59.81 | 76.09 | 84.83 | 88.10 | 93.12 | 97.12 | 130.22
14 | 43.70 | 63.49 | 79.08 | 88.13 | 91.81 | 97.04 | 101.11 | 135.59
15 | 45.10 | 67.01 | 82.42 | 91.86 | 95.55 | 100.92 | 105.17 | 141.04
16 | 47.07 | 70.85 | 85.67 | 95.41 | 99.69 | 105.26 | 108.69 | 145.77
17 | 48.90 | 74.53 | 88.92 | 98.91 | 103.04 | 108.71 | 111.75 | 149.83
18 | 50.86 | 78.08 | 92.07 | 102.40 | 106.63 | 112.56 | 115.74 | 155.23
19 | 52.66 | 81.76 | 95.21 | 105.85 | 110.34 | 116.36 | 119.60 | 160.38
20 | 54.92 | 85.45 | 99.93 | 111.01 | 114.63 | 120.90 | 124.94 | 167.55
21 | 56.16 | 90.79 | 103.08 | 114.51 | 119.69 | 126.18 | 129.63 | 173.84
22 | 58.25 | 94.59 | 107.60 | 119.48 | 123.49 | 130.09 | 134.63 | 180.54
23 | 59.99 | 98.22 | 110.75 | 122.97 | 127.28 | 134.06 | 138.53 | 185.79
24 | 62.18 | 102.00 | 114.36 | 126.87 | 131.13 | 138.07 | 141.61 | 189.87
25 | 64.69 | 105.80 | 117.10 | 129.83 | 134.69 | 141.75 | 146.05 | 195.84
26 | 66.11 | 109.57 | 120.50 | 133.57 | 138.47 | 145.71 | 150.20 | 201.45
27 | 68.02 | 113.16 | 123.64 | 136.96 | 142.12 | 149.51 | 154.15 | 206.71
28 | 69.39 | 116.94 | 127.58 | 141.29 | 145.82 | 153.37 | 158.20 | 212.15
29 | 71.55 | 120.63 | 131.76 | 145.82 | 149.61 | 157.20 | 162.06 | 217.30
30 | 73.56 | 124.37 | 135.94 | 150.34 | 153.90 | 161.75 | 167.19 | 224.21
31 | 75.38 | 128.10 | 140.03 | 154.88 | 158.77 | 166.78 | 172.48 | 231.32
32 | 77.38 | 131.97 | 144.26 | 159.37 | 163.40 | 171.61 | 177.63 | 238.23
33 | 79.78 | 135.61 | 148.39 | 163.90 | 168.19 | 176.53 | 182.72 | 245.01
34 | 82.08 | 139.25 | 152.66 | 168.56 | 172.83 | 181.38 | 187.80 | 251.85
35 | 84.20 | 143.03 | 156.65 | 172.85 | 177.46 | 186.16 | 192.95 | 258.76
36 | 86.35 | 146.80 | 160.92 | 177.47 | 182.34 | 191.18 | 198.14 | 265.71
37 | 88.22 | 150.45 | 165.05 | 181.94 | 187.15 | 196.18 | 203.32 | 272.66
38 | 90.29 | 154.27 | 169.23 | 186.54 | 191.79 | 201.00 | 208.37 | 279.44
39 | 92.53 | 158.02 | 173.47 | 191.02 | 196.28 | 205.64 | 213.55 | 286.41
40 | 94.50 | 161.60 | 177.71 | 195.64 | 201.05 | 210.58 | 218.74 | 293.36
41 | 96.36 | 165.44 | 181.83 | 200.07 | 205.93 | 215.64 | 223.84 | 300.16
42 | 98.07 | 169.21 | 186.00 | 204.55 | 210.76 | 220.58 | 228.92 | 307.00
43 | 100.33 | 172.85 | 190.09 | 208.98 | 215.43 | 225.38 | 234.12 | 313.95
44 | 102.15 | 176.64 | 194.33 | 213.51 | 220.07 | 230.20 | 239.21 | 320.80
45 | 104.12 | 180.41 | 198.35 | 217.89 | 224.80 | 235.08 | 244.45 | 327.80
46 | 106.16 | 184.02 | 202.79 | 222.57 | 229.50 | 239.88 | 249.54 | 334.64
47 | 108.38 | 187.79 | 206.85 | 227.01 | 234.22 | 244.75 | 254.68 | 341.55
48 | 110.24 | 191.63 | 210.94 | 231.32 | 238.95 | 249.60 | 259.82 | 348.45
49 | 112.20 | 195.21 | 215.18 | 235.82 | 243.83 | 254.61 | 265.00 | 355.40
50 | 114.61 | 199.03 | 219.41 | 240.44 | 248.37 | 259.26 | 270.10 | 362.20
51 | 116.61 | 202.83 | 223.54 | 244.83 | 253.04 | 264.05 | 274.55 | 368.17
52 | 118.63 | 206.36 | 227.61 | 249.20 | 257.93 | 269.02 | 280.47 | 376.15
53 | 120.53 | 210.20 | 231.89 | 253.69 | 262.66 | 273.91 | 285.61 | 382.99
54 | 122.70 | 213.99 | 235.98 | 258.06 | 267.38 | 278.74 | 290.71 | 389.85
55 | 125.14 | 218.89 | 240.30 | 262.65 | 272.06 | 283.48 | 295.79 | 396.70
56 | 127.74 | 222.72 | 244.38 | 266.98 | 276.74 | 288.32 | 300.98 | 403.64
57 | 129.95 | 226.45 | 248.56 | 271.45 | 281.42 | 293.14 | 306.08 | 410.44
58 | 132.16 | 230.05 | 252.69 | 275.78 | 286.20 | 297.98 | 311.22 | 417.33
59 | 133.98 | 233.77 | 256.82 | 280.21 | 291.04 | 302.85 | 316.35 | 424.22
60 | 135.80 | 237.51 | 261.01 | 284.64 | 295.72 | 307.65 | 321.50 | 431.12
61 | 137.70 | 241.34 | 265.38 | 289.27 | 300.45 | 312.44 | 326.63 | 438.03
62 | 139.85 | 244.97 | 269.42 | 293.50 | 305.09 | 317.16 | 331.87 | 445.04
63 | 142.16 | 248.67 | 273.60 | 297.93 | 309.86 | 322.10 | 337.06 | 451.98
64 | 144.06 | 252.40 | 277.72 | 302.26 | 314.64 | 326.92 | 342.20 | 458.89
65 | 146.51 | 256.14 | 281.87 | 306.66 | 319.33 | 331.62 | 347.24 | 465.68
66 | 149.27 | 259.98 | 286.14 | 311.18 | 324.05 | 336.46 | 352.34 | 472.46
67 | 151.00 | 263.59 | 290.37 | 315.62 | 328.64 | 341.09 | 357.53 | 479.43
68 | 152.99 | 267.34 | 294.50 | 319.89 | 333.58 | 346.12 | 362.81 | 486.54
69 | 155.41 | 271.12 | 298.62 | 324.28 | 338.15 | 350.76 | 367.71 | 493.11
70 | 158.24 | 274.86 | 302.86 | 328.65 | 342.92 | 355.54 | 372.90 | 500.07

Commercial Plus Flat Rate Envelope
| ($)
Commercial Plus Regular Flat Rate Envelope, per piece | 22.68
Commercial Plus Legal Flat Rate Envelope, per piece | 22.80
Commercial Plus Padded Flat Rate Envelope, per piece | 23.18

Commercial Plus Dimensional Weight

In Zones 1-9 (including local), parcels exceeding one cubic foot are priced at the actual weight or the dimensional weight, whichever is greater.

For box-shaped parcels, the dimensional weight (pounds) is calculated by multiplying the length (inches) times the width (inches) times the height (inches) of the parcel, and dividing by 166.

For irregular-shaped parcels (parcels not appearing box-shaped), the dimensional weight (pounds) is calculated by multiplying the length (inches) times the width (inches) times the height (inches) at the associated maximum cross-sections of the parcel, dividing by 166, and multiplying by an adjustment factor of 0.785.

2110 Priority Mail

* * *

2110.2 Size and Weight Limitations

| Length | Height | Thickness | Weight
Minimum | large enough to accommodate postage, address, and other required elements on the address side |  |  | none.
Maximum |  |  |  | 70 pounds.¹
Flat Rate Envelope | Nominal Sizes:
| Regular: 9.5 x 12.5 inches
| Padded: 10 x 13 inches
| Legal: 9.5 x 15.0 inches
Flat Rate Box | Nominal Sizes:
| Large: 12 x 12 x 5.5 inches or 11.75 x 3 x 23.6875 inches—approximately ½ cu. ft
| Medium: 11.875 x 3.375 x 13.625 inches or 11 x 8.5 x 5.5 inches—approximately ⅓ cu. ft
| Small: 8.625 x 5.375 x 1.625 inches—approximately 1/20 cu. ft
Regional Rate Box A | Outside Dimensions: |  |  | 15 pounds.
| Top Loaded: 10.125 x 7.125 x 5.0 inches
| Side Loaded: 13.0625 x 11.0625 x 2.5 inches
Regional Rate Box B | Outside Dimensions: |  |  | 20 pounds.
| Top Loaded: 12.25 x 10.5 x 5.5 inches
| Side Loaded: 16.25 x 14.5 x 3 inches
Commercial Plus Cubic | Various, not to exceed 0.1, 0.2, 0.3, 0.4, or 0.5 cubic feet |  |  | 20 pounds.
Open and Distribute | Half Tray: 15 x 11.75 x 4.75 inches |  |  | 70 pounds.¹
| Full Tray: 25.875 x 11.75 x 4.75 inches
| EMM Tray: 12.375 x 6.4375 x 25.25 inches
| Flat Tub: 19.375 x 13.8125 x 12.25 inches
All Others | 108 inches in combined length and girth |  |  | 70 pounds.¹
¹ An overweight item charge, as described in the Domestic Mail Manual, applies to pieces found in the postal network that exceed the 70-pound maximum weight limitation. Such items are nonmailable and will not be delivered.

* * *

BILLING CODE 7710-12-P

* * *

BILLING CODE 7710-12-C

2110.6 Prices

Retail Priority Mail Zone/Weight
Maximum weight (pounds) | Local, Zones 1 & 2 ($) | Zone 3 ($) | Zone 4 ($) | Zone 5 ($) | Zone 6 ($) | Zone 7 ($) | Zone 8 ($) | Zone 9 ($)
1 | 7.35 | 7.70 | 7.85 | 8.00 | 8.20 | 8.60 | 9.30 | 12.20
2 | 7.85 | 8.30 | 9.45 | 10.40 | 11.20 | 13.00 | 14.20 | 19.40
3 | 8.30 | 9.25 | 10.50 | 11.95 | 12.60 | 16.10 | 19.05 | 25.95
4 | 8.75 | 10.15 | 11.10 | 13.40 | 16.45 | 19.80 | 22.05 | 30.05
5 | 9.80 | 10.85 | 11.60 | 13.70 | 18.70 | 22.70 | 25.45 | 34.80
6 | 10.55 | 11.10 | 12.30 | 14.95 | 20.80 | 24.65 | 27.80 | 39.25
7 | 11.50 | 12.60 | 14.80 | 18.05 | 23.05 | 27.65 | 31.30 | 44.15
8 | 11.85 | 13.95 | 16.45 | 21.70 | 26.15 | 30.60 | 35.00 | 49.40
9 | 12.30 | 15.05 | 18.20 | 24.75 | 28.45 | 33.05 | 38.95 | 54.95
10 | 13.10 | 16.15 | 19.60 | 26.85 | 30.75 | 36.35 | 42.45 | 59.90
11 | 13.95 | 17.30 | 21.05 | 29.00 | 33.00 | 40.15 | 46.60 | 66.30
12 | 15.20 | 18.55 | 22.60 | 31.05 | 35.90 | 43.40 | 50.00 | 71.15
13 | 16.10 | 19.65 | 23.90 | 32.80 | 38.55 | 45.15 | 51.80 | 73.70
14 | 17.10 | 20.90 | 25.40 | 34.90 | 40.70 | 47.70 | 54.40 | 77.40
15 | 17.80 | 22.05 | 26.85 | 36.90 | 42.45 | 48.75 | 55.90 | 79.60
16 | 18.30 | 23.25 | 28.30 | 38.95 | 44.80 | 51.45 | 59.00 | 83.95
17 | 19.15 | 24.50 | 29.80 | 41.00 | 47.10 | 54.20 | 62.10 | 88.40
18 | 19.50 | 25.35 | 31.05 | 43.00 | 49.60 | 56.80 | 65.30 | 92.90
19 | 20.05 | 25.95 | 31.75 | 44.20 | 50.55 | 58.05 | 66.65 | 97.30
20 | 20.90 | 26.25 | 32.25 | 44.90 | 51.75 | 60.10 | 69.75 | 101.80
21 | 21.60 | 26.60 | 32.70 | 45.60 | 52.65 | 61.10 | 71.35 | 104.95
22 | 22.10 | 27.20 | 33.50 | 46.70 | 53.80 | 62.60 | 73.05 | 107.55
23 | 22.60 | 27.75 | 34.05 | 47.45 | 54.80 | 63.80 | 74.35 | 109.40
24 | 23.15 | 28.30 | 34.85 | 48.50 | 55.95 | 65.40 | 76.20 | 112.15
25 | 23.35 | 28.80 | 36.25 | 49.30 | 56.65 | 67.05 | 77.45 | 113.95
26 | 24.30 | 29.35 | 37.60 | 50.30 | 58.05 | 68.70 | 79.90 | 117.60
27 | 25.05 | 29.75 | 38.75 | 51.30 | 58.90 | 70.30 | 82.90 | 122.00
28 | 25.80 | 30.15 | 39.90 | 52.60 | 59.65 | 71.90 | 86.00 | 126.60
29 | 26.60 | 30.50 | 40.90 | 53.35 | 60.70 | 73.55 | 88.35 | 130.00
30 | 27.40 | 30.90 | 41.85 | 54.10 | 62.35 | 75.25 | 90.25 | 132.85
31 | 28.20 | 31.20 | 42.55 | 54.80 | 63.30 | 76.85 | 92.05 | 136.60
32 | 28.50 | 31.90 | 43.25 | 55.40 | 64.10 | 78.50 | 93.95 | 139.40
33 | 29.00 | 32.75 | 44.35 | 56.15 | 65.35 | 80.15 | 95.70 | 142.05
34 | 29.25 | 33.65 | 45.45 | 57.35 | 66.85 | 81.80 | 97.50 | 144.65
35 | 29.55 | 34.45 | 46.05 | 58.60 | 68.65 | 83.40 | 99.10 | 147.10
36 | 29.85 | 35.40 | 46.70 | 59.80 | 70.45 | 84.55 | 100.85 | 149.60
37 | 30.15 | 36.05 | 47.35 | 60.90 | 72.25 | 85.65 | 102.50 | 152.10
38 | 30.50 | 36.95 | 47.95 | 62.10 | 74.25 | 86.70 | 104.15 | 154.55
39 | 30.80 | 37.80 | 48.55 | 63.40 | 76.05 | 88.90 | 105.70 | 156.85
40 | 31.15 | 38.60 | 49.20 | 64.75 | 77.25 | 90.90 | 107.20 | 159.05
41 | 31.45 | 39.35 | 49.75 | 65.35 | 78.50 | 92.85 | 108.75 | 162.60
42 | 31.70 | 40.05 | 50.30 | 66.75 | 79.90 | 94.05 | 110.20 | 164.85
43 | 32.10 | 40.70 | 50.75 | 68.25 | 81.85 | 95.25 | 111.60 | 166.90
44 | 32.30 | 41.35 | 51.40 | 69.65 | 83.15 | 96.35 | 112.90 | 168.95
45 | 32.50 | 41.80 | 51.75 | 71.25 | 84.05 | 97.45 | 114.35 | 171.05
46 | 32.75 | 42.10 | 52.30 | 72.55 | 84.95 | 98.50 | 115.70 | 173.15
47 | 33.05 | 42.50 | 52.80 | 74.20 | 85.90 | 99.60 | 117.00 | 174.95
48 | 33.35 | 42.85 | 53.30 | 75.65 | 87.05 | 100.55 | 118.25 | 176.85
49 | 33.55 | 43.15 | 53.70 | 77.05 | 88.20 | 101.60 | 119.45 | 178.65
50 | 33.70 | 43.40 | 54.10 | 78.55 | 89.35 | 102.90 | 120.65 | 180.50
51 | 33.85 | 43.85 | 54.60 | 79.85 | 90.60 | 104.40 | 121.75 | 183.60
52 | 34.25 | 44.10 | 54.95 | 80.50 | 91.55 | 105.95 | 123.20 | 185.85
53 | 34.85 | 44.40 | 55.30 | 81.15 | 92.30 | 107.65 | 124.80 | 188.25
54 | 35.30 | 44.60 | 55.70 | 81.80 | 93.00 | 109.25 | 126.60 | 190.85
55 | 35.90 | 44.90 | 56.00 | 82.40 | 93.70 | 110.95 | 128.25 | 193.45
56 | 36.40 | 45.20 | 56.30 | 82.95 | 94.35 | 112.55 | 129.45 | 195.20
57 | 36.90 | 45.35 | 56.65 | 83.40 | 95.05 | 114.25 | 130.40 | 196.65
58 | 37.50 | 45.55 | 57.00 | 84.00 | 95.60 | 115.80 | 131.40 | 198.10
59 | 38.10 | 45.75 | 57.30 | 84.50 | 96.15 | 116.50 | 132.45 | 199.70
60 | 38.60 | 45.95 | 57.85 | 84.90 | 96.65 | 117.20 | 133.25 | 201.00
61 | 39.15 | 46.15 | 58.90 | 85.35 | 97.20 | 117.85 | 135.10 | 203.80
62 | 39.60 | 46.25 | 59.60 | 85.80 | 97.70 | 118.40 | 137.30 | 207.00
63 | 40.35 | 46.50 | 60.60 | 86.20 | 98.20 | 118.95 | 139.50 | 210.35
64 | 40.75 | 46.65 | 61.50 | 86.60 | 98.60 | 119.55 | 141.55 | 213.50
65 | 41.30 | 46.75 | 62.30 | 86.90 | 98.95 | 120.10 | 143.85 | 216.90
66 | 41.80 | 46.95 | 63.30 | 87.30 | 99.40 | 120.50 | 145.85 | 220.00
67 | 42.50 | 47.05 | 64.40 | 87.60 | 99.70 | 121.00 | 147.80 | 222.85
68 | 43.00 | 47.15 | 65.20 | 87.80 | 100.95 | 121.45 | 149.40 | 225.30
69 | 43.55 | 47.20 | 66.00 | 88.05 | 102.20 | 121.75 | 151.00 | 227.65
70 | 44.05 | 47.30 | 67.05 | 88.35 | 103.45 | 122.20 | 152.65 | 230.10

Retail Flat Rate Envelopes ¹
| ($)
Retail Regular Flat Rate Envelope, per piece | 7.35
Retail Legal Flat Rate Envelope, per piece | 7.65
Retail Padded Flat Rate Envelope, per piece | 8.00
Notes
1. The price for Regular, Legal, or Padded Flat Rate Envelopes also applies to sales of Regular, Legal, or Padded Flat Rate Envelopes, respectively, marked with Forever postage, at the time the envelopes are purchased.

Retail Flat Rate Boxes ¹
Size | Delivery to domestic address ($) | Delivery to APO/FPO/DPO address ($)
Small Flat Rate Box | 7.90 | 7.90
Medium Flat Rate Boxes | 14.35 | 14.35
Large Flat Rate Boxes | 19.95 | 18.45
Notes
1. The price for Small, Medium, or Large Flat Rate Boxes also applies to sales of Small, Medium, or Large Flat Rate Boxes, respectively, marked with Forever postage, at the time the boxes are purchased.

Regional Rate Boxes
Size | Local, Zones 1 & 2 ($) | Zone 3 ($) | Zone 4 ($) | Zone 5 ($) | Zone 6 ($) | Zone 7 ($) | Zone 8 ($) | Zone 9 ($)
A | 9.95 | 10.15 | 10.42 | 11.06 | 12.30 | 12.85 | 13.50 | 17.94
B | 10.35 | 10.80 | 11.70 | 12.95 | 18.45 | 20.77 | 23.33 | 32.03

Commercial Base Priority Mail Zone/Weight
Maximum weight (pounds) | Local, Zones 1 & 2 ($) | Zone 3 ($) | Zone 4 ($) | Zone 5 ($) | Zone 6 ($) | Zone 7 ($) | Zone 8 ($) | Zone 9 ($)
1 | 6.95 | 7.28 | 7.49 | 7.65 | 7.82 | 7.99 | 8.25 | 9.91
2 | 7.42 | 7.61 | 7.88 | 8.50 | 9.70 | 10.23 | 10.86 | 15.17
3 | 7.61 | 7.99 | 8.34 | 9.26 | 11.80 | 13.10 | 15.28 | 20.58
4 | 7.71 | 8.20 | 8.81 | 10.03 | 13.75 | 15.59 | 17.61 | 24.78
5 | 7.81 | 8.25 | 9.12 | 10.33 | 15.67 | 17.92 | 20.40 | 28.84
6 | 7.91 | 8.29 | 9.22 | 13.77 | 17.93 | 20.83 | 23.81 | 33.05
7 | 8.15 | 9.41 | 9.46 | 15.43 | 19.86 | 23.48 | 26.75 | 37.11
8 | 8.20 | 9.87 | 11.16 | 16.84 | 21.82 | 25.85 | 30.04 | 41.66
9 | 9.01 | 10.25 | 11.62 | 18.06 | 23.74 | 28.00 | 33.40 | 46.33
10 | 9.38 | 10.67 | 11.69 | 19.51 | 25.64 | 30.79 | 36.32 | 50.38
11 | 10.67 | 12.77 | 13.69 | 21.31 | 27.52 | 33.51 | 39.34 | 55.04
12 | 11.32 | 13.58 | 15.93 | 22.81 | 30.01 | 36.23 | 42.20 | 59.01
13 | 11.91 | 14.36 | 16.68 | 24.03 | 32.21 | 37.69 | 43.69 | 61.12
14 | 12.52 | 15.15 | 17.57 | 25.43 | 34.02 | 39.79 | 45.86 | 64.15
15 | 13.01 | 15.94 | 18.42 | 26.74 | 35.33 | 40.56 | 47.06 | 65.84
16 | 13.45 | 16.79 | 19.42 | 28.07 | 37.34 | 42.84 | 49.65 | 69.46
17 | 13.88 | 17.57 | 20.35 | 29.44 | 39.23 | 45.07 | 52.29 | 73.12
18 | 14.15 | 18.11 | 21.26 | 30.76 | 41.31 | 47.29 | 54.91 | 76.81
19 | 14.48 | 18.53 | 21.75 | 31.57 | 43.16 | 49.49 | 57.51 | 80.45
20 | 15.05 | 18.82 | 22.19 | 32.15 | 44.28 | 51.34 | 60.18 | 84.16
21 | 15.71 | 19.27 | 22.70 | 32.72 | 44.63 | 51.82 | 60.95 | 85.96
22 | 16.21 | 19.79 | 23.46 | 33.37 | 44.93 | 52.22 | 61.65 | 86.96
23 | 16.69 | 20.26 | 24.02 | 33.98 | 45.18 | 52.58 | 62.02 | 87.47
24 | 17.37 | 21.12 | 25.38 | 35.32 | 46.13 | 53.95 | 63.53 | 89.61
25 | 18.04 | 21.87 | 26.99 | 36.50 | 46.81 | 55.30 | 64.64 | 91.15
26 | 19.13 | 23.45 | 29.81 | 38.45 | 47.95 | 56.66 | 66.66 | 94.00
27 | 20.27 | 24.50 | 31.63 | 41.91 | 48.60 | 57.98 | 69.16 | 97.56
28 | 20.89 | 24.83 | 32.52 | 43.00 | 49.26 | 59.33 | 71.76 | 101.22
29 | 21.53 | 25.08 | 33.40 | 43.57 | 50.08 | 60.69 | 73.69 | 103.92
30 | 22.17 | 25.45 | 34.19 | 44.17 | 51.49 | 62.02 | 75.27 | 106.17
31 | 22.79 | 25.70 | 34.72 | 44.73 | 52.23 | 63.39 | 76.81 | 109.22
32 | 23.06 | 26.24 | 35.30 | 45.25 | 52.92 | 64.76 | 78.38 | 111.44
33 | 23.41 | 26.97 | 36.18 | 45.85 | 53.94 | 66.09 | 79.82 | 113.50
34 | 23.63 | 27.67 | 37.09 | 46.84 | 55.22 | 67.45 | 81.32 | 115.65
35 | 23.89 | 28.33 | 37.63 | 47.83 | 56.70 | 68.80 | 82.72 | 117.62
36 | 24.19 | 29.15 | 38.12 | 48.87 | 58.13 | 69.74 | 84.12 | 119.63
37 | 24.44 | 29.69 | 38.67 | 49.74 | 59.65 | 70.63 | 85.50 | 121.60
38 | 24.68 | 30.41 | 39.16 | 50.73 | 61.31 | 71.44 | 86.86 | 123.54
39 | 24.92 | 31.12 | 39.61 | 51.78 | 62.76 | 73.32 | 88.21 | 125.45
40 | 25.18 | 31.78 | 40.12 | 52.86 | 63.77 | 74.96 | 89.41 | 127.15
41 | 25.45 | 32.31 | 40.55 | 53.33 | 64.84 | 76.56 | 90.70 | 130.01
42 | 25.64 | 32.55 | 40.91 | 54.22 | 65.98 | 77.61 | 91.94 | 131.78
43 | 25.93 | 32.79 | 41.27 | 55.12 | 67.56 | 78.57 | 93.12 | 133.47
44 | 26.11 | 33.03 | 41.63 | 56.01 | 68.64 | 79.50 | 94.17 | 135.01
45 | 26.28 | 33.26 | 42.00 | 56.91 | 69.39 | 80.36 | 95.36 | 136.71
46 | 26.51 | 33.50 | 42.36 | 57.80 | 70.17 | 81.23 | 96.51 | 138.34
47 | 26.71 | 33.74 | 42.72 | 58.70 | 70.90 | 82.16 | 97.58 | 139.89
48 | 26.93 | 33.98 | 43.08 | 59.59 | 71.81 | 82.94 | 98.62 | 141.41
49 | 27.14 | 34.21 | 43.45 | 60.49 | 72.79 | 83.81 | 99.62 | 142.79
50 | 27.25 | 34.45 | 43.81 | 61.38 | 73.81 | 84.88 | 100.66 | 144.32
51 | 27.65 | 34.69 | 44.16 | 62.43 | 74.82 | 86.09 | 101.60 | 146.83
52 | 28.07 | 34.93 | 44.52 | 62.87 | 75.55 | 87.39 | 102.80 | 148.54
53 | 28.59 | 35.16 | 44.89 | 63.38 | 76.19 | 88.82 | 104.11 | 150.44
54 | 29.00 | 35.41 | 45.24 | 63.93 | 76.73 | 90.09 | 105.57 | 152.55
55 | 29.46 | 35.64 | 45.61 | 64.34 | 77.36 | 91.52 | 106.99 | 154.60
56 | 29.86 | 35.88 | 45.97 | 64.82 | 77.88 | 92.81 | 108.08 | 156.20
57 | 30.34 | 36.11 | 46.34 | 65.21 | 78.47 | 94.22 | 109.04 | 157.60
58 | 30.79 | 36.35 | 46.69 | 65.62 | 78.93 | 95.47 | 109.94 | 158.87
59 | 31.23 | 36.59 | 47.05 | 66.02 | 79.38 | 96.12 | 110.75 | 160.06
60 | 31.63 | 36.82 | 47.41 | 66.38 | 79.78 | 96.68 | 111.54 | 161.18
61 | 32.14 | 37.06 | 47.78 | 66.72 | 80.22 | 97.24 | 113.04 | 163.37
62 | 32.53 | 37.30 | 48.13 | 67.01 | 80.60 | 97.67 | 114.84 | 165.95
63 | 33.12 | 37.54 | 48.50 | 67.36 | 81.06 | 98.14 | 116.68 | 168.61
64 | 33.41 | 37.77 | 48.86 | 67.66 | 81.42 | 98.59 | 118.47 | 171.21
65 | 33.90 | 38.01 | 49.23 | 67.87 | 81.65 | 99.08 | 120.32 | 173.89
66 | 34.34 | 38.25 | 49.58 | 68.18 | 82.07 | 99.38 | 122.07 | 176.41
67 | 34.85 | 38.49 | 50.42 | 68.42 | 82.33 | 99.78 | 123.69 | 178.73
68 | 35.26 | 38.72 | 51.06 | 68.61 | 83.36 | 100.30 | 125.00 | 180.63
69 | 35.74 | 38.96 | 51.71 | 68.81 | 84.36 | 100.77 | 126.32 | 182.56
70 | 36.11 | 39.20 | 52.52 | 69.03 | 85.38 | 101.13 | 127.68 | 184.51

Commercial Base Flat Rate Box
Size | Delivery to domestic address ($) | Delivery to APO/FPO/DPO address ($)
Small Flat Rate Box | 7.50 | 7.50
Regular Flat Rate Boxes | 12.80 | 12.80
Large Flat Rate Boxes | 17.60 | 16.10

Commercial Base Regional Rate Boxes
Size | Local, Zones 1 & 2 ($) | Zone 3 ($) | Zone 4 ($) | Zone 5 ($) | Zone 6 ($) | Zone 7 ($) | Zone 8 ($) | Zone 9 ($)
A | 7.65 | 7.85 | 8.12 | 8.76 | 10.00 | 10.55 | 11.20 | 15.64
B | 8.05 | 8.50 | 9.40 | 10.65 | 16.15 | 18.47 | 21.03 | 29.73

Commercial Plus Priority Mail Zone/Weight
Maximum weight (pounds) | Local, Zones 1 & 2 ($) | Zone 3 ($) | Zone 4 ($) | Zone 5 ($) | Zone 6 ($) | Zone 7 ($) | Zone 8 ($) | Zone 9 ($)
0.5 | 6.95 | 7.28 | 7.49 | 7.65 | 7.82 | 7.99 | 8.25 | 9.91
1 | 6.95 | 7.28 | 7.49 | 7.65 | 7.82 | 7.99 | 8.25 | 9.91
2 | 7.42 | 7.61 | 7.88 | 8.50 | 9.70 | 10.23 | 10.86 | 15.17
3 | 7.61 | 7.99 | 8.34 | 9.26 | 11.80 | 13.10 | 15.28 | 20.58
4 | 7.71 | 8.20 | 8.81 | 10.03 | 13.75 | 15.59 | 17.61 | 24.78
5 | 7.81 | 8.25 | 9.12 | 10.33 | 15.67 | 17.92 | 20.40 | 28.84
6 | 7.91 | 8.29 | 9.22 | 13.77 | 17.93 | 20.83 | 23.81 | 33.05
7 | 8.15 | 9.41 | 9.46 | 15.43 | 19.86 | 23.48 | 26.75 | 37.11
8 | 8.20 | 9.87 | 11.16 | 16.84 | 21.82 | 25.85 | 30.04 | 41.66
9 | 9.01 | 10.25 | 11.62 | 18.06 | 23.74 | 28.00 | 33.40 | 46.33
10 | 9.38 | 10.67 | 11.69 | 19.51 | 25.64 | 30.79 | 36.32 | 50.38
11 | 10.67 | 12.77 | 13.69 | 21.31 | 27.52 | 33.51 | 39.34 | 55.04
12 | 11.32 | 13.58 | 15.93 | 22.81 | 30.01 | 36.23 | 42.20 | 59.01
13 | 11.91 | 14.36 | 16.68 | 24.03 | 32.21 | 37.69 | 43.69 | 61.12
14 | 12.52 | 15.15 | 17.57 | 25.43 | 34.02 | 39.79 | 45.86 | 64.15
15 | 13.01 | 15.94 | 18.42 | 26.74 | 35.33 | 40.56 | 47.06 | 65.84
16 | 13.45 | 16.79 | 19.42 | 28.07 | 37.34 | 42.84 | 49.65 | 69.46
17 | 13.88 | 17.57 | 20.35 | 29.44 | 39.23 | 45.07 | 52.29 | 73.12
18 | 14.15 | 18.11 | 21.26 | 30.76 | 41.31 | 47.29 | 54.91 | 76.81
19 | 14.48 | 18.53 | 21.75 | 31.57 | 43.16 | 49.49 | 57.51 | 80.45
20 | 15.05 | 18.82 | 22.19 | 32.15 | 44.28 | 51.34 | 60.18 | 84.16
21 | 15.71 | 19.27 | 22.70 | 32.72 | 44.63 | 51.82 | 60.95 | 85.96
22 | 16.21 | 19.79 | 23.46 | 33.37 | 44.93 | 52.22 | 61.65 | 86.96
23 | 16.69 | 20.26 | 24.02 | 33.98 | 45.18 | 52.58 | 62.02 | 87.47
24 | 17.37 | 21.12 | 25.38 | 35.32 | 46.13 | 53.95 | 63.53 | 89.61
25 | 18.04 | 21.87 | 26.99 | 36.50 | 46.81 | 55.30 | 64.64 | 91.15
26 | 19.13 | 23.45 | 29.81 | 38.45 | 47.95 | 56.66 | 66.66 | 94.00
27 | 20.27 | 24.50 | 31.63 | 41.91 | 48.60 | 57.98 | 69.16 | 97.56
28 | 20.89 | 24.83 | 32.52 | 43.00 | 49.26 | 59.33 | 71.76 | 101.22
29 | 21.53 | 25.08 | 33.40 | 43.57 | 50.08 | 60.69 | 73.69 | 103.92
30 | 22.17 | 25.45 | 34.19 | 44.17 | 51.49 | 62.02 | 75.27 | 106.17
31 | 22.79 | 25.70 | 34.72 | 44.73 | 52.23 | 63.39 | 76.81 | 109.22
32 | 23.06 | 26.24 | 35.30 | 45.25 | 52.92 | 64.76 | 78.38 | 111.44
33 | 23.41 | 26.97 | 36.18 | 45.85 | 53.94 | 66.09 | 79.82 | 113.50
34 | 23.63 | 27.67 | 37.09 | 46.84 | 55.22 | 67.45 | 81.32 | 115.65
35 | 23.89 | 28.33 | 37.63 | 47.83 | 56.70 | 68.80 | 82.72 | 117.62
36 | 24.19 | 29.15 | 38.12 | 48.87 | 58.13 | 69.74 | 84.12 | 119.63
37 | 24.44 | 29.69 | 38.67 | 49.74 | 59.65 | 70.63 | 85.50 | 121.60
38 | 24.68 | 30.41 | 39.16 | 50.73 | 61.31 | 71.44 | 86.86 | 123.54
39 | 24.92 | 31.12 | 39.61 | 51.78 | 62.76 | 73.32 | 88.21 | 125.45
40 | 25.18 | 31.78 | 40.12 | 52.86 | 63.77 | 74.96 | 89.41 | 127.15
41 | 25.45 | 32.31 | 40.55 | 53.33 | 64.84 | 76.56 | 90.70 | 130.01
42 | 25.64 | 32.55 | 40.91 | 54.22 | 65.98 | 77.61 | 91.94 | 131.78
43 | 25.93 | 32.79 | 41.27 | 55.12 | 67.56 | 78.57 | 93.12 | 133.47
44 | 26.11 | 33.03 | 41.63 | 56.01 | 68.64 | 79.50 | 94.17 | 135.01
45 | 26.28 | 33.26 | 42.00 | 56.91 | 69.39 | 80.36 | 95.36 | 136.71
46 | 26.51 | 33.50 | 42.36 | 57.80 | 70.17 | 81.23 | 96.51 | 138.34
47 | 26.71 | 33.74 | 42.72 | 58.70 | 70.90 | 82.16 | 97.58 | 139.89
48 | 26.93 | 33.98 | 43.08 | 59.59 | 71.81 | 82.94 | 98.62 | 141.41
49 | 27.14 | 34.21 | 43.45 | 60.49 | 72.79 | 83.81 | 99.62 | 142.79
50 | 27.25 | 34.45 | 43.81 | 61.38 | 73.81 | 84.88 | 100.66 | 144.32
51 | 27.65 | 34.69 | 44.16 | 62.43 | 74.82 | 86.09 | 101.60 | 146.83
52 | 28.07 | 34.93 | 44.52 | 62.87 | 75.55 | 87.39 | 102.80 | 148.54
53 | 28.59 | 35.16 | 44.89 | 63.38 | 76.19 | 88.82 | 104.11 | 150.44
54 | 29.00 | 35.41 | 45.24 | 63.93 | 76.73 | 90.09 | 105.57 | 152.55
55 | 29.46 | 35.64 | 45.61 | 64.34 | 77.36 | 91.52 | 106.99 | 154.60
56 | 29.86 | 35.88 | 45.97 | 64.82 | 77.88 | 92.81 | 108.08 | 156.20
57 | 30.34 | 36.11 | 46.34 | 65.21 | 78.47 | 94.22 | 109.04 | 157.60
58 | 30.79 | 36.35 | 46.69 | 65.62 | 78.93 | 95.47 | 109.94 | 158.87
59 | 31.23 | 36.59 | 47.05 | 66.02 | 79.38 | 96.12 | 110.75 | 160.06
60 | 31.63 | 36.82 | 47.41 | 66.38 | 79.78 | 96.68 | 111.54 | 161.18
61 | 32.14 | 37.06 | 47.78 | 66.72 | 80.22 | 97.24 | 113.04 | 163.37
62 | 32.53 | 37.30 | 48.13 | 67.01 | 80.60 | 97.67 | 114.84 | 165.95
63 | 33.12 | 37.54 | 48.50 | 67.36 | 81.06 | 98.14 | 116.68 | 168.61
64 | 33.41 | 37.77 | 48.86 | 67.66 | 81.42 | 98.59 | 118.47 | 171.21
65 | 33.90 | 38.01 | 49.23 | 67.87 | 81.65 | 99.08 | 120.32 | 173.89
66 | 34.34 | 38.25 | 49.58 | 68.18 | 82.07 | 99.38 | 122.07 | 176.41
67 | 34.85 | 38.49 | 50.42 | 68.42 | 82.33 | 99.78 | 123.69 | 178.73
68 | 35.26 | 38.72 | 51.06 | 68.61 | 83.36 | 100.30 | 125.00 | 180.63
69 | 35.74 | 38.96 | 51.71 | 68.81 | 84.36 | 100.77 | 126.32 | 182.56
70 | 36.11 | 39.20 | 52.52 | 69.03 | 85.38 | 101.13 | 127.68 | 184.51

Commercial Plus Cubic
Maximum cubic feet | Local, Zones 1 & 2 ($) | Zone 3 ($) | Zone 4 ($) | Zone 5 ($) | Zone 6 ($) | Zone 7 ($) | Zone 8 ($) | Zone 9 ($)
0.10 | 6.95 | 7.28 | 7.49 | 7.65 | 7.82 | 7.99 | 8.25 | 9.91
0.20 | 7.34 | 7.68 | 7.91 | 8.12 | 8.40 | 8.61 | 8.92 | 10.92
0.30 | 7.79 | 7.99 | 8.27 | 8.92 | 10.18 | 10.73 | 11.39 | 15.90
0.40 | 7.95 | 8.27 | 8.63 | 9.50 | 11.79 | 12.94 | 14.79 | 20.09
0.50 | 8.07 | 8.56 | 9.13 | 10.34 | 13.95 | 15.75 | 17.91 | 24.96

Open and Distribute (PMOD)
Container | Local, Zones 1 & 2 ($) | Zone 3 ($) | Zone 4 ($) | Zone 5 ($) | Zone 6 ($) | Zone 7 ($) | Zone 8 ($) | Zone 9 ($)
a. DDU
Half Tray | 8.24 | 10.09 | 12.19 | 19.61 | 19.87 | 21.60 | 23.98 | 29.98
Full Tray | 11.20 | 14.01 | 16.31 | 28.55 | 32.81 | 34.86 | 38.90 | 48.62
EMM Tray | 12.84 | 15.30 | 18.90 | 31.58 | 34.67 | 38.07 | 42.33 | 52.91
Flat Tub | 18.35 | 23.00 | 28.44 | 48.10 | 58.06 | 62.77 | 69.86 | 87.33
b. Processing Facilities
Half Tray | 6.53 | 8.27 | 10.16 | 17.71 | 18.10 | 19.80 | 21.25 | 26.57
Full Tray | 8.45 | 10.89 | 13.56 | 24.74 | 29.24 | 31.30 | 34.98 | 43.73
EMM Tray | 10.08 | 11.68 | 15.91 | 27.31 | 31.02 | 34.16 | 39.47 | 49.34
Flat Tub | 14.42 | 19.06 | 24.15 | 44.10 | 53.86 | 58.63 | 64.49 | 80.62

2115 Parcel Select

* * *

2115.2 Size and Weight Limitations

Parcel Select
| Length | Height | Thickness | Weight
Minimum | large enough to accommodate postage, address, and other required elements on the address side |  |  | none.
Maximum | 130 inches in combined length and girth |  |  | 70 pounds.¹
¹ An overweight item charge, as described in the Domestic Mail Manual, applies to pieces found in the postal network that exceed the 70-pound maximum weight limitation. Such items are nonmailable and will not be delivered.

Lightweight
| Length | Height | Thickness | Weight
Minimum | large enough to accommodate postage, address, and other required elements on the address side |  |  | none.
Maximum | 108 inches in combined length and girth |  |  | <16 ounces.

* * *

2115.5 Optional Features

The following additional postal services may be available in conjunction with the product specified in this section:

• Forwarding and Return Service

• Pickup On Demand Service

• Ancillary Services (1505)

○ Address Correction Service (1505.1)

○ Certificate of Mailing (1505.6)

○ Collect On Delivery (1505.7)

○ USPS Tracking (1505.8)

○ Insurance (1505.9)

○ Return Receipt (1505.13)

○ Return Receipt for Merchandise (1505.14)

○ Signature Confirmation (1505.17)

○ Special Handling (1505.18)

• Competitive Ancillary Services (2545)

○ Adult Signature (2545.1)

○ Package Intercept Service (2545.2)

2115.6 Prices

Destination Entered—DDU
Maximum weight (pounds) | DDU ($)
a. DDU
1 | 3.13
2 | 3.23
3 | 3.33
4 | 3.43
5 | 3.53
6 | 3.62
7 | 3.71
8 | 3.80
9 | 3.89
10 | 3.97
11 | 4.05
12 | 4.13
13 | 4.21
14 | 4.29
15 | 4.37
16 | 4.45
17 | 4.53
18 | 4.61
19 | 4.69
20 | 4.77
21 | 6.00
22 | 6.00
23 | 6.00
24 | 6.00
25 | 6.00
26 | 6.00
27 | 6.00
28 | 6.00
29 | 6.00
30 | 6.00
31 | 6.00
32 | 6.00
33 | 6.00
34 | 6.00
35 | 6.00
36 | 6.03
37 | 6.10
38 | 6.17
39 | 6.24
40 | 6.31
41 | 6.38
42 | 6.45
43 | 6.52
44 | 6.59
45 | 6.66
46 | 6.73
47 | 6.80
48 | 6.87
49 | 6.94
50 | 7.01
51 | 7.08
52 | 7.15
53 | 7.22
54 | 7.29
55 | 7.36
56 | 7.43
57 | 7.50
58 | 7.57
59 | 7.64
60 | 7.72
61 | 7.80
62 | 7.88
63 | 7.96
64 | 8.04
65 | 8.12
66 | 8.20
67 | 8.28
68 | 8.36
69 | 8.44
70 | 8.52
Oversized | 11.77

a. DSCF—5-Digit Machinable

Destination Entered—DSCF
Maximum weight (pounds) | DSCF 5-digit ($)
1 | 4.28
2 | 4.46
3 | 4.63
4 | 4.80
5 | 4.97
6 | 5.14
7 | 5.31
8 | 5.48
9 | 5.65
10 | 5.82
11 | 5.99
12 | 6.16
13 | 6.33
14 | 6.50
15 | 6.67
16 | 6.84
17 | 7.01
18 | 7.18
19 | 7.35
20 | 7.52
21 | 7.69
22 | 7.86
23 | 8.03
24 | 8.20
25 | 8.37
26 | 8.54
27 | 8.71
28 | 8.88
29 | 9.05
30 | 9.23
31 | 9.41
32 | 9.59
33 | 9.77
34 | 9.95
35 | 10.13

b. DSCF—3-Digit, 5-Digit Non-Machinable

Maximum weight (pounds) | DSCF 3-digit ($) | DSCF 5-digit ($)
1 | 6.28 | 4.28
2 | 6.46 | 4.46
3 | 6.63 | 4.63
4 | 6.80 | 4.80
5 | 6.97 | 4.97
6 | 7.14 | 5.14
7 | 7.31 | 5.31
8 | 7.48 | 5.48
9 | 7.65 | 5.65
10 | 7.82 | 5.82
11 | 7.99 | 5.99
12 | 8.16 | 6.16
13 | 8.33 | 6.33
14 | 8.50 | 6.50
15 | 8.67 | 6.67
16 | 8.84 | 6.84
17 | 9.01 | 7.01
18 | 9.18 | 7.18
19 | 9.35 | 7.35
20 | 9.52 | 7.52
21 | 9.69 | 7.69
22 | 9.86 | 7.86
23 | 10.03 | 8.03
24 | 10.20 | 8.20
25 | 10.37 | 8.37
26 | 10.54 | 8.54
27 | 10.71 | 8.71
28 | 10.88 | 8.88
29 | 11.05 | 9.05
30 | 11.23 | 9.23
31 | 11.41 | 9.41
32 | 11.59 | 9.59
33 | 11.77 | 9.77
34 | 11.95 | 9.95
35 | 12.13 | 10.13
36 | 12.31 | 10.31
37 | 12.49 | 10.49
38 | 12.67 | 10.67
39 | 12.85 | 10.85
40 | 13.03 | 11.03
41 | 13.21 | 11.21
42 | 13.39 | 11.39
43 | 13.57 | 11.57
44 | 13.75 | 11.75
45 | 13.93 | 11.93
46 | 14.11 | 12.11
47 | 14.29 | 12.29
48 | 14.47 | 12.47
49 | 14.65 | 12.65
50 | 14.83 | 12.83
51 | 15.01 | 13.01
52 | 15.19 | 13.19
53 | 15.37 | 13.37
54 | 15.55 | 13.55
55 | 15.73 | 13.73
56 | 15.91 | 13.91
57 | 16.09 | 14.09
58 | 16.27 | 14.27
59 | 16.45 | 14.45
60 | 16.63 | 14.63
61 | 16.81 | 14.81
62 | 16.99 | 14.99
63 | 17.17 | 15.17
64 | 17.35 | 15.35
65 | 17.53 | 15.53
66 | 17.71 | 15.71
67 | 17.89 | 15.89
68 | 18.07 | 16.07
69 | 18.25 | 16.25
70 | 18.43 | 16.43
Oversized | 23.40 | 23.40

a. DNDC—Machinable

Destination Entered—DNDC
Maximum weight (pounds) | DNDC Zones 1 & 2 ($) | DNDC Zone 3 ($) | DNDC Zone 4 ($) | DNDC Zone 5 ($)
1 | 5.81 | 6.62 | 7.55 | 8.66
2 | 6.08 | 7.09 | 8.17 | 9.32
3 | 6.35 | 7.56 | 8.79 | 9.98
4 | 6.62 | 8.03 | 9.41 | 10.64
5 | 6.89 | 8.50 | 10.03 | 11.30
6 | 7.17 | 8.99 | 10.65 | 11.99
7 | 7.45 | 9.48 | 11.27 | 12.68
8 | 7.73 | 9.97 | 11.89 | 13.37
9 | 8.01 | 10.46 | 12.51 | 14.06
10 | 8.29 | 10.95 | 13.13 | 14.75
11 | 8.57 | 11.44 | 13.71 | 15.40
12 | 8.85 | 11.93 | 14.29 | 16.05
13 | 9.13 | 12.42 | 14.87 | 16.70
14 | 9.41 | 12.91 | 15.45 | 17.35
15 | 9.69 | 13.40 | 16.03 | 17.95
16 | 9.97 | 13.88 | 16.48 | 18.50
17 | 10.25 | 14.36 | 16.93 | 19.05
18 | 10.53 | 14.84 | 17.38 | 19.60
19 | 10.81 | 15.32 | 17.83 | 20.15
20 | 11.09 | 15.78 | 18.28 | 20.65
21 | 11.37 | 16.22 | 18.69 | 21.15
22 | 11.65 | 16.66 | 19.10 | 21.65
23 | 11.93 | 17.10 | 19.51 | 22.15
24 | 12.21 | 17.54 | 19.92 | 22.65
25 | 12.49 | 17.92 | 20.33 | 23.10
26 | 12.77 | 18.30 | 20.72 | 23.50
27 | 13.05 | 18.68 | 21.11 | 23.90
28 | 13.33 | 19.06 | 21.50 | 24.30
29 | 13.61 | 19.44 | 21.89 | 24.70
30 | 13.89 | 19.77 | 22.28 | 25.10
31 | 14.17 | 20.10 | 22.64 | 25.50
32 | 14.45 | 20.43 | 23.00 | 25.90
33 | 14.73 | 20.76 | 23.36 | 26.30
34 | 15.01 | 21.09 | 23.72 | 26.70
35 | 15.29 | 21.42 | 24.08 | 27.10

b. DNDC—Non-Machinable

Maximum weight (pounds) | DNDC Zones 1 & 2 ($) | DNDC Zone 3 ($) | DNDC Zone 4 ($) | DNDC Zone 5 ($)
1 | 8.81 | 9.62 | 10.55 | 11.66
2 | 9.08 | 10.09 | 11.17 | 12.32
3 | 9.35 | 10.56 | 11.79 | 12.98
4 | 9.62 | 11.03 | 12.41 | 13.64
5 | 9.89 | 11.50 | 13.03 | 14.30
6 | 10.17 | 11.99 | 13.65 | 14.99
7 | 10.45 | 12.48 | 14.27 | 15.68
8 | 10.73 | 12.97 | 14.89 | 16.37
9 | 11.01 | 13.46 | 15.51 | 17.06
10 | 11.29 | 13.95 | 16.13 | 17.75
11 | 11.57 | 14.44 | 16.71 | 18.40
12 | 11.85 | 14.93 | 17.29 | 19.05
13 | 12.13 | 15.42 | 17.87 | 19.70
14 | 12.41 | 15.91 | 18.45 | 20.35
15 | 12.69 | 16.40 | 19.03 | 20.95
16 | 12.97 | 16.88 | 19.48 | 21.50
17 | 13.25 | 17.36 | 19.93 | 22.05
18 | 13.53 | 17.84 | 20.38 | 22.60
19 | 13.81 | 18.32 | 20.83 | 23.15
20 | 14.09 | 18.78 | 21.28 | 23.65
21 | 14.37 | 19.22 | 21.69 | 24.15
22 | 14.65 | 19.66 | 22.10 | 24.65
23 | 14.93 | 20.10 | 22.51 | 25.15
24 | 15.21 | 20.54 | 22.92 | 25.65
25 | 15.49 | 20.92 | 23.33 | 26.10
26 | 15.77 | 21.30 | 23.72 | 26.50
27 | 16.05 | 21.68 | 24.11 | 26.90
28 | 16.33 | 22.06 | 24.50 | 27.30
29 | 16.61 | 22.44 | 24.89 | 27.70
30 | 16.89 | 22.77 | 25.28 | 28.10
31 | 17.17 | 23.10 | 25.64 | 28.50
32 | 17.45 | 23.43 | 26.00 | 28.90
33 | 17.73 | 23.76 | 26.36 | 29.30
34 | 18.01 | 24.09 | 26.72 | 29.70
35 | 18.29 | 24.42 | 27.08 | 30.10
36 | 18.57 | 24.75 | 27.43 | 30.50
37 | 18.85 | 25.08 | 27.78 | 30.90
38 | 19.13 | 25.41 | 28.13 | 31.30
39 | 19.41 | 25.74 | 28.48 | 31.70
40 | 19.69 | 26.07 | 28.83 | 32.08
41 | 19.97 | 26.40 | 29.17 | 32.46
42 | 20.25 | 26.73 | 29.51 | 32.84
43 | 20.53 | 27.06 | 29.85 | 33.22
44 | 20.81 | 27.39 | 30.19 | 33.60
45 | 21.09 | 27.72 | 30.53 | 33.98
46 | 21.37 | 28.05 | 30.87 | 34.36
47 | 21.65 | 28.38 | 31.21 | 34.74
48 | 21.93 | 28.71 | 31.55 | 35.12
49 | 22.21 | 29.04 | 31.89 | 35.50
50 | 22.48 | 29.36 | 32.23 | 35.86
51 | 22.75 | 29.68 | 32.55 | 36.22
52 | 23.02 | 30.00 | 32.87 | 36.58
53 | 23.29 | 30.32 | 33.19 | 36.94
54 | 23.56 | 30.64 | 33.51 | 37.30
55 | 23.83 | 30.95 | 33.83 | 37.66
56 | 24.10 | 31.25 | 34.15 | 38.02
57 | 24.37 | 31.55 | 34.47 | 38.38
58 | 24.64 | 31.85 | 34.79 | 38.74
59 | 24.91 | 32.15 | 35.11 | 39.10
60 | 25.18 | 32.45 | 35.43 | 39.44
61 | 25.45 | 32.75 | 35.73 | 39.78
62 | 25.72 | 33.05 | 36.03 | 40.12
63 | 25.99 | 33.35 | 36.33 | 40.46
64 | 26.26 | 33.65 | 36.63 | 40.80
65 | 26.53 | 33.95 | 36.93 | 41.14
66 | 26.80 | 34.24 | 37.23 | 41.46
67 | 27.07 | 34.53 | 37.53 | 41.78
68 | 27.34 | 34.82 | 37.83 | 42.10
69 | 27.61 | 35.11 | 38.13 | 42.42
70 | 27.88 | 35.40 | 38.43 | 42.74
Oversized | 36.71 | 50.14 | 58.85 | 70.64

a. Parcel Select Ground

Non-Destination Entered—Parcel Select Ground
Maximum weight (pounds) | Zones 1 & 2 ($) | Zone 3 ($) | Zone 4 ($) | Zone 5 ($) | Zone 6 ($) | Zone 7 ($) | Zone 8 ($)
1 | 6.85 | 7.18 | 7.39 | 7.50 | 7.62 | 7.74 | 7.95
2 | 7.32 | 7.51 | 7.78 | 8.35 | 9.50 | 9.98 | 10.56
3 | 7.51 | 7.89 | 8.24 | 9.06 | 11.55 | 12.80 | 14.93
4 | 7.61 | 8.10 | 8.71 | 9.83 | 13.50 | 15.29 | 17.26
5 | 7.71 | 8.15 | 9.02 | 10.13 | 15.42 | 17.62 | 20.05
6 | 7.81 | 8.19 | 9.12 | 13.57 | 17.68 | 20.53 | 23.46
7 | 8.05 | 9.31 | 9.36 | 15.23 | 19.61 | 23.18 | 26.40
8 | 8.10 | 9.77 | 11.06 | 16.64 | 21.57 | 25.55 | 29.69
9 | 8.91 | 10.15 | 11.52 | 17.86 | 23.49 | 27.70 | 33.05
10 | 9.28 | 10.57 | 11.59 | 19.31 | 25.39 | 30.49 | 35.97
11 | 10.57 | 12.67 | 13.59 | 21.11 | 27.27 | 33.21 | 38.99
12 | 11.22 | 13.48 | 15.83 | 22.61 | 29.76 | 35.93 | 41.85
13 | 11.81 | 14.26 | 16.58 | 23.83 | 31.96 | 37.39 | 43.34
14 | 12.42 | 15.05 | 17.47 | 25.23 | 33.77 | 39.49 | 45.51
15 | 12.91 | 15.84 | 18.32 | 26.54 | 35.08 | 40.26 | 46.71
16 | 13.35 | 16.69 | 19.32 | 27.87 | 37.09 | 42.54 | 49.30
17 | 13.78 | 17.47 | 20.25 | 29.24 | 38.98 | 44.77 | 51.94
18 | 14.05 | 18.01 | 21.16 | 30.56 | 41.06 | 46.99 | 54.56
19 | 14.38 | 18.43 | 21.65 | 31.37 | 42.91 | 49.19 | 57.16
20 | 14.95 | 18.72 | 22.09 | 31.95 | 44.03 | 51.04 | 59.83
21 | 15.61 | 19.17 | 22.60 | 32.52 | 44.38 | 51.52 | 60.60
22 | 16.11 | 19.69 | 23.36 | 33.17 | 44.68 | 51.92 | 61.30
23 | 16.59 | 20.16 | 23.92 | 33.78 | 44.93 | 52.28 | 61.67
24 | 17.27 | 21.02 | 25.28 | 35.12 | 45.88 | 53.65 | 63.18
25 | 17.94 | 21.77 | 26.89 | 36.30 | 46.56 | 55.00 | 64.29
26 | 19.03 | 23.35 | 29.71 | 38.25 | 47.70 | 56.36 | 66.31
27 | 20.17 | 24.40 | 31.53 | 41.71 | 48.35 | 57.68 | 68.81
28 | 20.79 | 24.73 | 32.42 | 42.80 | 49.01 | 59.03 | 71.41
29 | 21.43 | 24.98 | 33.30 | 43.37 | 49.83 | 60.39 | 73.34
30 | 22.07 | 25.35 | 34.09 | 43.97 | 51.24 | 61.72 | 74.92
31 | 22.69 | 25.60 | 34.62 | 44.53 | 51.98 | 63.09 | 76.46
32 | 22.96 | 26.14 | 35.20 | 45.05 | 52.67 | 64.46 | 78.03
33 | 23.31 | 26.87 | 36.08 | 45.65 | 53.69 | 65.79 | 79.47
34 | 23.53 | 27.57 | 36.99 | 46.64 | 54.97 | 67.15 | 80.97
35 | 23.79 | 28.23 | 37.53 | 47.63 | 56.45 | 68.50 | 82.37
36 | 24.09 | 29.05 | 38.02 | 48.67 | 57.88 | 69.44 | 83.77
37 | 24.34 | 29.59 | 38.57 | 49.54 | 59.40 | 70.33 | 85.15
38 | 24.58 | 30.31 | 39.06 | 50.53 | 61.06 | 71.14 | 86.51
39 | 24.82 | 31.02 | 39.51 | 51.58 | 62.51 | 73.02 | 87.86
40 | 25.08 | 31.68 | 40.02 | 52.66 | 63.52 | 74.66 | 89.06
41 | 25.35 | 32.21 | 40.45 | 53.13 | 64.59 | 76.26 | 90.35
42 | 25.54 | 32.45 | 40.81 | 54.02 | 65.73 | 77.31 | 91.59
43 | 25.83 | 32.69 | 41.17 | 54.92 | 67.31 | 78.27 | 92.77
44 | 26.01 | 32.93 | 41.53 | 55.81 | 68.39 | 79.20 | 93.82
45 | 26.18 | 33.16 | 41.90 | 56.71 | 69.14 | 80.06 | 95.01
46 | 26.41 | 33.40 | 42.26 | 57.60 | 69.92 | 80.93 | 96.16
47 | 26.61 | 33.64 | 42.62 | 58.50 | 70.65 | 81.86 | 97.23
48 | 26.83 | 33.88 | 42.98 | 59.39 | 71.56 | 82.64 | 98.27
49 | 27.04 | 34.11 | 43.35 | 60.29 | 72.54 | 83.51 | 99.27
50 | 27.15 | 34.35 | 43.71 | 61.18 | 73.56 | 84.58 | 100.31
51 | 27.55 | 34.59 | 44.06 | 62.23 | 74.57 | 85.79 | 101.25
52 | 27.97 | 34.83 | 44.42 | 62.67 | 75.30 | 87.09 | 102.45
53 | 28.49 | 35.06 | 44.79 | 63.18 | 75.94 | 88.52 | 103.76
54 | 28.90 | 35.31 | 45.14 | 63.73 | 76.48 | 89.79 | 105.22
55 | 29.36 | 35.54 | 45.51 | 64.14 | 77.11 | 91.22 | 106.64
56 | 29.76 | 35.78 | 45.87 | 64.62 | 77.63 | 92.51 | 107.73
57 | 30.24 | 36.01 | 46.24 | 65.01 | 78.22 | 93.92 | 108.69
58 | 30.69 | 36.25 | 46.59 | 65.42 | 78.68 | 95.17 | 109.59
59 | 31.13 | 36.49 | 46.95 | 65.82 | 79.13 | 95.82 | 110.40
60 | 31.53 | 36.72 | 47.31 | 66.18 | 79.53 | 96.38 | 111.19
61 | 32.04 | 36.96 | 47.68 | 66.52 | 79.97 | 96.94 | 112.69
62 | 32.43 | 37.20 | 48.03 | 66.81 | 80.35 | 97.37 | 114.49
63 | 33.02 | 37.44 | 48.40 | 67.16 | 80.81 | 97.84 | 116.33
64 | 33.31 | 37.67 | 48.76 | 67.46 | 81.17 | 98.29 | 118.12
65 | 33.80 | 37.91 | 49.13 | 67.67 | 81.40 | 98.78 | 119.97
66 | 34.24 | 38.15 | 49.48 | 67.98 | 81.82 | 99.08 | 121.72
67 | 34.75 | 38.39 | 50.32 | 68.22 | 82.08 | 99.48 | 123.34
68 | 35.16 | 38.62 | 50.96 | 68.41 | 83.11 | 100.00 | 124.65
69 | 35.64 | 38.86 | 51.61 | 68.61 | 84.11 | 100.47 | 125.97
70 | 36.01 | 39.10 | 52.42 | 68.83 | 85.13 | 100.83 | 127.33
Oversized | 74.73 | 80.59 | 103.05 | 121.34 | 142.41 | 163.47 | 196.61

Parcel Select Lightweight
Maximum weight (ounces) | Entry point/sortation level: DDU/5-digit ($) | Entry point/sortation level: DSCF/5-digit ($) | Entry point/sortation level: DNDC/5-digit ($) | Entry point/sortation level: DSCF/SCF ($) | Entry point/sortation level: DNDC/SCF ($) | Entry point/sortation level: DNDC/NDC ($) | Entry point/sortation level: None/NDC ($) | Entry point/sortation level: None/mixed NDC/single-piece ($)
1 | 1.73 | 2.02 | 2.23 | 2.24 | 2.60 | 2.84 | 3.20 | 3.57
2 | 1.73 | 2.02 | 2.23 | 2.24 | 2.60 | 2.84 | 3.20 | 3.57
3 | 1.73 | 2.02 | 2.23 | 2.24 | 2.60 | 2.84 | 3.20 | 3.57
4 | 1.73 | 2.02 | 2.23 | 2.24 | 2.60 | 2.84 | 3.20 | 3.57
5 | 1.78 | 2.10 | 2.33 | 2.35 | 2.77 | 3.03 | 3.41 | 3.80
6 | 1.78 | 2.10 | 2.33 | 2.35 | 2.77 | 3.03 | 3.41 | 3.80
7 | 1.78 | 2.10 | 2.33 | 2.35 | 2.77 | 3.03 | 3.41 | 3.80
8 | 1.78 | 2.10 | 2.33 | 2.35 | 2.77 | 3.03 | 3.41 | 3.80
9 | 1.83 | 2.24 | 2.72 | 2.75 | 3.23 | 3.53 | 3.93 | 4.34
10 | 1.83 | 2.24 | 2.72 | 2.75 | 3.23 | 3.53 | 3.93 | 4.34
11 | 1.83 | 2.24 | 2.72 | 2.75 | 3.23 | 3.53 | 3.93 | 4.34
12 | 1.83 | 2.24 | 2.72 | 2.75 | 3.23 | 3.53 | 3.93 | 4.34
13 | 2.02 | 2.52 | 3.16 | 3.22 | 3.73 | 4.05 | 4.47 | 4.90
14 | 2.02 | 2.52 | 3.16 | 3.22 | 3.73 | 4.05 | 4.47 | 4.90
15 | 2.02 | 2.52 | 3.16 | 3.22 | 3.73 | 4.05 | 4.47 | 4.90
15.999 | 2.02 | 2.52 | 3.16 | 3.22 | 3.73 | 4.05 | 4.47 | 4.90

2120 Parcel Return Service

* * *

2120.2 Size and Weight Limitations

| Length | Height | Thickness | Weight
Minimum | large enough to accommodate postage, address, and other required elements on the address side. |  |  | none.
Maximum | 130 inches in combined length and girth. |  |  | 70 pounds. 1
1. An overweight item charge, as described in the Domestic Mail Manual, applies to pieces found in the postal network that exceed the 70-pound maximum weight limitation. Such items are nonmailable and will not be delivered.

* * *

2120.6 Prices

a. Machinable RSCF

RSCF Entered
Maximum weight (pounds) | RSCF ($)
1 | 3.65
2 | 4.12
3 | 4.43
4 | 4.76
5 | 5.12
6 | 5.63
7 | 6.02
8 | 6.51
9 | 6.96
10 | 7.45
11 | 7.89
12 | 8.44
13 | 8.82
14 | 9.12
15 | 9.46
16 | 9.77
17 | 10.12
18 | 10.41
19 | 10.69
20 | 11.05
21 | 11.33
22 | 11.68
23 | 11.90
24 | 12.28
25 | 12.53
26 | 12.69
27 | 13.00
28 | 13.24
29 | 13.56
30 | 13.78
31 | 14.06
32 | 14.37
33 | 14.60
34 | 15.00
35 | 15.24

b. Nonmachinable RSCF

Maximum weight (pounds) | RSCF ($)
1 | 6.65
2 | 7.12
3 | 7.43
4 | 7.76
5 | 8.12
6 | 8.63
7 | 9.02
8 | 9.51
9 | 9.96
10 | 10.45
11 | 10.89
12 | 11.44
13 | 11.82
14 | 12.12
15 | 12.46
16 | 12.77
17 | 13.12
18 | 13.41
19 | 13.69
20 | 14.05
21 | 14.33
22 | 14.68
23 | 14.90
24 | 15.28
25 | 15.53
26 | 15.69
27 | 16.00
28 | 16.24
29 | 16.56
30 | 16.78
31 | 17.06
32 | 17.37
33 | 17.60
34 | 18.00
35 | 18.24
36 | 18.50
37 | 18.89
38 | 19.09
39 | 19.45
40 | 19.67
41 | 19.92
42 | 20.26
43 | 20.47
44 | 20.70
45 | 20.94
46 | 21.18
47 | 21.50
48 | 21.62
49 | 21.79
50 | 22.07
51 | 22.21
52 | 22.44
53 | 22.57
54 | 22.74
55 | 23.04
56 | 23.16
57 | 23.38
58 | 23.58
59 | 23.78
60 | 24.11
61 | 24.24
62 | 24.45
63 | 24.63
64 | 24.83
65 | 25.04
66 | 25.33
67 | 25.42
68 | 25.70
69 | 25.86
70 | 25.92
Oversized | 36.02

c. Balloon Price

RSCF entered pieces exceeding 84 inches in length and girth combined, but not more than 108 inches, and weighing less than 20 pounds are subject to a price equal to that for a 20-pound parcel for the zone to which the parcel is addressed.

d. Oversized Pieces

Regardless of weight, any piece that measures more than 108 inches (but not more than 130 inches) in length plus girth must pay the oversized price. As stated in the Domestic Mail Manual, any piece that is found to be over the 70 pound maximum weight limitation is nonmailable and will not be delivered.

a. Machinable RDU

RDU Entered
Maximum weight (pounds) | RDU ($)
1 | 2.90
2 | 2.99
3 | 3.07
4 | 3.16
5 | 3.24
6 | 3.33
7 | 3.41
8 | 3.49
9 | 3.58
10 | 3.66
11 | 3.75
12 | 3.83
13 | 3.92
14 | 4.00
15 | 4.08
16 | 4.17
17 | 4.25
18 | 4.34
19 | 4.42
20 | 4.51
21 | 4.59
22 | 4.67
23 | 4.76
24 | 4.84
25 | 4.93
26 | 5.01
27 | 5.10
28 | 5.18
29 | 5.27
30 | 5.35
31 | 5.43
32 | 5.52
33 | 5.60
34 | 5.69
35 | 5.77

b. Nonmachinable RDU

Maximum weight (pounds) | RDU ($)
1 | 2.90
2 | 2.99
3 | 3.07
4 | 3.16
5 | 3.24
6 | 3.33
7 | 3.41
8 | 3.49
9 | 3.58
10 | 3.66
11 | 3.75
12 | 3.83
13 | 3.92
14 | 4.00
15 | 4.08
16 | 4.17
17 | 4.25
18 | 4.34
19 | 4.42
20 | 4.51
21 | 4.59
22 | 4.67
23 | 4.76
24 | 4.84
25 | 4.93
26 | 5.01
27 | 5.10
28 | 5.18
29 | 5.27
30 | 5.35
31 | 5.43
32 | 5.52
33 | 5.60
34 | 5.69
35 | 5.77
36 | 5.86
37 | 5.94
38 | 6.02
39 | 6.11
40 | 6.19
41 | 6.28
42 | 6.36
43 | 6.45
44 | 6.53
45 | 6.61
46 | 6.70
47 | 6.78
48 | 6.87
49 | 6.95
50 | 7.04
51 | 7.12
52 | 7.20
53 | 7.29
54 | 7.37
55 | 7.46
56 | 7.54
57 | 7.63
58 | 7.71
59 | 7.79
60 | 7.88
61 | 7.96
62 | 8.05
63 | 8.13
64 | 8.22
65 | 8.30
66 | 8.39
67 | 8.47
68 | 8.55
69 | 8.64
70 | 8.72
Oversized | 10.96

c. Oversized Pieces

Regardless of weight, any piece that measures more than 108 inches (but not more than 130 inches) in length plus girth must pay the oversized price. As stated in the Domestic Mail Manual, any piece that is found to be over the 70 pound maximum weight limitation is nonmailable and will not be delivered.

IMpb Noncompliance Fee

Add $0.20 for each IMpb-noncompliant parcel paying commercial prices.

2125 First-Class Package Service

* * *

2125.4 Price Categories

The following price categories are available for the product specified in this section:

• Commercial

○ Zone/Weight—Prices are based on weight and zone

• Retail

○ Zone/Weight—Prices are based on weight and zone

* * *

2125.6 Prices

Commercial
Maximum weight (ounces) | Local, Zones 1 & 2 ($) | Zone 3 ($) | Zone 4 ($) | Zone 5 ($) | Zone 6 ($) | Zone 7 ($) | Zone 8 ($)
1 | 2.66 | 2.68 | 2.70 | 2.76 | 2.84 | 2.96 | 3.09
2 | 2.66 | 2.68 | 2.70 | 2.76 | 2.84 | 2.96 | 3.09
3 | 2.66 | 2.68 | 2.70 | 2.76 | 2.84 | 2.96 | 3.09
4 | 2.66 | 2.68 | 2.70 | 2.76 | 2.84 | 2.96 | 3.09
5 | 3.18 | 3.20 | 3.22 | 3.28 | 3.36 | 3.49 | 3.63
6 | 3.18 | 3.20 | 3.22 | 3.28 | 3.36 | 3.49 | 3.63
7 | 3.18 | 3.20 | 3.22 | 3.28 | 3.36 | 3.49 | 3.63
8 | 3.18 | 3.20 | 3.22 | 3.28 | 3.36 | 3.49 | 3.63
9 | 3.82 | 3.85 | 3.88 | 3.96 | 4.06 | 4.19 | 4.33
10 | 3.82 | 3.85 | 3.88 | 3.96 | 4.06 | 4.19 | 4.33
11 | 3.82 | 3.85 | 3.88 | 3.96 | 4.06 | 4.19 | 4.33
12 | 3.82 | 3.85 | 3.88 | 3.96 | 4.06 | 4.19 | 4.33
13 | 4.94 | 4.98 | 5.02 | 5.12 | 5.24 | 5.38 | 5.53
14 | 4.94 | 4.98 | 5.02 | 5.12 | 5.24 | 5.38 | 5.53
15 | 4.94 | 4.98 | 5.02 | 5.12 | 5.24 | 5.38 | 5.53
15.999 | 4.94 | 4.98 | 5.02 | 5.12 | 5.24 | 5.38 | 5.53

Retail 1
Maximum weight (ounces) | Local, Zones 1 & 2 ($) | Zone 3 ($) | Zone 4 ($) | Zone 5 ($) | Zone 6 ($) | Zone 7 ($) | Zone 8 ($)
1 | 3.66 | 3.70 | 3.74 | 3.78 | 3.82 | 3.94 | 4.06
2 | 3.66 | 3.70 | 3.74 | 3.78 | 3.82 | 3.94 | 4.06
3 | 3.66 | 3.70 | 3.74 | 3.78 | 3.82 | 3.94 | 4.06
4 | 3.66 | 3.70 | 3.74 | 3.78 | 3.82 | 3.94 | 4.06
5 | 4.39 | 4.44 | 4.49 | 4.53 | 4.57 | 4.69 | 4.81
6 | 4.39 | 4.44 | 4.49 | 4.53 | 4.57 | 4.69 | 4.81
7 | 4.39 | 4.44 | 4.49 | 4.53 | 4.57 | 4.69 | 4.81
8 | 4.39 | 4.44 | 4.49 | 4.53 | 4.57 | 4.69 | 4.81
9 | 5.19 | 5.24 | 5.30 | 5.35 | 5.40 | 5.53 | 5.66
10 | 5.19 | 5.24 | 5.30 | 5.35 | 5.40 | 5.53 | 5.66
11 | 5.19 | 5.24 | 5.30 | 5.35 | 5.40 | 5.53 | 5.66
12 | 5.19 | 5.24 | 5.30 | 5.35 | 5.40 | 5.53 | 5.66
13 | 5.71 | 5.78 | 5.85 | 5.93 | 5.99 | 6.13 | 6.27

2135 USPS Retail Ground

* * *

2135.2 Size and Weight Limitations

| Length | Height | Thickness | Weight
Minimum | large enough to accommodate postage, address, and other required elements on the address side |  |  | none.
Maximum | 130 inches in combined length and girth |  |  | 70 pounds.¹
¹ An overweight item charge, as described in the Domestic Mail Manual, applies to pieces found in the postal network that exceed the 70-pound maximum weight limitation. Such items are nonmailable and will not be delivered.

* * *

2135.6 Prices

USPS Retail Ground 1
Maximum weight (pounds) | Zones 1 & 2 ($) | Zone 3 ($) | Zone 4 ($) | Zone 5 ($) | Zone 6 ($) | Zone 7 ($) | Zone 8 ($)
1 | 7.35 | 7.70 | 7.85 | 7.95 | 8.15 | 8.55 | 8.95
2 | 7.85 | 8.30 | 9.45 | 10.29 | 11.17 | 12.08 | 12.98
3 | 8.30 | 9.25 | 10.50 | 11.90 | 12.54 | 14.32 | 16.17
4 | 8.75 | 10.15 | 11.10 | 12.38 | 14.88 | 17.32 | 19.70
5 | 9.80 | 10.85 | 11.60 | 13.14 | 16.44 | 19.73 | 23.02
6 | 10.55 | 11.10 | 12.30 | 14.92 | 18.75 | 22.43 | 26.10
7 | 11.50 | 12.60 | 14.80 | 16.70 | 20.84 | 24.97 | 29.11
8 | 11.85 | 13.95 | 16.45 | 19.39 | 23.79 | 28.19 | 32.59
9 | 12.30 | 15.05 | 18.20 | 22.09 | 26.86 | 30.90 | 36.38
10 | 13.10 | 16.15 | 19.60 | 23.62 | 28.61 | 33.59 | 38.58
11 | 13.95 | 17.30 | 21.05 | 25.45 | 31.07 | 36.69 | 42.32
12 | 15.20 | 18.55 | 22.60 | 27.30 | 33.35 | 39.40 | 45.45
13 | 16.10 | 19.65 | 23.90 | 28.89 | 34.66 | 40.44 | 46.22
14 | 17.10 | 20.90 | 25.40 | 30.66 | 36.62 | 42.58 | 48.54
15 | 17.80 | 22.05 | 26.85 | 32.49 | 38.28 | 44.07 | 49.86
16 | 18.30 | 23.25 | 28.30 | 34.28 | 40.42 | 46.55 | 52.69
17 | 19.15 | 24.50 | 29.80 | 36.09 | 42.53 | 48.98 | 55.42
18 | 19.50 | 25.35 | 31.05 | 37.85 | 44.65 | 51.44 | 58.24
19 | 20.05 | 25.95 | 31.75 | 38.84 | 45.70 | 52.55 | 59.40
20 | 20.90 | 26.25 | 32.25 | 39.57 | 47.13 | 54.69 | 62.25
21 | 21.60 | 26.60 | 32.70 | 40.11 | 47.95 | 55.79 | 63.63
22 | 22.10 | 27.20 | 33.50 | 41.07 | 49.12 | 57.17 | 65.21
23 | 22.60 | 27.75 | 34.05 | 41.77 | 49.97 | 58.17 | 66.36
24 | 23.15 | 28.30 | 34.85 | 42.69 | 51.14 | 59.59 | 68.04
25 | 23.35 | 28.80 | 36.25 | 43.87 | 52.31 | 60.74 | 69.18
26 | 24.30 | 29.35 | 37.60 | 44.73 | 53.59 | 62.44 | 71.30
27 | 25.05 | 29.75 | 38.75 | 47.06 | 56.02 | 64.98 | 73.94
28 | 25.80 | 30.15 | 39.90 | 48.27 | 57.78 | 67.28 | 76.79
29 | 26.60 | 30.50 | 40.90 | 48.96 | 58.92 | 68.88 | 78.84
30 | 27.40 | 30.90 | 41.85 | 49.62 | 59.92 | 70.21 | 80.51
31 | 28.20 | 31.20 | 42.55 | 50.33 | 60.96 | 71.60 | 82.23
32 | 28.50 | 31.90 | 43.25 | 50.90 | 61.87 | 72.83 | 83.80
33 | 29.00 | 32.75 | 44.35 | 51.56 | 62.84 | 74.13 | 85.41
34 | 29.25 | 33.65 | 45.45 | 52.63 | 64.13 | 75.62 | 87.11
35 | 29.55 | 34.45 | 46.05 | 53.73 | 65.31 | 76.89 | 88.47
36 | 29.85 | 35.40 | 46.70 | 55.02 | 66.68 | 78.35 | 90.02
37 | 30.15 | 36.05 | 47.35 | 55.95 | 67.80 | 79.65 | 91.50
38 | 30.50 | 36.95 | 47.95 | 57.01 | 68.98 | 80.95 | 92.93
39 | 30.80 | 37.80 | 48.55 | 58.20 | 70.24 | 82.29 | 94.34
40 | 31.15 | 38.60 | 49.20 | 59.44 | 71.49 | 83.55 | 95.60
41 | 31.45 | 39.35 | 49.75 | 60.01 | 72.37 | 84.73 | 97.10
42 | 31.70 | 40.05 | 50.30 | 61.26 | 73.63 | 86.00 | 98.36
43 | 32.10 | 40.70 | 50.75 | 62.60 | 74.91 | 87.21 | 99.52
44 | 32.30 | 41.35 | 51.40 | 63.90 | 76.20 | 88.49 | 100.78
45 | 32.50 | 41.80 | 51.75 | 65.41 | 77.61 | 89.81 | 102.01
46 | 32.75 | 42.10 | 52.30 | 66.54 | 78.75 | 90.96 | 103.18
47 | 33.05 | 42.50 | 52.80 | 68.10 | 80.18 | 92.27 | 104.35
48 | 33.35 | 42.85 | 53.30 | 69.44 | 81.45 | 93.46 | 105.46
49 | 33.55 | 43.15 | 53.70 | 70.68 | 82.62 | 94.55 | 106.49
50 | 33.70 | 43.40 | 54.10 | 72.11 | 83.96 | 95.82 | 107.67
51 | 33.85 | 43.85 | 54.60 | 73.26 | 85.03 | 96.81 | 108.58
52 | 34.25 | 44.10 | 54.95 | 73.86 | 85.85 | 97.84 | 109.83
53 | 34.85 | 44.40 | 55.30 | 74.43 | 86.71 | 98.99 | 111.26
54 | 35.30 | 44.60 | 55.70 | 75.06 | 87.67 | 100.29 | 112.90
55 | 35.90 | 44.90 | 56.00 | 75.59 | 88.50 | 101.42 | 114.34
56 | 36.40 | 45.20 | 56.30 | 76.05 | 89.17 | 102.30 | 115.42
57 | 36.90 | 45.35 | 56.65 | 76.48 | 89.75 | 103.01 | 116.27
58 | 37.50 | 45.55 | 57.00 | 77.09 | 90.46 | 103.83 | 117.20
59 | 38.10 | 45.75 | 57.30 | 77.50 | 91.03 | 104.55 | 118.08
60 | 38.60 | 45.95 | 57.85 | 77.86 | 91.51 | 105.16 | 118.81
61 | 39.15 | 46.15 | 58.90 | 78.30 | 92.37 | 106.45 | 120.53
62 | 39.60 | 46.25 | 59.60 | 78.70 | 93.26 | 107.82 | 122.38
63 | 40.35 | 46.50 | 60.60 | 79.11 | 94.19 | 109.27 | 124.35
64 | 40.75 | 46.65 | 61.50 | 79.50 | 95.11 | 110.72 | 126.33
65 | 41.30 | 46.75 | 62.30 | 79.70 | 95.88 | 112.06 | 128.24
66 | 41.80 | 46.95 | 63.30 | 80.11 | 96.80 | 112.46 | 130.18
67 | 42.50 | 47.05 | 64.40 | 80.44 | 97.60 | 112.86 | 131.92
68 | 43.00 | 47.15 | 65.20 | 80.61 | 98.17 | 113.25 | 133.30
69 | 43.55 | 47.20 | 66.00 | 80.84 | 98.80 | 113.66 | 134.70
70 | 44.05 | 47.30 | 67.05 | 81.05 | 99.42 | 114.06 | 136.17
Oversized | 74.73 | 80.59 | 103.05 | 121.34 | 142.41 | 163.47 | 196.61
Notes
¹ Except for oversized pieces, the Zone 1-4 prices are applicable only to parcels containing hazardous or other material not permitted to travel by air transportation.

Limited Overland Routes

Pieces delivered to or from designated intra-Alaska ZIP Codes not connected by overland routes are eligible for the following prices.

Maximum weight (pounds) | Zones 1 & 2 ($) | Zone 3 ($) | Zone 4 ($) | Zone 5 ($)
1 | 6.72 | 7.17 | 7.34 | 7.57
2 | 7.29 | 7.65 | 8.27 | 8.87
3 | 7.56 | 8.72 | 9.61 | 11.66
4 | 8.32 | 9.23 | 10.20 | 12.00
5 | 8.48 | 9.52 | 10.75 | 12.60
6 | 8.64 | 9.79 | 11.07 | 13.31
7 | 8.97 | 10.25 | 11.73 | 14.17
8 | 9.28 | 10.73 | 12.40 | 15.20
9 | 9.60 | 11.38 | 13.09 | 16.23
10 | 9.92 | 11.66 | 13.73 | 17.08
11 | 10.28 | 12.14 | 14.37 | 17.99
12 | 10.59 | 12.63 | 15.02 | 18.89
13 | 10.92 | 13.10 | 15.67 | 19.74
14 | 11.26 | 13.59 | 16.32 | 20.65
15 | 11.58 | 14.07 | 16.97 | 21.54
16 | 11.90 | 14.54 | 17.61 | 22.43
17 | 12.25 | 15.03 | 18.28 | 23.35
18 | 12.56 | 15.49 | 18.91 | 24.22
19 | 12.87 | 15.93 | 19.46 | 25.02
20 | 13.20 | 16.36 | 20.03 | 25.76
21 | 13.52 | 16.79 | 20.58 | 26.48
22 | 13.86 | 17.23 | 21.17 | 27.26
23 | 14.18 | 17.68 | 21.72 | 28.02
24 | 14.51 | 18.11 | 22.30 | 28.78
25 | 14.82 | 18.54 | 22.93 | 29.58
26 | 15.13 | 18.99 | 23.62 | 30.34
27 | 15.46 | 19.41 | 24.21 | 31.29
28 | 15.78 | 19.85 | 24.84 | 32.07
29 | 16.18 | 20.26 | 25.43 | 32.79
30 | 16.58 | 20.70 | 26.02 | 33.55
31 | 17.15 | 21.10 | 26.59 | 34.27
32 | 17.40 | 21.55 | 27.15 | 34.97
33 | 17.80 | 22.01 | 27.75 | 35.73
34 | 18.23 | 22.47 | 28.36 | 36.49
35 | 18.75 | 22.91 | 28.93 | 37.29
36 | 19.02 | 23.37 | 29.48 | 38.09
37 | 19.43 | 23.81 | 30.03 | 38.86
38 | 19.85 | 24.26 | 30.60 | 39.65
39 | 20.29 | 24.72 | 31.16 | 40.44
40 | 20.73 | 25.15 | 31.85 | 41.26
41 | 21.14 | 25.60 | 32.38 | 41.95
42 | 21.48 | 26.06 | 32.97 | 42.77
43 | 21.82 | 26.49 | 33.49 | 43.60
44 | 22.14 | 26.94 | 34.05 | 44.39
45 | 22.47 | 27.34 | 34.58 | 45.24
46 | 22.81 | 27.78 | 35.16 | 46.04
47 | 23.14 | 28.20 | 35.70 | 46.88
48 | 23.46 | 28.63 | 36.24 | 47.71
49 | 23.80 | 29.05 | 36.79 | 48.52
50 | 24.12 | 29.45 | 37.32 | 49.36
51 | 24.46 | 29.89 | 37.88 | 50.14
52 | 24.80 | 30.31 | 38.41 | 50.87
53 | 25.14 | 30.73 | 38.95 | 51.58
54 | 25.45 | 31.13 | 39.48 | 52.30
55 | 25.80 | 31.54 | 40.02 | 53.00
56 | 26.13 | 31.98 | 40.53 | 53.71
57 | 26.48 | 32.38 | 41.08 | 54.41
58 | 26.82 | 32.80 | 41.60 | 55.11
59 | 27.16 | 33.21 | 42.14 | 55.81
60 | 27.49 | 33.61 | 42.70 | 56.49
61 | 27.82 | 34.03 | 43.30 | 57.19
62 | 28.15 | 34.44 | 43.86 | 57.89
63 | 28.49 | 34.86 | 44.47 | 58.58
64 | 28.82 | 35.27 | 45.05 | 59.25
65 | 29.17 | 35.68 | 45.63 | 59.92
66 | 29.50 | 36.09 | 46.23 | 60.63
67 | 29.84 | 36.49 | 46.83 | 61.28
68 | 30.18 | 36.90 | 47.41 | 61.95
69 | 30.51 | 37.32 | 47.99 | 62.63
70 | 30.86 | 38.35 | 48.93 | 63.30
Oversized | 45.03 | 52.35 | 60.78 | 73.87

2300 International Products

* * *

2305 Outbound International Expedited Services

* * *

2305.6 Prices

Global Express Guaranteed Retail Prices
Maximum weight (pounds) | Country price group: 1 ($) | Country price group: 2 ($) | Country price group: 3 ($) | Country price group: 4 ($) | Country price group: 5 ($) | Country price group: 6 ($) | Country price group: 7 ($) | Country price group: 8 ($)
0.5 | 67.80 | 75.50 | 87.05 | 142.95 | 96.45 | 101.00 | 75.80 | 119.20
1 | 81.10 | 82.15 | 98.65 | 162.80 | 111.95 | 114.95 | 89.70 | 133.90
2 | 86.65 | 89.30 | 106.05 | 180.15 | 119.45 | 123.85 | 100.25 | 149.25
3 | 92.25 | 96.50 | 113.45 | 197.55 | 126.95 | 132.80 | 110.75 | 164.60
4 | 97.80 | 103.70 | 120.85 | 214.90 | 134.45 | 141.70 | 121.30 | 179.95
5 | 103.00 | 110.90 | 128.20 | 232.25 | 141.95 | 150.65 | 131.85 | 195.30
6 | 108.20 | 117.55 | 134.90 | 249.40 | 149.45 | 159.60 | 138.85 | 209.95
7 | 113.40 | 124.30 | 141.55 | 266.55 | 157.05 | 168.50 | 145.80 | 224.95
8 | 118.60 | 131.05 | 148.20 | 283.70 | 164.65 | 177.45 | 152.80 | 239.95
9 | 123.80 | 137.80 | 154.85 | 300.85 | 172.25 | 186.35 | 159.75 | 254.95
10 | 129.00 | 144.55 | 161.50 | 318.00 | 179.85 | 195.30 | 166.75 | 269.95
11 | 134.00 | 148.55 | 166.85 | 334.85 | 184.95 | 202.65 | 172.20 | 281.15
12 | 139.05 | 152.70 | 172.35 | 351.95 | 190.25 | 210.20 | 177.80 | 292.65
13 | 144.15 | 156.85 | 177.85 | 369.10 | 195.55 | 217.80 | 183.40 | 304.15
14 | 149.25 | 161.00 | 183.35 | 386.25 | 200.85 | 225.35 | 189.00 | 315.65
15 | 154.35 | 165.10 | 188.85 | 403.40 | 206.15 | 232.90 | 194.60 | 327.15
16 | 159.45 | 169.25 | 194.30 | 420.50 | 211.45 | 240.45 | 200.20 | 338.60
17 | 164.55 | 173.40 | 199.80 | 437.65 | 216.75 | 248.05 | 205.85 | 350.10
18 | 169.65 | 177.50 | 205.30 | 454.80 | 222.00 | 255.60 | 211.45 | 361.60
19 | 174.70 | 181.65 | 210.80 | 471.90 | 227.30 | 263.15 | 217.05 | 373.10
20 | 179.80 | 185.80 | 216.30 | 489.05 | 232.60 | 270.70 | 222.65 | 384.60
21 | 184.75 | 188.65 | 221.80 | 502.75 | 237.90 | 278.00 | 228.05 | 396.05
22 | 189.80 | 191.55 | 227.30 | 516.40 | 243.20 | 285.55 | 233.65 | 407.55
23 | 194.90 | 194.45 | 232.80 | 530.10 | 248.50 | 293.10 | 239.25 | 419.05
24 | 200.00 | 197.30 | 238.30 | 543.75 | 253.75 | 300.65 | 244.85 | 430.55
25 | 205.10 | 200.20 | 243.80 | 557.45 | 259.05 | 308.20 | 250.45 | 442.05
26 | 210.15 | 203.05 | 249.30 | 571.10 | 264.35 | 315.80 | 256.05 | 453.50
27 | 215.25 | 205.95 | 254.80 | 584.80 | 269.65 | 323.35 | 261.65 | 465.00
28 | 220.35 | 208.80 | 260.30 | 598.45 | 274.95 | 330.90 | 267.25 | 476.50
29 | 225.45 | 211.70 | 265.80 | 612.15 | 280.25 | 338.45 | 272.85 | 488.00
30 | 230.50 | 214.60 | 271.30 | 625.80 | 285.55 | 346.00 | 278.45 | 499.50
31 | 234.85 | 217.45 | 276.75 | 639.50 | 290.55 | 353.20 | 284.05 | 510.95
32 | 239.20 | 220.35 | 282.25 | 653.15 | 295.85 | 360.75 | 289.65 | 522.45
33 | 243.60 | 223.20 | 287.75 | 666.85 | 301.10 | 368.30 | 295.25 | 533.95
34 | 247.95 | 226.10 | 293.25 | 680.50 | 306.40 | 375.85 | 300.85 | 545.45
35 | 252.30 | 229.00 | 298.75 | 694.20 | 311.70 | 383.40 | 306.45 | 556.95
36 | 256.65 | 231.85 | 304.25 | 707.85 | 317.00 | 390.95 | 312.05 | 568.40
37 | 261.00 | 234.75 | 309.75 | 721.55 | 322.25 | 398.50 | 317.65 | 579.90
38 | 265.35 | 237.60 | 315.25 | 735.20 | 327.55 | 406.05 | 323.25 | 591.40
39 | 269.70 | 240.50 | 320.75 | 748.90 | 332.85 | 413.60 | 328.85 | 602.90
40 | 274.05 | 243.40 | 326.25 | 762.60 | 338.15 | 421.15 | 334.45 | 614.40
41 | 277.80 | 246.00 | 331.10 | 774.05 | 343.10 | 428.25 | 339.75 | 625.30
42 | 281.50 | 248.90 | 336.60 | 787.65 | 348.35 | 435.80 | 345.35 | 636.75
43 | 285.20 | 251.75 | 342.10 | 801.30 | 353.65 | 443.35 | 350.95 | 648.25
44 | 288.95 | 254.65 | 347.55 | 814.95 | 358.95 | 450.90 | 356.55 | 659.70
45 | 292.65 | 257.55 | 353.05 | 828.60 | 364.20 | 458.45 | 362.15 | 671.20
46 | 296.40 | 260.40 | 358.55 | 842.20 | 369.50 | 465.95 | 367.70 | 682.65
47 | 300.10 | 263.30 | 364.05 | 855.85 | 374.80 | 473.50 | 373.30 | 694.15
48 | 303.85 | 266.15 | 369.50 | 869.50 | 380.05 | 481.05 | 378.90 | 705.65
49 | 307.55 | 269.05 | 375.00 | 883.15 | 385.35 | 488.60 | 384.50 | 717.10
50 | 311.30 | 271.90 | 380.50 | 896.75 | 390.65 | 496.15 | 390.10 | 728.60
51 | 315.00 | 274.80 | 385.95 | 910.40 | 395.90 | 503.20 | 395.70 | 740.05
52 | 318.75 | 277.65 | 391.45 | 924.05 | 401.20 | 510.70 | 401.30 | 751.55
53 | 322.45 | 280.55 | 396.95 | 937.70 | 406.50 | 518.25 | 406.90 | 763.05
54 | 326.20 | 283.40 | 402.45 | 951.30 | 411.75 | 525.80 | 412.50 | 774.50
55 | 329.90 | 286.30 | 407.90 | 964.95 | 417.05 | 533.30 | 418.10 | 786.00
56 | 333.65 | 289.15 | 413.40 | 978.60 | 422.30 | 540.85 | 423.70 | 797.45
57 | 337.35 | 292.05 | 418.90 | 992.25 | 427.60 | 548.40 | 429.30 | 808.95
58 | 341.10 | 294.90 | 424.35 | 1,005.85 | 432.90 | 555.90 | 434.85 | 820.45
59 | 344.80 | 297.80 | 429.85 | 1,019.50 | 438.15 | 563.45 | 440.45 | 831.90
60 | 348.55 | 300.65 | 435.35 | 1,033.15 | 443.45 | 571.00 | 446.05 | 843.40
61 | 351.90 | 303.55 | 440.85 | 1,046.80 | 448.75 | 578.50 | 451.65 | 854.85
62 | 355.65 | 306.45 | 446.30 | 1,060.40 | 454.00 | 586.05 | 457.25 | 866.35
63 | 359.35 | 309.30 | 451.80 | 1,074.05 | 459.30 | 593.60 | 462.85 | 877.80
64 | 363.10 | 312.20 | 457.30 | 1,087.70 | 464.60 | 601.10 | 468.45 | 889.30
65 | 366.80 | 315.05 | 462.80 | 1,101.35 | 469.85 | 608.65 | 474.05 | 900.80
66 | 370.50 | 317.95 | 468.25 | 1,114.95 | 475.15 | 616.20 | 479.65 | 912.25
67 | 374.25 | 320.80 | 473.75 | 1,128.60 | 480.45 | 623.70 | 485.25 | 923.75
68 | 377.95 | 323.70 | 479.25 | 1,142.25 | 485.70 | 631.25 | 490.85 | 935.20
69 | 381.70 | 326.55 | 484.70 | 1,155.85 | 491.00 | 638.80 | 496.45 | 946.70
70 | 385.40 | 329.45 | 490.20 | 1,169.50 | 496.25 | 646.30 | 502.05 | 958.20

Global Express Guaranteed Commercial Base Prices
Maximum weight (pounds) | Country price group: 1 ($) | Country price group: 2 ($) | Country price group: 3 ($) | Country price group: 4 ($) | Country price group: 5 ($) | Country price group: 6 ($) | Country price group: 7 ($) | Country price group: 8 ($)
0.5 | 64.41 | 71.73 | 82.70 | 135.80 | 91.63 | 95.95 | 72.01 | 113.24
1 | 77.05 | 78.04 | 93.72 | 154.66 | 106.35 | 109.20 | 85.22 | 127.21
2 | 82.32 | 84.84 | 100.75 | 171.14 | 113.48 | 117.66 | 95.24 | 141.79
3 | 87.64 | 91.68 | 107.78 | 187.67 | 120.60 | 126.16 | 105.21 | 156.37
4 | 92.91 | 98.52 | 114.81 | 204.16 | 127.73 | 134.62 | 115.24 | 170.95
5 | 97.85 | 105.36 | 121.79 | 220.64 | 134.85 | 143.12 | 125.26 | 185.54
6 | 102.79 | 111.67 | 128.16 | 236.93 | 141.98 | 151.62 | 131.91 | 199.45
7 | 107.73 | 118.09 | 134.47 | 253.22 | 149.20 | 160.08 | 138.51 | 213.70
8 | 112.67 | 124.50 | 140.79 | 269.52 | 156.42 | 168.58 | 145.16 | 227.95
9 | 117.61 | 130.91 | 147.11 | 285.81 | 163.64 | 177.03 | 151.76 | 242.20
10 | 122.55 | 137.32 | 153.43 | 302.10 | 170.86 | 185.54 | 158.41 | 256.45
11 | 127.30 | 141.12 | 158.51 | 318.11 | 175.70 | 192.52 | 163.59 | 267.09
12 | 132.10 | 145.07 | 163.73 | 334.35 | 180.74 | 199.69 | 168.91 | 278.02
13 | 136.94 | 149.01 | 168.96 | 350.65 | 185.77 | 206.91 | 174.23 | 288.94
14 | 141.79 | 152.95 | 174.18 | 366.94 | 190.81 | 214.08 | 179.55 | 299.87
15 | 146.63 | 156.85 | 179.41 | 383.23 | 195.84 | 221.26 | 184.87 | 310.79
16 | 151.48 | 160.79 | 184.59 | 399.48 | 200.88 | 228.43 | 190.19 | 321.67
17 | 156.32 | 164.73 | 189.81 | 415.77 | 205.91 | 235.65 | 195.56 | 332.60
18 | 161.17 | 168.63 | 195.04 | 432.06 | 210.90 | 242.82 | 200.88 | 343.52
19 | 165.97 | 172.57 | 200.26 | 448.31 | 215.94 | 249.99 | 206.20 | 354.45
20 | 170.81 | 176.51 | 205.49 | 464.60 | 220.97 | 257.17 | 211.52 | 365.37
21 | 175.51 | 179.22 | 210.71 | 477.61 | 226.01 | 264.10 | 216.65 | 376.25
22 | 180.31 | 181.97 | 215.94 | 490.58 | 231.04 | 271.27 | 221.97 | 387.17
23 | 185.16 | 184.73 | 221.16 | 503.60 | 236.08 | 278.45 | 227.29 | 398.10
24 | 190.00 | 187.44 | 226.39 | 516.56 | 241.06 | 285.62 | 232.61 | 409.02
25 | 194.85 | 190.19 | 231.61 | 529.58 | 246.10 | 292.79 | 237.93 | 419.95
26 | 199.64 | 192.90 | 236.84 | 542.55 | 251.13 | 300.01 | 243.25 | 430.83
27 | 204.49 | 195.65 | 242.06 | 555.56 | 256.17 | 307.18 | 248.57 | 441.75
28 | 209.33 | 198.36 | 247.29 | 568.53 | 261.20 | 314.36 | 253.89 | 452.68
29 | 214.18 | 201.12 | 252.51 | 581.54 | 266.24 | 321.53 | 259.21 | 463.60
30 | 218.98 | 203.87 | 257.74 | 594.51 | 271.27 | 328.70 | 264.53 | 474.53
31 | 223.11 | 206.58 | 262.91 | 607.53 | 276.02 | 335.54 | 269.85 | 485.40
32 | 227.24 | 209.33 | 268.14 | 620.49 | 281.06 | 342.71 | 275.17 | 496.33
33 | 231.42 | 212.04 | 273.36 | 633.51 | 286.05 | 349.89 | 280.49 | 507.25
34 | 235.55 | 214.80 | 278.59 | 646.48 | 291.08 | 357.06 | 285.81 | 518.18
35 | 239.69 | 217.55 | 283.81 | 659.49 | 296.12 | 364.23 | 291.13 | 529.10
36 | 243.82 | 220.26 | 289.04 | 672.46 | 301.15 | 371.40 | 296.45 | 539.98
37 | 247.95 | 223.01 | 294.26 | 685.47 | 306.14 | 378.58 | 301.77 | 550.91
38 | 252.08 | 225.72 | 299.49 | 698.44 | 311.17 | 385.75 | 307.09 | 561.83
39 | 256.22 | 228.48 | 304.71 | 711.46 | 316.21 | 392.92 | 312.41 | 572.76
40 | 260.35 | 231.23 | 309.94 | 724.47 | 321.24 | 400.09 | 317.73 | 583.68
41 | 263.91 | 233.70 | 314.55 | 735.35 | 325.95 | 406.84 | 322.76 | 594.04
42 | 267.43 | 236.46 | 319.77 | 748.27 | 330.93 | 414.01 | 328.08 | 604.91
43 | 270.94 | 239.16 | 325.00 | 761.24 | 335.97 | 421.18 | 333.40 | 615.84
44 | 274.50 | 241.92 | 330.17 | 774.20 | 341.00 | 428.36 | 338.72 | 626.72
45 | 278.02 | 244.67 | 335.40 | 787.17 | 345.99 | 435.53 | 344.04 | 637.64
46 | 281.58 | 247.38 | 340.62 | 800.09 | 351.03 | 442.65 | 349.32 | 648.52
47 | 285.10 | 250.14 | 345.85 | 813.06 | 356.06 | 449.83 | 354.64 | 659.44
48 | 288.66 | 252.84 | 351.03 | 826.03 | 361.05 | 457.00 | 359.96 | 670.37
49 | 292.17 | 255.60 | 356.25 | 838.99 | 366.08 | 464.17 | 365.28 | 681.25
50 | 295.74 | 258.31 | 361.48 | 851.91 | 371.12 | 471.34 | 370.60 | 692.17
51 | 299.25 | 261.06 | 366.65 | 864.88 | 376.11 | 478.04 | 375.92 | 703.05
52 | 302.81 | 263.77 | 371.88 | 877.85 | 381.14 | 485.17 | 381.24 | 713.97
53 | 306.33 | 266.52 | 377.10 | 890.82 | 386.18 | 492.34 | 386.56 | 724.90
54 | 309.89 | 269.23 | 382.33 | 903.74 | 391.16 | 499.51 | 391.88 | 735.78
55 | 313.41 | 271.99 | 387.51 | 916.70 | 396.20 | 506.64 | 397.20 | 746.70
56 | 316.97 | 274.69 | 392.73 | 929.67 | 401.19 | 513.81 | 402.52 | 757.58
57 | 320.48 | 277.45 | 397.96 | 942.64 | 406.22 | 520.98 | 407.84 | 768.50
58 | 324.05 | 280.16 | 403.13 | 955.56 | 411.26 | 528.11 | 413.11 | 779.43
59 | 327.56 | 282.91 | 408.36 | 968.53 | 416.24 | 535.28 | 418.43 | 790.31
60 | 331.12 | 285.62 | 413.58 | 981.49 | 421.28 | 542.45 | 423.75 | 801.23
61 | 334.31 | 288.37 | 418.81 | 994.46 | 426.31 | 549.58 | 429.07 | 812.11
62 | 337.87 | 291.13 | 423.99 | 1,007.38 | 431.30 | 556.75 | 434.39 | 823.03
63 | 341.38 | 293.84 | 429.21 | 1,020.35 | 436.34 | 563.92 | 439.71 | 833.91
64 | 344.95 | 296.59 | 434.44 | 1,033.32 | 441.37 | 571.05 | 445.03 | 844.84
65 | 348.46 | 299.30 | 439.66 | 1,046.28 | 446.36 | 578.22 | 450.35 | 855.76
66 | 351.98 | 302.05 | 444.84 | 1,059.20 | 451.39 | 585.39 | 455.67 | 866.64
67 | 355.54 | 304.76 | 450.06 | 1,072.17 | 456.43 | 592.52 | 460.99 | 877.56
68 | 359.05 | 307.52 | 455.29 | 1,085.14 | 461.42 | 599.69 | 466.31 | 888.44
69 | 362.62 | 310.22 | 460.47 | 1,098.06 | 466.45 | 606.86 | 471.63 | 899.37
70 | 366.13 | 312.98 | 465.69 | 1,111.03 | 471.44 | 613.99 | 476.95 | 910.29

Global Express Guaranteed Commercial Plus Prices
Maximum weight (pounds) | Country price group: 1 ($) | Country price group: 2 ($) | Country price group: 3 ($) | Country price group: 4 ($) | Country price group: 5 ($) | Country price group: 6 ($) | Country price group: 7 ($) | Country price group: 8 ($)
0.5 | 64.41 | 71.73 | 82.70 | 135.80 | 91.63 | 95.95 | 72.01 | 113.24
1 | 77.05 | 78.04 | 93.72 | 154.66 | 106.35 | 109.20 | 85.22 | 127.21
2 | 82.32 | 84.84 | 100.75 | 171.14 | 113.48 | 117.66 | 95.24 | 141.79
3 | 87.64 | 91.68 | 107.78 | 187.67 | 120.60 | 126.16 | 105.21 | 156.37
4 | 92.91 | 98.52 | 114.81 | 204.16 | 127.73 | 134.62 | 115.24 | 170.95
5 | 97.85 | 105.36 | 121.79 | 220.64 | 134.85 | 143.12 | 125.26 | 185.54
6 | 102.79 | 111.67 | 128.16 | 236.93 | 141.98 | 151.62 | 131.91 | 199.45
7 | 107.73 | 118.09 | 134.47 | 253.22 | 149.20 | 160.08 | 138.51 | 213.70
8 | 112.67 | 124.50 | 140.79 | 269.52 | 156.42 | 168.58 | 145.16 | 227.95
9 | 117.61 | 130.91 | 147.11 | 285.81 | 163.64 | 177.03 | 151.76 | 242.20
10 | 122.55 | 137.32 | 153.43 | 302.10 | 170.86 | 185.54 | 158.41 | 256.45
11 | 127.30 | 141.12 | 158.51 | 318.11 | 175.70 | 192.52 | 163.59 | 267.09
12 | 132.10 | 145.07 | 163.73 | 334.35 | 180.74 | 199.69 | 168.91 | 278.02
13 | 136.94 | 149.01 | 168.96 | 350.65 | 185.77 | 206.91 | 174.23 | 288.94
14 | 141.79 | 152.95 | 174.18 | 366.94 | 190.81 | 214.08 | 179.55 | 299.87
15 | 146.63 | 156.85 | 179.41 | 383.23 | 195.84 | 221.26 | 184.87 | 310.79
16 | 151.48 | 160.79 | 184.59 | 399.48 | 200.88 | 228.43 | 190.19 | 321.67
17 | 156.32 | 164.73 | 189.81 | 415.77 | 205.91 | 235.65 | 195.56 | 332.60
18 | 161.17 | 168.63 | 195.04 | 432.06 | 210.90 | 242.82 | 200.88 | 343.52
19 | 165.97 | 172.57 | 200.26 | 448.31 | 215.94 | 249.99 | 206.20 | 354.45
20 | 170.81 | 176.51 | 205.49 | 464.60 | 220.97 | 257.17 | 211.52 | 365.37
21 | 175.51 | 179.22 | 210.71 | 477.61 | 226.01 | 264.10 | 216.65 | 376.25
22 | 180.31 | 181.97 | 215.94 | 490.58 | 231.04 | 271.27 | 221.97 | 387.17
23 | 185.16 | 184.73 | 221.16 | 503.60 | 236.08 | 278.45 | 227.29 | 398.10
24 | 190.00 | 187.44 | 226.39 | 516.56 | 241.06 | 285.62 | 232.61 | 409.02
25 | 194.85 | 190.19 | 231.61 | 529.58 | 246.10 | 292.79 | 237.93 | 419.95
26 | 199.64 | 192.90 | 236.84 | 542.55 | 251.13 | 300.01 | 243.25 | 430.83
27 | 204.49 | 195.65 | 242.06 | 555.56 | 256.17 | 307.18 | 248.57 | 441.75
28 | 209.33 | 198.36 | 247.29 | 568.53 | 261.20 | 314.36 | 253.89 | 452.68
29 | 214.18 | 201.12 | 252.51 | 581.54 | 266.24 | 321.53 | 259.21 | 463.60
30 | 218.98 | 203.87 | 257.74 | 594.51 | 271.27 | 328.70 | 264.53 | 474.53
31 | 223.11 | 206.58 | 262.91 | 607.53 | 276.02 | 335.54 | 269.85 | 485.40
32 | 227.24 | 209.33 | 268.14 | 620.49 | 281.06 | 342.71 | 275.17 | 496.33
33 | 231.42 | 212.04 | 273.36 | 633.51 | 286.05 | 349.89 | 280.49 | 507.25
34 | 235.55 | 214.80 | 278.59 | 646.48 | 291.08 | 357.06 | 285.81 | 518.18
35 | 239.69 | 217.55 | 283.81 | 659.49 | 296.12 | 364.23 | 291.13 | 529.10
36 | 243.82 | 220.26 | 289.04 | 672.46 | 301.15 | 371.40 | 296.45 | 539.98
37 | 247.95 | 223.01 | 294.26 | 685.47 | 306.14 | 378.58 | 301.77 | 550.91
38 | 252.08 | 225.72 | 299.49 | 698.44 | 311.17 | 385.75 | 307.09 | 561.83
39 | 256.22 | 228.48 | 304.71 | 711.46 | 316.21 | 392.92 | 312.41 | 572.76
40 | 260.35 | 231.23 | 309.94 | 724.47 | 321.24 | 400.09 | 317.73 | 583.68
41 | 263.91 | 233.70 | 314.55 | 735.35 | 325.95 | 406.84 | 322.76 | 594.04
42 | 267.43 | 236.46 | 319.77 | 748.27 | 330.93 | 414.01 | 328.08 | 604.91
43 | 270.94 | 239.16 | 325.00 | 761.24 | 335.97 | 421.18 | 333.40 | 615.84
44 | 274.50 | 241.92 | 330.17 | 774.20 | 341.00 | 428.36 | 338.72 | 626.72
45 | 278.02 | 244.67 | 335.40 | 787.17 | 345.99 | 435.53 | 344.04 | 637.64
46 | 281.58 | 247.38 | 340.62 | 800.09 | 351.03 | 442.65 | 349.32 | 648.52
47 | 285.10 | 250.14 | 345.85 | 813.06 | 356.06 | 449.83 | 354.64 | 659.44
48 | 288.66 | 252.84 | 351.03 | 826.03 | 361.05 | 457.00 | 359.96 | 670.37
49 | 292.17 | 255.60 | 356.25 | 838.99 | 366.08 | 464.17 | 365.28 | 681.25
50 | 295.74 | 258.31 | 361.48 | 851.91 | 371.12 | 471.34 | 370.60 | 692.17
51 | 299.25 | 261.06 | 366.65 | 864.88 | 376.11 | 478.04 | 375.92 | 703.05
52 | 302.81 | 263.77 | 371.88 | 877.85 | 381.14 | 485.17 | 381.24 | 713.97
53 | 306.33 | 266.52 | 377.10 | 890.82 | 386.18 | 492.34 | 386.56 | 724.90
54 | 309.89 | 269.23 | 382.33 | 903.74 | 391.16 | 499.51 | 391.88 | 735.78
55 | 313.41 | 271.99 | 387.51 | 916.70 | 396.20 | 506.64 | 397.20 | 746.70
56 | 316.97 | 274.69 | 392.73 | 929.67 | 401.19 | 513.81 | 402.52 | 757.58
57 | 320.48 | 277.45 | 397.96 | 942.64 | 406.22 | 520.98 | 407.84 | 768.50
58 | 324.05 | 280.16 | 403.13 | 955.56 | 411.26 | 528.11 | 413.11 | 779.43
59 | 327.56 | 282.91 | 408.36 | 968.53 | 416.24 | 535.28 | 418.43 | 790.31
60 | 331.12 | 285.62 | 413.58 | 981.49 | 421.28 | 542.45 | 423.75 | 801.23
61 | 334.31 | 288.37 | 418.81 | 994.46 | 426.31 | 549.58 | 429.07 | 812.11
62 | 337.87 | 291.13 | 423.99 | 1,007.38 | 431.30 | 556.75 | 434.39 | 823.03
63 | 341.38 | 293.84 | 429.21 | 1,020.35 | 436.34 | 563.92 | 439.71 | 833.91
64 | 344.95 | 296.59 | 434.44 | 1,033.32 | 441.37 | 571.05 | 445.03 | 844.84
65 | 348.46 | 299.30 | 439.66 | 1,046.28 | 446.36 | 578.22 | 450.35 | 855.76
66 | 351.98 | 302.05 | 444.84 | 1,059.20 | 451.39 | 585.39 | 455.67 | 866.64
67 | 355.54 | 304.76 | 450.06 | 1,072.17 | 456.43 | 592.52 | 460.99 | 877.56
68 | 359.05 | 307.52 | 455.29 | 1,085.14 | 461.42 | 599.69 | 466.31 | 888.44
69 | 362.62 | 310.22 | 460.47 | 1,098.06 | 466.45 | 606.86 | 471.63 | 899.37
70 | 366.13 | 312.98 | 465.69 | 1,111.03 | 471.44 | 613.99 | 476.95 | 910.29

Priority Mail Express International Flat Rate Retail Prices
| Country price group: 1 ($) | Country price group: 2 ($) | Country price group: 3 ($) | Country price group: 4 ($) | Country price group: 5 ($) | Country price group: 6 ($) | Country price group: 7 ($) | Country price group: 8 ($)
Flat Rate Envelope | 44.50 | 61.85 | 65.85 | 64.25 | 66.50 | 67.00 | 64.95 | 67.90

Priority Mail Express International Flat Rate Commercial Base Prices
| Country price group: 1 ($) | Country price group: 2 ($) | Country price group: 3 ($) | Country price group: 4 ($) | Country price group: 5 ($) | Country price group: 6 ($) | Country price group: 7 ($) | Country price group: 8 ($)
Flat Rate Envelope | 42.30 | 56.75 | 61.95 | 59.45 | 62.55 | 64.60 | 61.90 | 63.00

Priority Mail Express International Flat Rate Commercial Plus Prices
| Country price group: 1 ($) | Country price group: 2 ($) | Country price group: 3 ($) | Country price group: 4 ($) | Country price group: 5 ($) | Country price group: 6 ($) | Country price group: 7 ($) | Country price group: 8 ($)
Flat Rate Envelope | 42.30 | 56.75 | 61.95 | 59.45 | 62.55 | 64.60 | 61.90 | 63.00

Priority Mail Express International Retail Prices
Maximum weight (pounds) | Country price group: 1 ($) | Country price group: 2 ($) | Country price group: 3 ($) | Country price group: 4 ($) | Country price group: 5 ($) | Country price group: 6 ($) | Country price group: 7 ($) | Country price group: 8 ($) | Country price group: 9 ($)
0.5 | 44.00 | 54.00 | 58.95 | 68.40 | 62.90 | 63.00 | 62.95 | 60.90 | 58.50
1 | 48.10 | 58.20 | 63.35 | 69.80 | 64.85 | 66.80 | 68.95 | 65.95 | 63.20
2 | 53.20 | 62.40 | 69.10 | 75.35 | 69.05 | 71.75 | 75.70 | 71.35 | 68.10
3 | 58.30 | 66.60 | 74.85 | 80.90 | 73.25 | 76.65 | 82.40 | 76.75 | 73.05
4 | 63.45 | 70.80 | 80.55 | 86.45 | 77.50 | 81.60 | 89.15 | 82.15 | 78.00
5 | 68.55 | 75.00 | 86.30 | 92.00 | 81.70 | 86.50 | 95.90 | 87.55 | 82.95
6 | 73.70 | 78.10 | 90.50 | 98.00 | 85.90 | 91.65 | 102.75 | 92.85 | 87.55
7 | 78.80 | 81.05 | 94.70 | 103.55 | 90.10 | 96.70 | 109.50 | 98.20 | 92.20
8 | 83.95 | 84.00 | 98.90 | 109.15 | 94.35 | 101.70 | 116.25 | 103.50 | 96.80
9 | 89.05 | 86.95 | 103.10 | 114.70 | 98.55 | 106.75 | 123.00 | 108.80 | 101.45
10 | 94.20 | 89.90 | 107.30 | 120.30 | 102.75 | 111.80 | 129.75 | 114.10 | 106.10
11 | 99.20 | 92.95 | 111.00 | 125.80 | 106.85 | 117.05 | 136.60 | 119.40 | 110.80
12 | 104.10 | 95.90 | 114.75 | 131.35 | 111.05 | 122.10 | 143.35 | 124.70 | 115.55
13 | 109.05 | 98.85 | 118.45 | 136.85 | 115.30 | 127.15 | 150.10 | 130.00 | 120.30
14 | 113.95 | 101.85 | 122.20 | 142.40 | 119.50 | 132.20 | 156.85 | 135.30 | 125.00
15 | 118.90 | 104.80 | 125.90 | 147.90 | 123.70 | 137.25 | 163.60 | 140.60 | 129.75
16 | 123.80 | 107.65 | 129.65 | 153.45 | 127.90 | 142.30 | 170.35 | 145.90 | 134.45
17 | 128.70 | 110.50 | 133.35 | 158.95 | 132.10 | 147.35 | 177.15 | 151.20 | 139.20
18 | 133.65 | 113.35 | 137.10 | 164.50 | 136.30 | 152.40 | 183.90 | 156.50 | 143.95
19 | 138.55 | 116.20 | 140.80 | 170.00 | 140.50 | 157.45 | 190.65 | 161.80 | 148.65
20 | 143.50 | 119.05 | 144.55 | 175.50 | 144.75 | 162.50 | 197.40 | 167.15 | 153.40
21 | 148.10 | 121.90 | 148.40 | 181.05 | 148.95 | 167.55 | 204.35 | 171.60 | 158.30
22 | 153.05 | 124.75 | 152.15 | 186.55 | 153.15 | 172.60 | 211.10 | 176.90 | 163.00
23 | 157.95 | 127.60 | 155.85 | 192.10 | 157.35 | 177.65 | 217.85 | 182.15 | 167.75
24 | 162.85 | 130.50 | 159.60 | 197.60 | 161.55 | 182.70 | 224.60 | 187.45 | 172.50
25 | 167.75 | 133.35 | 163.35 | 203.15 | 165.75 | 187.75 | 231.35 | 192.70 | 177.25

Maximum weight (pounds) | Country price group: 10 ($) | Country price group: 11 ($) | Country price group: 12 ($) | Country price group: 13 ($) | Country price group: 14 ($) | Country price group: 15 ($) | Country price group: 16 ($) | Country price group: 17 ($)
0.5 | 68.05 | 64.90 | 62.55 | 64.90 | 64.70 | 66.65 | 64.90 | 64.90
1 | 71.00 | 67.50 | 71.75 | 67.55 | 66.65 | 70.40 | 67.45 | 67.55
2 | 77.50 | 72.05 | 77.30 | 70.95 | 73.10 | 74.95 | 70.65 | 70.55
3 | 84.00 | 76.55 | 82.90 | 74.30 | 79.50 | 79.55 | 73.85 | 73.50
4 | 90.50 | 81.10 | 88.45 | 77.70 | 85.95 | 84.10 | 77.00 | 76.50
5 | 97.00 | 85.60 | 94.00 | 81.05 | 92.40 | 88.65 | 80.20 | 79.45
6 | 103.80 | 89.20 | 99.25 | 84.55 | 98.90 | 93.35 | 83.30 | 82.40
7 | 110.50 | 92.70 | 104.50 | 88.05 | 105.45 | 98.00 | 86.35 | 85.40
8 | 117.20 | 96.20 | 109.75 | 91.50 | 111.95 | 102.70 | 89.45 | 88.35
9 | 123.90 | 99.65 | 115.00 | 95.00 | 118.50 | 107.35 | 92.55 | 91.35
10 | 130.60 | 103.15 | 120.30 | 98.50 | 125.05 | 112.05 | 95.60 | 94.30
11 | 137.45 | 106.75 | 124.45 | 101.95 | 130.10 | 116.70 | 99.35 | 97.90
12 | 144.25 | 110.25 | 128.85 | 105.45 | 136.95 | 121.40 | 103.05 | 101.50
13 | 151.05 | 113.75 | 133.30 | 108.95 | 143.80 | 126.05 | 106.75 | 105.10
14 | 157.85 | 117.25 | 137.70 | 112.40 | 150.65 | 130.70 | 110.45 | 108.70
15 | 164.70 | 120.75 | 142.10 | 115.90 | 157.50 | 135.40 | 114.15 | 112.30
16 | 171.50 | 124.20 | 146.50 | 119.40 | 164.35 | 140.05 | 117.90 | 115.85
17 | 178.30 | 127.70 | 150.95 | 122.90 | 171.20 | 144.75 | 121.60 | 119.45
18 | 185.10 | 131.20 | 155.35 | 126.35 | 178.05 | 149.40 | 125.30 | 123.05
19 | 191.95 | 134.70 | 159.75 | 129.85 | 184.90 | 154.10 | 129.00 | 126.65
20 | 198.75 | 138.20 | 164.15 | 133.35 | 191.75 | 158.75 | 132.70 | 130.25
21 | 205.75 | 141.85 | 168.25 | 136.80 | 197.85 | 163.45 | 135.25 | 133.20
22 | 212.55 | 145.30 | 172.65 | 140.30 | 204.00 | 168.10 | 138.95 | 136.80
23 | 219.40 | 148.80 | 177.05 | 143.80 | 210.10 | 172.80 | 142.60 | 140.35
24 | 226.20 | 152.30 | 181.45 | 147.25 | 216.25 | 177.45 | 146.30 | 143.95
25 | 233.05 | 155.80 | 185.85 | 150.75 | 222.40 | 182.10 | 149.95 | 147.50

Maximum weight (pounds) | Country price group: 1 ($) | Country price group: 2 ($) | Country price group: 3 ($) | Country price group: 4 ($) | Country price group: 5 ($) | Country price group: 6 ($) | Country price group: 7 ($) | Country price group: 8 ($) | Country price group: 9 ($)
26 | 172.70 | 136.20 | 167.05 | 208.65 | 170.00 | 192.80 | 238.15 | 198.00 | 181.95
27 | 177.60 | 139.05 | 170.80 | 214.20 | 174.20 | 197.85 | 244.90 | 203.25 | 186.70
28 | 182.50 | 141.90 | 174.50 | 219.70 | 178.40 | 202.90 | 251.65 | 208.55 | 191.45
29 | 187.40 | 144.75 | 178.25 | 225.25 | 182.60 | 207.95 | 258.40 | 213.85 | 196.20
30 | 192.30 | 147.60 | 181.95 | 230.75 | 186.80 | 213.00 | 265.15 | 219.10 | 200.90
31 | 196.05 | 150.60 | 185.70 | 235.60 | 191.00 | 218.05 | 272.20 | 224.40 | 205.85
32 | 200.10 | 153.45 | 189.45 | 241.10 | 195.25 | 223.10 | 278.95 | 229.65 | 210.60
33 | 204.20 | 156.30 | 193.15 | 246.60 | 199.45 | 228.15 | 285.75 | 234.95 | 215.35
34 | 208.25 | 159.15 | 196.90 | 252.10 | 203.65 | 233.20 | 292.50 | 240.20 | 220.05
35 | 212.35 | 162.05 | 200.60 | 257.60 | 207.85 | 238.25 | 299.25 | 245.50 | 224.80
36 | 216.40 | 164.90 | 204.35 | 263.15 | 212.05 | 243.30 | 306.05 | 250.80 | 229.55
37 | 220.50 | 167.75 | 208.10 | 268.65 | 216.25 | 248.35 | 312.80 | 256.05 | 234.30
38 | 224.55 | 170.60 | 211.80 | 274.15 | 220.50 | 253.40 | 319.55 | 261.35 | 239.05
39 | 228.65 | 173.45 | 215.55 | 279.65 | 224.70 | 258.45 | 326.30 | 266.60 | 243.80
40 | 232.70 | 176.30 | 219.25 | 285.15 | 228.90 | 263.50 | 333.10 | 271.90 | 248.50
41 | 236.35 | 179.35 | 223.20 | 290.65 | 233.10 | 268.80 | 339.85 | 277.15 | 253.25
42 | 240.40 | 182.20 | 226.95 | 296.15 | 237.30 | 273.85 | 346.60 | 282.45 | 258.00
43 | 244.45 | 185.05 | 230.70 | 301.65 | 241.50 | 278.90 | 353.40 | 287.75 | 262.75
44 | 248.55 | 187.95 | 234.40 | 307.20 | 245.70 | 283.95 | 360.15 | 293.00 | 267.50
45 | 252.60 | 190.80 | 238.15 | 312.70 | 249.95 | 289.00 | 366.90 | 298.30 | 272.20
46 | 256.70 | 193.65 | 241.90 | 318.20 | 254.15 | 294.05 | 373.70 | 303.55 | 276.95
47 | 260.75 | 196.50 | 245.60 | 323.70 | 258.35 | 299.10 | 380.45 | 308.85 | 281.70
48 | 264.80 | 199.35 | 249.35 | 329.20 | 262.55 | 304.15 | 387.20 | 314.10 | 286.45
49 | 268.90 | 202.25 | 253.10 | 334.70 | 266.75 | 309.20 | 394.00 | 319.40 | 291.20
50 | 272.95 | 205.10 | 256.80 | 340.20 | 270.95 | 314.25 | 400.75 | 324.70 | 295.95

Maximum weight (pounds) | Country price group: 10 ($) | Country price group: 11 ($) | Country price group: 12 ($) | Country price group: 13 ($) | Country price group: 14 ($) | Country price group: 15 ($) | Country price group: 16 ($) | Country price group: 17 ($)
26 | 239.85 | 159.30 | 190.25 | 154.25 | 228.50 | 186.80 | 153.65 | 151.10
27 | 246.65 | 162.80 | 194.65 | 157.70 | 234.65 | 191.45 | 157.30 | 154.65
28 | 253.50 | 166.30 | 199.05 | 161.20 | 240.75 | 196.15 | 161.00 | 158.25
29 | 260.30 | 169.80 | 203.45 | 164.70 | 246.90 | 200.80 | 164.65 | 161.80
30 | 267.10 | 173.30 | 207.85 | 168.15 | 253.00 | 205.50 | 168.35 | 165.40
31 | 274.20 | 176.95 | 211.85 | 171.65 | 259.15 | 210.15 | 171.85 | 168.80
32 | 281.05 | 180.45 | 216.25 | 175.15 | 265.30 | 214.85 | 175.55 | 172.40
33 | 287.85 | 183.95 | 220.65 | 178.60 | 271.40 | 219.50 | 179.20 | 175.95
34 | 294.70 | 187.45 | 225.05 | 182.10 | 277.55 | 224.20 | 182.90 | 179.55
35 | 301.50 | 190.95 | 229.45 | 185.60 | 283.65 | 228.85 | 186.55 | 183.10
36 | 308.35 | 194.45 | 233.85 | 189.05 | 289.80 | 233.50 | 190.25 | 186.70
37 | 315.15 | 198.00 | 238.25 | 192.55 | 295.90 | 238.20 | 193.90 | 190.25
38 | 322.00 | 201.50 | 242.65 | 196.05 | 302.05 | 242.85 | 197.60 | 193.85
39 | 328.80 | 205.00 | 247.00 | 199.50 | 308.20 | 247.55 | 201.25 | 197.40
40 | 335.65 | 208.50 | 251.40 | 203.00 | 314.30 | 252.20 | 204.95 | 201.00
41 | 342.80 | 212.20 | 255.55 | 206.50 | 320.45 | 256.90 | 208.40 | 204.35
42 | 349.60 | 215.70 | 259.95 | 210.00 | 326.55 | 261.55 | 212.05 | 207.95
43 | 356.45 | 219.20 | 264.35 | 213.45 | 332.70 | 266.25 | 215.75 | 211.50
44 | 363.30 | 222.70 | 268.75 | 216.95 | 338.80 | 270.90 | 219.40 | 215.05
45 | 370.10 | 226.20 | 273.15 | 220.45 | 344.95 | 275.55 | 223.10 | 218.65
46 | 376.95 | 229.70 | 277.50 | 223.90 | 351.10 | 280.25 | 226.75 | 222.20
47 | 383.75 | 233.20 | 281.90 | 227.40 | 357.20 | 284.90 | 230.45 | 225.80
48 | 390.60 | 236.70 | 286.30 | 230.90 | 363.35 | 289.60 | 234.10 | 229.35
49 | 397.45 | 240.20 | 290.70 | 234.35 | 369.45 | 294.25 | 237.75 | 232.95
50 | 404.25 | 243.70 | 295.10 | 237.85 | 375.60 | 298.95 | 241.45 | 236.50

Maximum weight (pounds) | Country price group: 1 ($) | Country price group: 2 ($) | Country price group: 3 ($) | Country price group: 4 ($) | Country price group: 5 ($) | Country price group: 6 ($) | Country price group: 7 ($) | Country price group: 8 ($) | Country price group: 9 ($)
51 | 277.00 | 209.95 | 260.55 | 345.75 | 275.20 | 319.30 | 407.50 | 329.95 | 300.95
52 | 281.10 | 212.85 | 264.30 | 351.25 | 279.40 | 324.35 | 414.30 | 335.25 | 305.70
53 | 285.15 | 215.70 | 268.00 | 356.75 | 283.60 | 329.45 | 421.05 | 340.50 | 310.45
54 | 289.20 | 218.60 | 271.75 | 362.25 | 287.80 | 334.50 | 427.80 | 345.80 | 315.20
55 | 293.30 | 221.50 | 275.50 | 367.75 | 292.00 | 339.55 | 434.60 | 351.05 | 319.95
56 | 297.35 | 224.40 | 279.20 | 373.25 | 296.20 | 344.60 | 441.35 | 356.35 | 324.70
57 | 301.45 | 227.25 | 282.95 | 378.75 | 300.45 | 349.65 | 448.10 | 361.65 | 329.45
58 | 305.50 | 230.15 | 286.70 | 384.25 | 304.65 | 354.70 | 454.90 | 366.90 | 334.20
59 | 309.55 | 233.05 | 290.40 | 389.80 | 308.85 | 359.75 | 461.65 | 372.20 | 338.90
60 | 313.65 | 235.95 | 294.15 | 395.30 | 313.05 | 364.80 | 468.40 | 377.45 | 343.65
61 | 317.70 | 238.80 | 297.90 | 400.80 | 317.25 | 369.85 | 475.20 | 382.75 | 348.40
62 | 321.75 | 241.70 | 301.60 | 406.30 | 321.45 | 374.90 | 481.95 | 388.00 | 353.15
63 | 325.85 | 244.60 | 305.35 | 411.80 | 325.65 | 379.95 | 488.70 | 393.30 | 357.90
64 | 329.90 | 247.50 | 309.10 | 417.30 | 329.90 | 385.00 | 495.50 | 398.60 | 362.65
65 | 334.00 | 250.35 | 312.80 | 422.80 | 334.10 | 390.05 | 502.25 | 403.85 | 367.40
66 | 338.05 | 253.25 | 316.55 | 428.35 | 338.30 | 395.15 | 509.00 | 409.15 | 372.15
67 |  | 256.15 | 320.30 | 433.85 | 342.50 | 400.20 | 515.80 | 414.40 | 376.90
68 |  | 259.05 | 324.00 | 439.35 | 346.70 | 405.25 | 522.55 | 419.70 | 381.65
69 |  | 261.90 | 327.75 | 444.85 | 350.90 | 410.30 | 529.30 | 424.95 | 386.40
70 |  | 264.80 | 331.50 | 450.35 | 355.15 | 415.35 | 536.10 | 430.25 | 391.15

Maximum weight (pounds) | Country price group: 10 ($) | Country price group: 11 ($) | Country price group: 12 ($) | Country price group: 13 ($) | Country price group: 14 ($) | Country price group: 15 ($) | Country price group: 16 ($) | Country price group: 17 ($)
51 | 411.50 | 247.20 | 299.20 | 241.35 | 381.70 | 303.60 | 245.10 | 240.05
52 | 418.35 | 250.75 | 303.55 | 244.80 | 387.85 | 308.30 | 248.80 | 243.65
53 | 425.15 | 254.25 | 307.95 | 248.30 | 394.00 | 312.95 | 252.45 | 247.20
54 | 432.00 | 257.75 | 312.35 | 251.80 | 400.10 | 317.65 | 256.10 | 250.80
55 | 438.85 | 261.25 | 316.70 | 255.25 | 406.25 | 322.30 | 259.80 | 254.35
56 | 445.70 | 264.75 | 321.10 | 258.75 | 412.35 | 326.95 | 263.45 | 257.90
57 | 452.50 | 268.25 | 325.50 | 262.25 | 418.50 | 331.65 | 267.15 | 261.50
58 | 459.35 | 271.75 | 329.90 | 265.70 | 424.60 | 336.30 | 270.80 | 265.05
59 | 466.20 | 275.25 | 334.25 | 269.20 | 430.75 | 341.00 | 274.50 | 268.65
60 | 473.05 | 278.75 | 338.65 | 272.70 | 436.85 | 345.65 | 278.15 | 272.20
61 | 480.35 | 282.25 | 342.70 | 276.15 | 443.00 | 350.35 | 281.55 | 275.50
62 | 487.20 | 285.75 | 347.10 | 279.65 | 449.15 | 355.00 | 285.20 | 279.10
63 | 494.00 | 289.25 | 351.45 | 283.15 | 455.25 | 359.70 | 288.90 | 282.65
64 | 500.85 | 292.80 | 355.85 | 286.60 | 461.40 | 364.35 | 292.55 | 286.20
65 | 507.70 | 296.30 | 360.25 | 290.10 | 467.50 | 369.00 | 296.20 | 289.80
66 | 514.55 | 299.80 | 364.60 | 293.60 | 473.65 | 373.70 | 299.90 | 293.35
67 |  |  |  |  |  |  |  |
68 |  |  |  |  |  |  |  |
69 |  |  |  |  |  |  |  |
70 |  |  |  |  |  |  |  |

Priority Mail Express International Offered at a Discount at Retail

If a customer requests PMI at a Postal Service retail counter for an item for which postage has not been previously paid, weight-rated PMEI may be offered to certain destinations, for certain weight steps, at a discounted price equivalent to the corresponding weight-based rate in the PMI Parcels Retail price table (2315.6), if all PMEI eligibility requirements are met and the Postal Service determines that service can be improved and/or the PMEI destination country delivery costs are lower than PMI destination country delivery costs.

Countries and Weight Steps for Which Priority Mail Express International Offered at a Discount at Retail Is Available
Country | Weight steps (lbs.)
Australia | 8-66
Brazil | 5-66
Chile | 8-44
China | 1-10
France | 2-66
Germany | 1-4
Great Britain | 2-66
India | 19-44
Israel | 1-5
Mexico | 50-70
New Zealand | 8-66
Philippines | 19-44
Russia | 4-44
Spain | 1-10

Priority Mail Express International Commercial Base Prices
Maximum weight (pounds) | Country price group: 1 ($) | Country price group: 2 ($) | Country price group: 3 ($) | Country price group: 4 ($) | Country price group: 5 ($) | Country price group: 6 ($) | Country price group: 7 ($) | Country price group: 8 ($) | Country price group: 9 ($)
0.5 | 42.00 | 51.30 | 56.26 | 65.16 | 59.78 | 59.84 | 60.69 | 57.58 | 55.49
1 | 45.90 | 55.52 | 60.47 | 66.50 | 61.60 | 63.64 | 66.39 | 62.94 | 60.19
2 | 50.78 | 59.52 | 65.95 | 71.78 | 65.60 | 68.34 | 72.87 | 68.10 | 64.91
3 | 55.67 | 63.51 | 71.44 | 77.06 | 69.61 | 73.04 | 79.37 | 73.26 | 69.61
4 | 60.57 | 67.51 | 76.92 | 82.35 | 73.61 | 77.73 | 85.86 | 78.43 | 74.31
5 | 65.46 | 71.51 | 82.40 | 87.64 | 77.60 | 82.43 | 92.35 | 83.59 | 79.02
6 | 70.35 | 74.40 | 86.40 | 92.92 | 81.61 | 87.23 | 98.83 | 88.66 | 83.43
7 | 75.23 | 77.21 | 90.41 | 98.21 | 85.61 | 92.02 | 105.33 | 93.72 | 87.84
8 | 80.13 | 80.03 | 94.40 | 103.49 | 89.62 | 96.82 | 111.82 | 98.78 | 92.25
9 | 85.02 | 82.85 | 98.40 | 108.78 | 93.61 | 101.61 | 118.31 | 103.84 | 96.65
10 | 89.91 | 85.66 | 102.41 | 114.07 | 97.61 | 106.41 | 124.79 | 108.91 | 101.07
11 | 94.14 | 88.47 | 105.97 | 119.30 | 101.62 | 111.21 | 131.42 | 113.42 | 105.47
12 | 98.82 | 91.29 | 109.52 | 124.54 | 105.62 | 116.01 | 137.91 | 118.47 | 109.98
13 | 103.49 | 94.11 | 113.08 | 129.77 | 109.62 | 120.80 | 144.41 | 123.50 | 114.48
14 | 108.16 | 96.93 | 116.64 | 135.01 | 113.62 | 125.60 | 150.90 | 128.54 | 118.99
15 | 112.83 | 99.74 | 120.19 | 140.24 | 117.62 | 130.40 | 157.40 | 133.58 | 123.49
16 | 117.50 | 102.46 | 123.75 | 145.49 | 121.63 | 135.19 | 163.90 | 138.62 | 128.00
17 | 122.17 | 105.18 | 127.31 | 150.72 | 125.62 | 139.98 | 170.39 | 143.66 | 132.50
18 | 126.84 | 107.89 | 130.86 | 155.96 | 129.63 | 144.78 | 176.88 | 148.70 | 137.00
19 | 131.51 | 110.60 | 134.42 | 161.19 | 133.63 | 149.58 | 183.39 | 153.73 | 141.50
20 | 136.19 | 113.33 | 137.98 | 166.43 | 137.63 | 154.38 | 189.88 | 158.78 | 146.02
21 | 140.85 | 116.04 | 141.81 | 171.66 | 141.63 | 159.17 | 196.38 | 163.81 | 150.52
22 | 145.52 | 118.76 | 145.37 | 176.90 | 145.63 | 163.97 | 202.87 | 168.85 | 155.02
23 | 150.19 | 121.47 | 148.93 | 182.14 | 149.64 | 168.77 | 209.37 | 173.89 | 159.52
24 | 154.87 | 124.20 | 152.50 | 187.38 | 153.64 | 173.57 | 215.87 | 178.93 | 164.03
25 | 159.53 | 126.91 | 156.06 | 192.61 | 157.63 | 178.35 | 222.36 | 183.97 | 168.53

Maximum weight (pounds) | Country price group: 10 ($) | Country price group: 11 ($) | Country price group: 12 ($) | Country price group: 13 ($) | Country price group: 14 ($) | Country price group: 15 ($) | Country price group: 16 ($) | Country price group: 17 ($)
0.5 | 64.72 | 62.24 | 61.20 | 62.24 | 61.21 | 62.98 | 60.75 | 62.30
1 | 67.53 | 64.07 | 68.17 | 64.17 | 63.03 | 66.57 | 63.90 | 64.14
2 | 73.70 | 68.37 | 73.46 | 67.38 | 69.11 | 70.88 | 66.92 | 66.96
3 | 79.88 | 72.66 | 78.75 | 70.60 | 75.19 | 75.20 | 69.94 | 69.77
4 | 86.06 | 76.97 | 84.03 | 73.81 | 81.27 | 79.52 | 72.96 | 72.59
5 | 92.23 | 81.27 | 89.32 | 77.01 | 87.34 | 83.84 | 75.97 | 75.41
6 | 98.60 | 84.57 | 94.31 | 80.33 | 93.07 | 88.26 | 78.90 | 78.16
7 | 104.98 | 87.88 | 99.30 | 83.64 | 99.22 | 92.67 | 81.82 | 80.96
8 | 111.35 | 91.20 | 104.28 | 86.94 | 105.35 | 97.09 | 84.74 | 83.78
9 | 117.72 | 94.50 | 109.27 | 90.25 | 111.50 | 101.51 | 87.65 | 86.60
10 | 124.09 | 97.81 | 114.26 | 93.57 | 117.65 | 105.93 | 90.58 | 89.42
11 | 130.56 | 101.12 | 118.47 | 96.88 | 124.19 | 110.34 | 94.09 | 92.82
12 | 137.04 | 104.44 | 122.66 | 100.18 | 130.72 | 114.76 | 97.60 | 96.23
13 | 143.51 | 107.74 | 126.86 | 103.49 | 137.26 | 119.18 | 101.12 | 99.64
14 | 149.98 | 111.05 | 131.06 | 106.81 | 143.80 | 123.60 | 104.64 | 103.05
15 | 156.45 | 114.36 | 135.26 | 110.12 | 150.34 | 128.01 | 108.15 | 106.45
16 | 162.93 | 117.68 | 139.45 | 113.42 | 156.87 | 132.43 | 111.66 | 109.87
17 | 169.40 | 120.98 | 143.66 | 116.73 | 163.42 | 136.85 | 115.17 | 113.28
18 | 175.86 | 124.29 | 147.86 | 120.05 | 169.96 | 141.27 | 118.69 | 116.69
19 | 182.33 | 127.60 | 152.06 | 123.35 | 176.50 | 145.68 | 122.21 | 120.09
20 | 188.81 | 130.92 | 156.25 | 126.66 | 183.03 | 150.10 | 125.72 | 123.50
21 | 195.47 | 134.09 | 160.45 | 129.97 | 188.89 | 154.52 | 129.23 | 126.91
22 | 201.94 | 137.40 | 164.65 | 133.29 | 194.74 | 158.94 | 132.75 | 130.32
23 | 208.42 | 140.70 | 168.85 | 136.59 | 200.58 | 163.35 | 136.26 | 133.72
24 | 214.90 | 144.02 | 173.05 | 139.90 | 206.43 | 167.77 | 139.77 | 137.13
25 | 221.38 | 147.32 | 177.25 | 143.21 | 212.29 | 172.20 | 143.29 | 140.55

Maximum weight (pounds) | Country price group: 1 ($) | Country price group: 2 ($) | Country price group: 3 ($) | Country price group: 4 ($) | Country price group: 5 ($) | Country price group: 6 ($) | Country price group: 7 ($) | Country price group: 8 ($) | Country price group: 9 ($)
26 | 164.20 | 129.63 | 159.62 | 197.85 | 161.64 | 183.15 | 228.86 | 189.01 | 173.03
27 | 168.87 | 132.34 | 163.19 | 203.08 | 165.64 | 187.95 | 235.36 | 194.04 | 177.54
28 | 173.55 | 135.06 | 166.75 | 208.32 | 169.64 | 192.75 | 241.85 | 199.09 | 182.05
29 | 178.22 | 137.78 | 170.31 | 213.55 | 173.64 | 197.54 | 248.35 | 204.12 | 186.55
30 | 182.88 | 140.49 | 173.88 | 218.80 | 177.64 | 202.34 | 254.84 | 209.16 | 191.05
31 | 186.77 | 142.79 | 177.95 | 224.03 | 181.65 | 207.14 | 261.34 | 214.20 | 195.55
32 | 190.66 | 145.51 | 181.53 | 229.27 | 185.65 | 211.94 | 267.84 | 219.24 | 200.06
33 | 194.54 | 148.22 | 185.10 | 234.50 | 189.64 | 216.73 | 274.33 | 224.28 | 204.57
34 | 198.42 | 150.92 | 188.67 | 239.74 | 193.65 | 221.52 | 280.83 | 229.32 | 209.07
35 | 202.30 | 153.63 | 192.25 | 244.97 | 197.65 | 226.32 | 287.33 | 234.35 | 213.57
36 | 206.19 | 156.35 | 195.82 | 250.21 | 201.66 | 231.12 | 293.82 | 239.40 | 218.08
37 | 210.07 | 159.06 | 199.40 | 255.44 | 205.65 | 235.91 | 300.32 | 244.43 | 222.58
38 | 213.96 | 161.76 | 202.97 | 260.69 | 209.65 | 240.71 | 306.81 | 249.48 | 227.08
39 | 217.84 | 164.47 | 206.54 | 265.92 | 213.66 | 245.51 | 313.31 | 254.51 | 231.58
40 | 221.73 | 167.19 | 210.12 | 271.16 | 217.66 | 250.31 | 319.81 | 259.55 | 236.10
41 | 225.61 | 170.06 | 213.69 | 276.39 | 221.66 | 253.63 | 326.30 | 262.04 | 239.44
42 | 229.49 | 172.76 | 217.27 | 281.63 | 225.66 | 258.40 | 332.80 | 267.04 | 243.92
43 | 233.37 | 175.47 | 220.84 | 286.86 | 229.66 | 263.17 | 339.30 | 272.02 | 248.40
44 | 237.26 | 178.19 | 224.41 | 292.10 | 233.67 | 267.94 | 345.79 | 277.02 | 252.89
45 | 241.14 | 180.90 | 227.99 | 297.34 | 237.66 | 272.70 | 352.29 | 282.00 | 257.37
46 | 245.03 | 183.61 | 231.56 | 302.58 | 241.66 | 277.47 | 358.78 | 287.00 | 261.85
47 | 248.91 | 186.32 | 235.14 | 307.81 | 245.67 | 282.24 | 365.29 | 291.98 | 266.33
48 | 252.80 | 189.04 | 238.71 | 313.05 | 249.67 | 287.02 | 371.78 | 296.98 | 270.82
49 | 256.68 | 191.75 | 242.28 | 318.28 | 253.67 | 291.78 | 378.27 | 301.97 | 275.30
50 | 260.56 | 194.46 | 245.86 | 323.52 | 257.67 | 296.55 | 384.77 | 306.96 | 279.78

Maximum weight (pounds) | Country price group: 10 ($) | Country price group: 11 ($) | Country price group: 12 ($) | Country price group: 13 ($) | Country price group: 14 ($) | Country price group: 15 ($) | Country price group: 16 ($) | Country price group: 17 ($)
26 | 227.85 | 150.62 | 181.45 | 146.53 | 218.14 | 176.62 | 146.81 | 143.96
27 | 234.33 | 153.93 | 185.65 | 149.83 | 223.98 | 181.03 | 150.32 | 147.36
28 | 240.81 | 157.24 | 189.84 | 153.14 | 229.83 | 185.45 | 153.83 | 150.77
29 | 247.29 | 160.55 | 194.04 | 156.45 | 235.69 | 189.87 | 157.34 | 154.18
30 | 253.76 | 163.85 | 198.24 | 159.76 | 241.54 | 194.29 | 160.86 | 157.59
31 | 260.24 | 167.15 | 202.45 | 163.07 | 247.39 | 198.70 | 164.38 | 160.84
32 | 266.73 | 170.47 | 206.64 | 166.38 | 253.23 | 203.12 | 167.89 | 164.25
33 | 273.20 | 173.77 | 210.84 | 169.69 | 259.09 | 207.54 | 171.40 | 167.65
34 | 279.68 | 177.08 | 215.04 | 173.00 | 264.94 | 211.96 | 174.92 | 171.06
35 | 286.15 | 180.38 | 219.24 | 176.31 | 270.79 | 216.37 | 178.43 | 174.46
36 | 292.64 | 183.70 | 223.43 | 179.62 | 276.63 | 220.79 | 181.94 | 177.87
37 | 299.11 | 187.00 | 227.64 | 182.93 | 282.49 | 225.21 | 185.46 | 181.27
38 | 305.59 | 190.30 | 231.84 | 186.24 | 288.34 | 229.63 | 188.98 | 184.68
39 | 312.06 | 193.61 | 236.04 | 189.55 | 294.19 | 234.04 | 192.49 | 188.08
40 | 318.55 | 196.92 | 240.23 | 192.86 | 300.04 | 238.46 | 196.00 | 191.49
41 | 325.02 | 200.23 | 244.43 | 196.16 | 305.89 | 241.72 | 199.13 | 194.52
42 | 331.50 | 203.53 | 248.63 | 199.48 | 311.74 | 246.12 | 202.64 | 197.92
43 | 337.97 | 206.83 | 252.83 | 202.79 | 317.59 | 250.50 | 206.15 | 201.31
44 | 344.46 | 210.15 | 257.03 | 206.10 | 323.44 | 254.90 | 209.65 | 204.71
45 | 350.93 | 213.45 | 261.23 | 209.40 | 329.30 | 259.30 | 213.16 | 208.12
46 | 357.41 | 216.76 | 265.43 | 212.72 | 335.14 | 263.70 | 216.67 | 211.52
47 | 363.88 | 220.06 | 269.63 | 216.03 | 340.99 | 268.09 | 220.18 | 214.91
48 | 370.37 | 223.37 | 273.82 | 219.34 | 346.84 | 272.49 | 223.68 | 218.31
49 | 376.84 | 226.68 | 278.02 | 222.64 | 352.70 | 276.89 | 227.19 | 221.71
50 | 383.32 | 229.98 | 282.22 | 225.96 | 358.54 | 281.29 | 230.70 | 225.11

Maximum weight (pounds) | Country price group: 1 ($) | Country price group: 2 ($) | Country price group: 3 ($) | Country price group: 4 ($) | Country price group: 5 ($) | Country price group: 6 ($) | Country price group: 7 ($) | Country price group: 8 ($) | Country price group: 9 ($)
51 | 264.44 | 196.79 | 249.43 | 325.59 | 261.67 | 302.78 | 391.27 | 311.95 | 284.26
52 | 268.33 | 199.50 | 253.00 | 330.78 | 265.68 | 307.57 | 397.76 | 316.94 | 288.75
53 | 272.22 | 202.21 | 256.58 | 335.97 | 269.67 | 312.35 | 404.26 | 321.93 | 293.23
54 | 276.10 | 204.91 | 260.15 | 341.16 | 273.68 | 317.15 | 410.75 | 326.92 | 297.71
55 | 279.98 | 207.61 | 263.73 | 346.34 | 277.68 | 321.94 | 417.26 | 331.91 | 302.19
56 | 283.87 | 210.33 | 267.30 | 351.53 | 281.68 | 326.74 | 423.75 | 336.90 | 306.68
57 | 287.75 | 213.03 | 270.87 | 356.71 | 285.68 | 331.52 | 430.24 | 341.89 | 311.16
58 | 291.63 | 215.74 | 274.45 | 361.90 | 289.68 | 336.32 | 436.74 | 346.88 | 315.64
59 | 295.51 | 218.44 | 278.02 | 367.08 | 293.69 | 341.11 | 443.24 | 351.87 | 320.12
60 | 299.40 | 221.15 | 281.60 | 372.27 | 297.69 | 345.90 | 449.73 | 356.86 | 324.61
61 | 303.29 | 223.43 | 285.17 | 377.45 | 301.68 | 350.69 | 456.23 | 361.85 | 329.09
62 | 307.17 | 226.13 | 288.74 | 382.65 | 305.69 | 355.48 | 462.72 | 366.84 | 333.57
63 | 311.05 | 228.82 | 292.32 | 387.83 | 309.69 | 360.28 | 469.23 | 371.83 | 338.05
64 | 314.94 | 231.53 | 295.89 | 393.02 | 313.70 | 365.07 | 475.72 | 376.83 | 342.54
65 | 318.82 | 234.23 | 299.47 | 398.20 | 317.69 | 369.86 | 482.21 | 381.81 | 347.02
66 | 322.70 | 236.93 | 303.04 | 403.39 | 321.69 | 374.65 | 488.71 | 386.81 | 351.50
67 |  | 239.63 | 306.61 | 408.57 | 325.70 | 379.44 | 495.21 | 391.79 | 355.98
68 |  | 242.34 | 310.19 | 413.76 | 329.70 | 384.24 | 501.70 | 396.79 | 360.47
69 |  | 245.04 | 313.76 | 418.94 | 333.69 | 389.02 | 508.20 | 401.77 | 364.95
70 |  | 247.74 | 317.34 | 424.13 | 337.70 | 393.82 | 514.69 | 406.77 | 369.43

Maximum weight (pounds) | Country price group: 10 ($) | Country price group: 11 ($) | Country price group: 12 ($) | Country price group: 13 ($) | Country price group: 14 ($) | Country price group: 15 ($) | Country price group: 16 ($) | Country price group: 17 ($)
51 | 389.04 | 232.39 | 285.05 | 228.17 | 364.39 | 284.30 | 233.53 | 228.06
52 | 395.52 | 235.69 | 289.22 | 231.46 | 370.24 | 288.68 | 237.03 | 231.46
53 | 401.98 | 238.98 | 293.40 | 234.75 | 376.10 | 293.06 | 240.52 | 234.85
54 | 408.44 | 242.27 | 297.58 | 238.05 | 381.95 | 297.44 | 244.03 | 238.25
55 | 414.90 | 245.56 | 301.76 | 241.34 | 387.79 | 301.81 | 247.52 | 241.63
56 | 421.38 | 248.87 | 305.94 | 244.63 | 393.64 | 306.18 | 251.02 | 245.03
57 | 427.84 | 252.16 | 310.12 | 247.92 | 399.50 | 310.56 | 254.51 | 248.42
58 | 434.30 | 255.45 | 314.30 | 251.23 | 405.35 | 314.94 | 258.02 | 251.82
59 | 440.76 | 258.74 | 318.48 | 254.52 | 411.20 | 319.31 | 261.51 | 255.20
60 | 447.24 | 262.04 | 322.65 | 257.81 | 417.04 | 323.69 | 265.01 | 258.59
61 | 453.70 | 265.33 | 326.83 | 261.10 | 422.90 | 328.06 | 268.50 | 261.99
62 | 460.16 | 268.62 | 331.01 | 264.40 | 428.75 | 332.44 | 272.01 | 265.38
63 | 466.63 | 271.92 | 335.20 | 267.69 | 434.60 | 336.81 | 275.50 | 268.77
64 | 473.10 | 275.22 | 339.37 | 270.98 | 440.44 | 341.19 | 278.99 | 272.16
65 | 479.56 | 278.51 | 343.55 | 274.28 | 446.30 | 345.57 | 282.49 | 275.56
66 | 486.02 | 281.80 | 347.73 | 277.58 | 452.15 | 349.94 | 285.99 | 278.95
67 |  |  |  |  |  |  |  |
68 |  |  |  |  |  |  |  |
69 |  |  |  |  |  |  |  |
70 |  |  |  |  |  |  |  |

Priority Mail Express International Commercial Plus Prices
Maximum weight (pounds) | Country price group: 1 ($) | Country price group: 2 ($) | Country price group: 3 ($) | Country price group: 4 ($) | Country price group: 5 ($) | Country price group: 6 ($) | Country price group: 7 ($) | Country price group: 8 ($) | Country price group: 9 ($)
0.5 | 42.00 | 51.30 | 56.26 | 65.16 | 59.78 | 59.84 | 60.69 | 57.58 | 55.49
1 | 45.90 | 55.52 | 60.47 | 66.50 | 61.60 | 63.64 | 66.39 | 62.94 | 60.19
2 | 50.78 | 59.52 | 65.95 | 71.78 | 65.60 | 68.34 | 72.87 | 68.10 | 64.91
3 | 55.67 | 63.51 | 71.44 | 77.06 | 69.61 | 73.04 | 79.37 | 73.26 | 69.61
4 | 60.57 | 67.51 | 76.92 | 82.35 | 73.61 | 77.73 | 85.86 | 78.43 | 74.31
5 | 65.46 | 71.51 | 82.40 | 87.64 | 77.60 | 82.43 | 92.35 | 83.59 | 79.02
6 | 70.35 | 74.40 | 86.40 | 92.92 | 81.61 | 87.23 | 98.83 | 88.66 | 83.43
7 | 75.23 | 77.21 | 90.41 | 98.21 | 85.61 | 92.02 | 105.33 | 93.72 | 87.84
8 | 80.13 | 80.03 | 94.40 | 103.49 | 89.62 | 96.82 | 111.82 | 98.78 | 92.25
9 | 85.02 | 82.85 | 98.40 | 108.78 | 93.61 | 101.61 | 118.31 | 103.84 | 96.65
10 | 89.91 | 85.66 | 102.41 | 114.07 | 97.61 | 106.41 | 124.79 | 108.91 | 101.07
11 | 94.14 | 88.47 | 105.97 | 119.30 | 101.62 | 111.21 | 131.42 | 113.42 | 105.47
12 | 98.82 | 91.29 | 109.52 | 124.54 | 105.62 | 116.01 | 137.91 | 118.47 | 109.98
13 | 103.49 | 94.11 | 113.08 | 129.77 | 109.62 | 120.80 | 144.41 | 123.50 | 114.48
14 | 108.16 | 96.93 | 116.64 | 135.01 | 113.62 | 125.60 | 150.90 | 128.54 | 118.99
15 | 112.83 | 99.74 | 120.19 | 140.24 | 117.62 | 130.40 | 157.40 | 133.58 | 123.49
16 | 117.50 | 102.46 | 123.75 | 145.49 | 121.63 | 135.19 | 163.90 | 138.62 | 128.00
17 | 122.17 | 105.18 | 127.31 | 150.72 | 125.62 | 139.98 | 170.39 | 143.66 | 132.50
18 | 126.84 | 107.89 | 130.86 | 155.96 | 129.63 | 144.78 | 176.88 | 148.70 | 137.00
19 | 131.51 | 110.60 | 134.42 | 161.19 | 133.63 | 149.58 | 183.39 | 153.73 | 141.50
20 | 136.19 | 113.33 | 137.98 | 166.43 | 137.63 | 154.38 | 189.88 | 158.78 | 146.02
21 | 140.85 | 116.04 | 141.81 | 171.66 | 141.63 | 159.17 | 196.38 | 163.81 | 150.52
22 | 145.52 | 118.76 | 145.37 | 176.90 | 145.63 | 163.97 | 202.87 | 168.85 | 155.02
23 | 150.19 | 121.47 | 148.93 | 182.14 | 149.64 | 168.77 | 209.37 | 173.89 | 159.52
24 | 154.87 | 124.20 | 152.50 | 187.38 | 153.64 | 173.57 | 215.87 | 178.93 | 164.03
25 | 159.53 | 126.91 | 156.06 | 192.61 | 157.63 | 178.35 | 222.36 | 183.97 | 168.53

Maximum weight (pounds) | Country price group: 10 ($) | Country price group: 11 ($) | Country price group: 12 ($) | Country price group: 13 ($) | Country price group: 14 ($) | Country price group: 15 ($) | Country price group: 16 ($) | Country price group: 17 ($)
0.5 | 64.72 | 62.24 | 61.20 | 62.24 | 61.21 | 62.98 | 60.75 | 62.30
1 | 67.53 | 64.07 | 68.17 | 64.17 | 63.03 | 66.57 | 63.90 | 64.14
2 | 73.70 | 68.37 | 73.46 | 67.38 | 69.11 | 70.88 | 66.92 | 66.96
3 | 79.88 | 72.66 | 78.75 | 70.60 | 75.19 | 75.20 | 69.94 | 69.77
4 | 86.06 | 76.97 | 84.03 | 73.81 | 81.27 | 79.52 | 72.96 | 72.59
5 | 92.23 | 81.27 | 89.32 | 77.01 | 87.34 | 83.84 | 75.97 | 75.41
6 | 98.60 | 84.57 | 94.31 | 80.33 | 93.07 | 88.26 | 78.90 | 78.16
7 | 104.98 | 87.88 | 99.30 | 83.64 | 99.22 | 92.67 | 81.82 | 80.96
8 | 111.35 | 91.20 | 104.28 | 86.94 | 105.35 | 97.09 | 84.74 | 83.78
9 | 117.72 | 94.50 | 109.27 | 90.25 | 111.50 | 101.51 | 87.65 | 86.60
10 | 124.09 | 97.81 | 114.26 | 93.57 | 117.65 | 105.93 | 90.58 | 89.42
11 | 130.56 | 101.12 | 118.47 | 96.88 | 124.19 | 110.34 | 94.09 | 92.82
12 | 137.04 | 104.44 | 122.66 | 100.18 | 130.72 | 114.76 | 97.60 | 96.23
13 | 143.51 | 107.74 | 126.86 | 103.49 | 137.26 | 119.18 | 101.12 | 99.64
14 | 149.98 | 111.05 | 131.06 | 106.81 | 143.80 | 123.60 | 104.64 | 103.05
15 | 156.45 | 114.36 | 135.26 | 110.12 | 150.34 | 128.01 | 108.15 | 106.45
16 | 162.93 | 117.68 | 139.45 | 113.42 | 156.87 | 132.43 | 111.66 | 109.87
17 | 169.40 | 120.98 | 143.66 | 116.73 | 163.42 | 136.85 | 115.17 | 113.28
18 | 175.86 | 124.29 | 147.86 | 120.05 | 169.96 | 141.27 | 118.69 | 116.69
19 | 182.33 | 127.60 | 152.06 | 123.35 | 176.50 | 145.68 | 122.21 | 120.09
20 | 188.81 | 130.92 | 156.25 | 126.66 | 183.03 | 150.10 | 125.72 | 123.50
21 | 195.47 | 134.09 | 160.45 | 129.97 | 188.89 | 154.52 | 129.23 | 126.91
22 | 201.94 | 137.40 | 164.65 | 133.29 | 194.74 | 158.94 | 132.75 | 130.32
23 | 208.42 | 140.70 | 168.85 | 136.59 | 200.58 | 163.35 | 136.26 | 133.72
24 | 214.90 | 144.02 | 173.05 | 139.90 | 206.43 | 167.77 | 139.77 | 137.13
25 | 221.38 | 147.32 | 177.25 | 143.21 | 212.29 | 172.20 | 143.29 | 140.55

Maximum weight (pounds) | Country price group: 1 ($) | Country price group: 2 ($) | Country price group: 3 ($) | Country price group: 4 ($) | Country price group: 5 ($) | Country price group: 6 ($) | Country price group: 7 ($) | Country price group: 8 ($) | Country price group: 9 ($)
26 | 164.20 | 129.63 | 159.62 | 197.85 | 161.64 | 183.15 | 228.86 | 189.01 | 173.03
27 | 168.87 | 132.34 | 163.19 | 203.08 | 165.64 | 187.95 | 235.36 | 194.04 | 177.54
28 | 173.55 | 135.06 | 166.75 | 208.32 | 169.64 | 192.75 | 241.85 | 199.09 | 182.05
29 | 178.22 | 137.78 | 170.31 | 213.55 | 173.64 | 197.54 | 248.35 | 204.12 | 186.55
30 | 182.88 | 140.49 | 173.88 | 218.80 | 177.64 | 202.34 | 254.84 | 209.16 | 191.05
31 | 186.77 | 142.79 | 177.95 | 224.03 | 181.65 | 207.14 | 261.34 | 214.20 | 195.55
32 | 190.66 | 145.51 | 181.53 | 229.27 | 185.65 | 211.94 | 267.84 | 219.24 | 200.06
33 | 194.54 | 148.22 | 185.10 | 234.50 | 189.64 | 216.73 | 274.33 | 224.28 | 204.57
34 | 198.42 | 150.92 | 188.67 | 239.74 | 193.65 | 221.52 | 280.83 | 229.32 | 209.07
35 | 202.30 | 153.63 | 192.25 | 244.97 | 197.65 | 226.32 | 287.33 | 234.35 | 213.57
36 | 206.19 | 156.35 | 195.82 | 250.21 | 201.66 | 231.12 | 293.82 | 239.40 | 218.08
37 | 210.07 | 159.06 | 199.40 | 255.44 | 205.65 | 235.91 | 300.32 | 244.43 | 222.58
38 | 213.96 | 161.76 | 202.97 | 260.69 | 209.65 | 240.71 | 306.81 | 249.48 | 227.08
39 | 217.84 | 164.47 | 206.54 | 265.92 | 213.66 | 245.51 | 313.31 | 254.51 | 231.58
40 | 221.73 | 167.19 | 210.12 | 271.16 | 217.66 | 250.31 | 319.81 | 259.55 | 236.10
41 | 225.61 | 170.06 | 213.69 | 276.39 | 221.66 | 253.63 | 326.30 | 262.04 | 239.44
42 | 229.49 | 172.76 | 217.27 | 281.63 | 225.66 | 258.40 | 332.80 | 267.04 | 243.92
43 | 233.37 | 175.47 | 220.84 | 286.86 | 229.66 | 263.17 | 339.30 | 272.02 | 248.40
44 | 237.26 | 178.19 | 224.41 | 292.10 | 233.67 | 267.94 | 345.79 | 277.02 | 252.89
45 | 241.14 | 180.90 | 227.99 | 297.34 | 237.66 | 272.70 | 352.29 | 282.00 | 257.37
46 | 245.03 | 183.61 | 231.56 | 302.58 | 241.66 | 277.47 | 358.78 | 287.00 | 261.85
47 | 248.91 | 186.32 | 235.14 | 307.81 | 245.67 | 282.24 | 365.29 | 291.98 | 266.33
48 | 252.80 | 189.04 | 238.71 | 313.05 | 249.67 | 287.02 | 371.78 | 296.98 | 270.82
49 | 256.68 | 191.75 | 242.28 | 318.28 | 253.67 | 291.78 | 378.27 | 301.97 | 275.30
50 | 260.56 | 194.46 | 245.86 | 323.52 | 257.67 | 296.55 | 384.77 | 306.96 | 279.78

Maximum weight (pounds) | Country price group: 10 ($) | Country price group: 11 ($) | Country price group: 12 ($) | Country price group: 13 ($) | Country price group: 14 ($) | Country price group: 15 ($) | Country price group: 16 ($) | Country price group: 17 ($)
26 | 227.85 | 150.62 | 181.45 | 146.53 | 218.14 | 176.62 | 146.81 | 143.96
27 | 234.33 | 153.93 | 185.65 | 149.83 | 223.98 | 181.03 | 150.32 | 147.36
28 | 240.81 | 157.24 | 189.84 | 153.14 | 229.83 | 185.45 | 153.83 | 150.77
29 | 247.29 | 160.55 | 194.04 | 156.45 | 235.69 | 189.87 | 157.34 | 154.18
30 | 253.76 | 163.85 | 198.24 | 159.76 | 241.54 | 194.29 | 160.86 | 157.59
31 | 260.24 | 167.15 | 202.45 | 163.07 | 247.39 | 198.70 | 164.38 | 160.84
32 | 266.73 | 170.47 | 206.64 | 166.38 | 253.23 | 203.12 | 167.89 | 164.25
33 | 273.20 | 173.77 | 210.84 | 169.69 | 259.09 | 207.54 | 171.40 | 167.65
34 | 279.68 | 177.08 | 215.04 | 173.00 | 264.94 | 211.96 | 174.92 | 171.06
35 | 286.15 | 180.38 | 219.24 | 176.31 | 270.79 | 216.37 | 178.43 | 174.46
36 | 292.64 | 183.70 | 223.43 | 179.62 | 276.63 | 220.79 | 181.94 | 177.87
37 | 299.11 | 187.00 | 227.64 | 182.93 | 282.49 | 225.21 | 185.46 | 181.27
38 | 305.59 | 190.30 | 231.84 | 186.24 | 288.34 | 229.63 | 188.98 | 184.68
39 | 312.06 | 193.61 | 236.04 | 189.55 | 294.19 | 234.04 | 192.49 | 188.08
40 | 318.55 | 196.92 | 240.23 | 192.86 | 300.04 | 238.46 | 196.00 | 191.49
41 | 325.02 | 200.23 | 244.43 | 196.16 | 305.89 | 241.72 | 199.13 | 194.52
42 | 331.50 | 203.53 | 248.63 | 199.48 | 311.74 | 246.12 | 202.64 | 197.92
43 | 337.97 | 206.83 | 252.83 | 202.79 | 317.59 | 250.50 | 206.15 | 201.31
44 | 344.46 | 210.15 | 257.03 | 206.10 | 323.44 | 254.90 | 209.65 | 204.71
45 | 350.93 | 213.45 | 261.23 | 209.40 | 329.30 | 259.30 | 213.16 | 208.12
46 | 357.41 | 216.76 | 265.43 | 212.72 | 335.14 | 263.70 | 216.67 | 211.52
47 | 363.88 | 220.06 | 269.63 | 216.03 | 340.99 | 268.09 | 220.18 | 214.91
48 | 370.37 | 223.37 | 273.82 | 219.34 | 346.84 | 272.49 | 223.68 | 218.31
49 | 376.84 | 226.68 | 278.02 | 222.64 | 352.70 | 276.89 | 227.19 | 221.71
50 | 383.32 | 229.98 | 282.22 | 225.96 | 358.54 | 281.29 | 230.70 | 225.11

Maximum weight (pounds) | Country price group: 1 ($) | Country price group: 2 ($) | Country price group: 3 ($) | Country price group: 4 ($) | Country price group: 5 ($) | Country price group: 6 ($) | Country price group: 7 ($) | Country price group: 8 ($) | Country price group: 9 ($)
51 | 264.44 | 196.79 | 249.43 | 325.59 | 261.67 | 302.78 | 391.27 | 311.95 | 284.26
52 | 268.33 | 199.50 | 253.00 | 330.78 | 265.68 | 307.57 | 397.76 | 316.94 | 288.75
53 | 272.22 | 202.21 | 256.58 | 335.97 | 269.67 | 312.35 | 404.26 | 321.93 | 293.23
54 | 276.10 | 204.91 | 260.15 | 341.16 | 273.68 | 317.15 | 410.75 | 326.92 | 297.71
55 | 279.98 | 207.61 | 263.73 | 346.34 | 277.68 | 321.94 | 417.26 | 331.91 | 302.19
56 | 283.87 | 210.33 | 267.30 | 351.53 | 281.68 | 326.74 | 423.75 | 336.90 | 306.68
57 | 287.75 | 213.03 | 270.87 | 356.71 | 285.68 | 331.52 | 430.24 | 341.89 | 311.16
58 | 291.63 | 215.74 | 274.45 | 361.90 | 289.68 | 336.32 | 436.74 | 346.88 | 315.64
59 | 295.51 | 218.44 | 278.02 | 367.08 | 293.69 | 341.11 | 443.24 | 351.87 | 320.12
60 | 299.40 | 221.15 | 281.60 | 372.27 | 297.69 | 345.90 | 449.73 | 356.86 | 324.61
61 | 303.29 | 223.43 | 285.17 | 377.45 | 301.68 | 350.69 | 456.23 | 361.85 | 329.09
62 | 307.17 | 226.13 | 288.74 | 382.65 | 305.69 | 355.48 | 462.72 | 366.84 | 333.57
63 | 311.05 | 228.82 | 292.32 | 387.83 | 309.69 | 360.28 | 469.23 | 371.83 | 338.05
64 | 314.94 | 231.53 | 295.89 | 393.02 | 313.70 | 365.07 | 475.72 | 376.83 | 342.54
65 | 318.82 | 234.23 | 299.47 | 398.20 | 317.69 | 369.86 | 482.21 | 381.81 | 347.02
66 | 322.70 | 236.93 | 303.04 | 403.39 | 321.69 | 374.65 | 488.71 | 386.81 | 351.50
67 |  | 239.63 | 306.61 | 408.57 | 325.70 | 379.44 | 495.21 | 391.79 | 355.98
68 |  | 242.34 | 310.19 | 413.76 | 329.70 | 384.24 | 501.70 | 396.79 | 360.47
69 |  | 245.04 | 313.76 | 418.94 | 333.69 | 389.02 | 508.20 | 401.77 | 364.95
70 |  | 247.74 | 317.34 | 424.13 | 337.70 | 393.82 | 514.69 | 406.77 | 369.43

Maximum weight (pounds) | Country price group: 10 ($) | Country price group: 11 ($) | Country price group: 12 ($) | Country price group: 13 ($) | Country price group: 14 ($) | Country price group: 15 ($) | Country price group: 16 ($) | Country price group: 17 ($)
51 | 389.04 | 232.39 | 285.05 | 228.17 | 364.39 | 284.30 | 233.53 | 228.06
52 | 395.52 | 235.69 | 289.22 | 231.46 | 370.24 | 288.68 | 237.03 | 231.46
53 | 401.98 | 238.98 | 293.40 | 234.75 | 376.10 | 293.06 | 240.52 | 234.85
54 | 408.44 | 242.27 | 297.58 | 238.05 | 381.95 | 297.44 | 244.03 | 238.25
55 | 414.90 | 245.56 | 301.76 | 241.34 | 387.79 | 301.81 | 247.52 | 241.63
56 | 421.38 | 248.87 | 305.94 | 244.63 | 393.64 | 306.18 | 251.02 | 245.03
57 | 427.84 | 252.16 | 310.12 | 247.92 | 399.50 | 310.56 | 254.51 | 248.42
58 | 434.30 | 255.45 | 314.30 | 251.23 | 405.35 | 314.94 | 258.02 | 251.82
59 | 440.76 | 258.74 | 318.48 | 254.52 | 411.20 | 319.31 | 261.51 | 255.20
60 | 447.24 | 262.04 | 322.65 | 257.81 | 417.04 | 323.69 | 265.01 | 258.59
61 | 453.70 | 265.33 | 326.83 | 261.10 | 422.90 | 328.06 | 268.50 | 261.99
62 | 460.16 | 268.62 | 331.01 | 264.40 | 428.75 | 332.44 | 272.01 | 265.38
63 | 466.63 | 271.92 | 335.20 | 267.69 | 434.60 | 336.81 | 275.50 | 268.77
64 | 473.10 | 275.22 | 339.37 | 270.98 | 440.44 | 341.19 | 278.99 | 272.16
65 | 479.56 | 278.51 | 343.55 | 274.28 | 446.30 | 345.57 | 282.49 | 275.56
66 | 486.02 | 281.80 | 347.73 | 277.58 | 452.15 | 349.94 | 285.99 | 278.95
67 |  |  |  |  |  |  |  |
68 |  |  |  |  |  |  |  |
69 |  |  |  |  |  |  |  |
70 |  |  |  |  |  |  |  |

Pickup On Demand Service

Add $23.00 for each Pickup On Demand stop.

* * *

2315 Outbound Priority Mail International

* * *

2315.6 Prices

Priority Mail International Flat Rate Retail Prices
| Country price group: 1 ($) | Country price group: 2 ($) | Country price group: 3 ($) | Country price group: 4 ($) | Country price group: 5 ($) | Country price group: 6 ($) | Country price group: 7 ($) | Country price group: 8 ($)
Flat Rate Envelopes | 25.85 | 32.20 | 33.60 | 35.65 | 34.65 | 36.70 | 34.65 | 35.65
Small Flat Rate Boxes | 26.85 | 33.60 | 34.65 | 36.70 | 35.65 | 37.70 | 35.65 | 36.70
Medium Flat Rate Boxes | 49.60 | 72.30 | 73.70 | 71.75 | 75.75 | 82.20 | 74.75 | 77.80
Large Flat Rate Boxes | 64.50 | 94.25 | 96.30 | 94.25 | 98.35 | 103.85 | 97.35 | 101.80

Priority Mail International Flat Rate Commercial Base Prices
| Country price group: 1 ($) | Country price group: 2 ($) | Country price group: 3 ($) | Country price group: 4 ($) | Country price group: 5 ($) | Country price group: 6 ($) | Country price group: 7 ($) | Country price group: 8 ($)
Flat Rate Envelopes | 24.55 | 30.60 | 31.90 | 33.85 | 32.90 | 34.85 | 32.90 | 33.85
Small Flat Rate Boxes | 25.50 | 31.90 | 32.90 | 34.85 | 33.85 | 35.80 | 33.85 | 34.85
Medium Flat Rate Boxes | 47.10 | 68.70 | 70.00 | 68.15 | 71.95 | 78.10 | 71.00 | 73.90
Large Flat Rate Boxes | 61.30 | 89.55 | 91.50 | 89.55 | 93.45 | 98.65 | 92.50 | 96.70

Priority Mail International Flat Rate Commercial Plus Prices
| Country price group: 1 ($) | Country price group: 2 ($) | Country price group: 3 ($) | Country price group: 4 ($) | Country price group: 5 ($) | Country price group: 6 ($) | Country price group: 7 ($) | Country price group: 8 ($)
Flat Rate Envelopes | 24.55 | 30.60 | 31.90 | 33.85 | 32.90 | 34.85 | 32.90 | 33.85
Small Flat Rate Boxes | 25.50 | 31.90 | 32.90 | 34.85 | 33.85 | 35.80 | 33.85 | 34.85
Medium Flat Rate Boxes | 47.10 | 68.70 | 70.00 | 68.15 | 71.95 | 78.10 | 71.00 | 73.90
Large Flat Rate Boxes | 61.30 | 89.55 | 91.50 | 89.55 | 93.45 | 98.65 | 92.50 | 96.70

Priority Mail International Parcels Retail Prices
Maximum weight (pounds) | Country price group ¹: Origin Zone 1.1 & 1.2 ($) | Country price group ¹: Origin Zone 1.3 ($) | Country price group ¹: Origin Zone 1.4 ($) | Country price group ¹: Origin Zone 1.5 ($) | Country price group ¹: Origin Zone 1.6 ($) | Country price group ¹: Origin Zone 1.7 ($) | Country price group ¹: Origin Zone 1.8 ($)
1 | 34.30 | 35.30 | 37.85 | 39.05 | 40.45 | 41.05 | 41.55
2 | 37.05 | 38.25 | 40.80 | 42.20 | 43.70 | 44.20 | 44.80
3 | 39.80 | 41.20 | 43.75 | 45.35 | 46.95 | 47.35 | 48.05
4 | 42.55 | 44.15 | 46.70 | 48.50 | 50.25 | 50.50 | 51.30
5 | 45.30 | 47.15 | 49.65 | 51.70 | 53.50 | 53.65 | 54.55
6 | 48.05 | 50.00 | 52.70 | 54.85 | 56.55 | 56.95 | 58.05
7 | 50.80 | 52.85 | 55.80 | 58.00 | 59.60 | 60.20 | 61.50
8 | 53.60 | 55.70 | 58.85 | 61.15 | 62.65 | 63.45 | 64.95
9 | 56.35 | 58.55 | 61.90 | 64.30 | 65.70 | 66.70 | 68.40
10 | 59.10 | 61.40 | 64.95 | 67.45 | 68.75 | 69.95 | 71.90
11 | 61.75 | 64.25 | 67.80 | 70.60 | 72.00 | 73.40 | 75.35
12 | 64.40 | 67.10 | 70.65 | 73.75 | 75.25 | 76.85 | 78.90
13 | 67.05 | 69.95 | 73.50 | 76.90 | 78.50 | 80.30 | 82.45
14 | 69.70 | 72.80 | 76.35 | 80.05 | 81.75 | 83.80 | 86.00
15 | 72.35 | 75.65 | 79.20 | 83.20 | 85.00 | 87.25 | 89.55
16 | 75.00 | 78.50 | 82.05 | 86.35 | 88.30 | 90.70 | 93.10
17 | 77.65 | 81.35 | 84.90 | 89.50 | 91.55 | 94.15 | 96.65
18 | 80.30 | 84.00 | 87.75 | 92.65 | 94.80 | 97.65 | 100.20
19 | 82.95 | 86.65 | 90.60 | 95.80 | 98.05 | 101.10 | 103.75
20 | 85.65 | 89.30 | 93.50 | 99.00 | 101.30 | 104.55 | 107.30
21 | 88.30 | 91.95 | 96.35 | 102.15 | 104.55 | 108.00 | 110.85
22 | 90.95 | 94.60 | 99.20 | 105.30 | 107.80 | 111.50 | 114.40
23 | 93.60 | 97.25 | 102.05 | 108.45 | 111.10 | 114.95 | 117.95
24 | 96.55 | 99.90 | 104.90 | 111.60 | 114.15 | 118.40 | 121.50
25 | 98.70 | 102.55 | 107.75 | 114.75 | 117.15 | 121.85 | 125.05

Priority Mail International Parcels Retail Prices (Continued)
Maximum weight (pounds) | Country price group: 2 ($) | Country price group: 3 ($) | Country price group: 4 ($) | Country price group: 5 ($) | Country price group: 6 ($) | Country price group: 7 ($) | Country price group: 8 ($) | Country price group: 9 ($)
1 | 41.80 | 45.30 | 51.55 | 47.80 | 49.30 | 51.10 | 46.30 | 44.45
2 | 45.55 | 50.70 | 57.00 | 51.20 | 53.70 | 57.10 | 50.95 | 49.20
3 | 49.30 | 56.05 | 62.50 | 54.55 | 58.05 | 63.10 | 55.60 | 53.95
4 | 53.05 | 61.40 | 67.95 | 57.90 | 62.40 | 69.10 | 60.25 | 58.75
5 | 56.80 | 66.75 | 73.40 | 61.25 | 66.75 | 75.15 | 64.95 | 63.50
6 | 59.55 | 70.20 | 78.45 | 64.10 | 70.60 | 81.15 | 68.90 | 67.15
7 | 62.35 | 73.65 | 83.50 | 66.95 | 74.45 | 87.15 | 72.85 | 70.80
8 | 65.10 | 77.10 | 88.55 | 69.80 | 78.30 | 93.15 | 76.80 | 74.45
9 | 67.85 | 80.55 | 93.65 | 72.65 | 82.15 | 99.20 | 80.75 | 78.15
10 | 70.60 | 84.00 | 98.70 | 75.50 | 86.00 | 105.20 | 84.70 | 81.80
11 | 73.05 | 87.45 | 103.75 | 78.35 | 90.25 | 111.40 | 88.85 | 85.25
12 | 75.50 | 90.95 | 108.80 | 81.20 | 94.50 | 117.60 | 93.00 | 88.70
13 | 77.95 | 94.40 | 113.85 | 84.05 | 98.75 | 123.80 | 97.15 | 92.15
14 | 80.40 | 97.85 | 118.90 | 86.90 | 103.00 | 130.00 | 101.35 | 95.60
15 | 82.85 | 101.30 | 124.00 | 89.75 | 107.30 | 136.20 | 105.50 | 99.05
16 | 85.30 | 104.75 | 129.05 | 92.60 | 111.55 | 142.40 | 109.65 | 102.40
17 | 87.75 | 108.20 | 134.10 | 95.45 | 115.80 | 148.60 | 113.80 | 105.75
18 | 90.20 | 111.65 | 139.15 | 98.30 | 120.05 | 154.80 | 117.95 | 109.10
19 | 92.70 | 115.10 | 144.20 | 101.20 | 124.30 | 161.00 | 122.15 | 112.45
20 | 95.15 | 118.55 | 149.25 | 104.05 | 128.55 | 167.20 | 126.30 | 115.80
21 | 97.60 | 122.00 | 154.35 | 106.90 | 132.85 | 173.40 | 130.45 | 119.15
22 | 100.05 | 125.45 | 159.40 | 109.75 | 137.10 | 179.60 | 134.60 | 122.50
23 | 102.50 | 128.90 | 164.45 | 112.60 | 141.35 | 185.80 | 138.75 | 125.90
24 | 104.95 | 132.35 | 169.50 | 115.45 | 145.60 | 192.05 | 142.95 | 129.25
25 | 107.40 | 135.80 | 174.55 | 118.30 | 149.85 | 198.25 | 147.10 | 132.60

Priority Mail International Parcels Retail Prices (Continued)
Maximum weight (pounds) | Country price group: 10 ($) | Country price group: 11 ($) | Country price group: 12 ($) | Country price group: 13 ($) | Country price group: 14 ($) | Country price group: 15 ($) | Country price group: 16 ($) | Country price group: 17 ($)
1 | 50.60 | 52.60 | 51.80 | 43.60 | 50.55 | 46.45 | 44.10 | 43.10
2 | 55.35 | 57.25 | 55.45 | 47.65 | 55.40 | 50.30 | 47.85 | 47.15
3 | 60.10 | 61.90 | 59.15 | 51.75 | 60.25 | 54.15 | 51.65 | 51.20
4 | 64.85 | 66.55 | 62.80 | 55.80 | 65.10 | 58.00 | 55.40 | 55.25
5 | 69.60 | 71.20 | 66.45 | 59.85 | 70.00 | 61.85 | 59.15 | 59.35
6 | 74.95 | 74.55 | 69.60 | 63.25 | 73.75 | 65.75 | 62.70 | 62.20
7 | 80.30 | 77.90 | 72.75 | 66.60 | 77.50 | 69.60 | 66.25 | 65.05
8 | 85.65 | 81.25 | 75.90 | 69.95 | 81.25 | 73.45 | 69.85 | 67.90
9 | 91.00 | 84.60 | 79.05 | 73.30 | 85.00 | 77.30 | 73.40 | 70.75
10 | 96.40 | 87.95 | 82.20 | 76.70 | 88.80 | 81.15 | 76.95 | 73.60
11 | 101.65 | 91.20 | 85.40 | 79.30 | 92.55 | 85.40 | 79.00 | 76.25
12 | 106.90 | 94.45 | 88.55 | 81.95 | 96.30 | 89.65 | 81.05 | 78.90
13 | 112.15 | 97.70 | 91.70 | 84.60 | 100.05 | 93.95 | 83.10 | 81.55
14 | 117.40 | 100.95 | 94.85 | 87.25 | 103.85 | 98.20 | 85.15 | 84.25
15 | 122.65 | 104.20 | 98.00 | 89.90 | 107.60 | 102.45 | 87.20 | 86.90
16 | 127.95 | 107.45 | 101.15 | 92.55 | 111.05 | 106.70 | 89.25 | 89.55
17 | 133.20 | 110.70 | 104.30 | 95.20 | 114.50 | 110.95 | 91.30 | 92.20
18 | 138.45 | 113.95 | 107.45 | 97.85 | 117.95 | 115.25 | 93.35 | 94.85
19 | 143.70 | 117.20 | 110.60 | 100.50 | 121.40 | 119.50 | 95.40 | 97.50
20 | 148.95 | 120.50 | 113.75 | 103.15 | 124.85 | 123.75 | 97.40 | 100.15
21 | 154.20 | 123.75 | 116.90 | 105.75 | 128.30 | 128.00 | 99.45 | 102.80
22 | 159.50 | 127.00 | 120.05 | 108.40 | 131.75 | 132.25 | 101.50 | 105.45
23 | 164.75 | 130.25 | 123.20 | 111.05 | 135.20 | 136.55 | 103.55 | 108.10
24 | 170.00 | 133.50 | 126.35 | 113.70 | 138.65 | 140.80 | 105.60 | 110.75
25 | 175.25 | 136.75 | 129.50 | 116.35 | 142.10 | 145.05 | 107.65 | 113.40

Priority Mail International Parcels Retail Prices (Continued)
Maximum weight (pounds) | Country price group ¹: Origin Zone 1.1 &1.2 ($) | Country price group ¹: Origin Zone 1.3 ($) | Country price group ¹: Origin Zone 1.4 ($) | Country price group ¹: Origin Zone 1.5 ($) | Country price group ¹: Origin Zone 1.6 ($) | Country price group ¹: Origin Zone 1.7 ($) | Country price group ¹: Origin Zone 1.8 ($)
26 | 100.85 | 105.20 | 110.60 | 117.80 | 120.20 | 125.10 | 128.65
27 | 103.00 | 107.85 | 113.45 | 120.85 | 123.25 | 128.35 | 132.20
28 | 105.15 | 110.50 | 116.30 | 123.90 | 126.30 | 131.60 | 135.75
29 | 107.30 | 113.15 | 119.15 | 126.95 | 129.35 | 134.85 | 139.30
30 | 109.45 | 115.80 | 122.00 | 130.00 | 132.40 | 138.10 | 142.85
31 | 111.60 | 118.45 | 124.85 | 133.05 | 135.45 | 141.30 | 146.40
32 | 113.75 | 121.10 | 127.70 | 136.10 | 138.50 | 144.55 | 149.95
33 | 115.90 | 123.75 | 130.55 | 139.15 | 141.55 | 147.80 | 153.50
34 | 118.05 | 126.40 | 133.45 | 142.20 | 144.60 | 151.05 | 157.05
35 | 120.20 | 129.05 | 136.30 | 145.30 | 147.65 | 154.30 | 160.60
36 | 122.35 | 131.65 | 139.15 | 148.35 | 150.70 | 157.55 | 164.15
37 | 124.50 | 134.30 | 142.00 | 151.40 | 153.75 | 160.80 | 167.70
38 | 126.60 | 136.95 | 144.85 | 154.45 | 156.80 | 164.05 | 171.25
39 | 128.75 | 139.60 | 147.70 | 157.50 | 159.85 | 167.30 | 174.80
40 | 130.90 | 142.25 | 150.55 | 160.55 | 162.90 | 170.55 | 178.35
41 | 133.05 | 144.90 | 153.40 | 163.60 | 165.95 | 173.80 | 181.90
42 | 135.20 | 147.55 | 156.25 | 166.65 | 169.00 | 177.05 | 185.45
43 | 137.35 | 150.20 | 159.10 | 169.70 | 172.05 | 180.25 | 189.05
44 | 139.50 | 152.85 | 161.95 | 172.75 | 175.10 | 183.50 | 192.60
45 | 141.65 | 155.50 | 164.80 | 175.80 | 178.15 | 186.75 | 196.15
46 | 143.80 | 158.15 | 167.65 | 178.85 | 181.20 | 190.00 | 199.70
47 | 145.95 | 160.80 | 170.55 | 181.90 | 184.25 | 193.25 | 203.25
48 | 148.10 | 163.45 | 173.40 | 184.95 | 187.30 | 196.50 | 206.80
49 | 150.25 | 166.10 | 176.25 | 188.05 | 190.35 | 199.75 | 210.35
50 | 152.40 | 168.75 | 179.10 | 191.10 | 193.40 | 203.00 | 213.90

Priority Mail International Parcels Retail Prices (Continued)
Maximum weight (pounds) | Country price group: 2 ($) | Country price group: 3 ($) | Country price group: 4 ($) | Country price group: 5 ($) | Country price group: 6 ($) | Country price group: 7 ($) | Country price group: 8 ($) | Country price group: 9 ($)
26 | 109.85 | 139.25 | 179.60 | 121.15 | 154.15 | 204.45 | 151.25 | 135.95
27 | 112.30 | 142.70 | 184.70 | 124.00 | 158.40 | 210.65 | 155.40 | 139.30
28 | 114.75 | 146.15 | 189.75 | 126.85 | 162.65 | 216.85 | 159.55 | 142.65
29 | 117.20 | 149.65 | 194.80 | 129.70 | 166.90 | 223.05 | 163.75 | 146.00
30 | 119.65 | 153.10 | 199.85 | 132.55 | 171.15 | 229.25 | 167.90 | 149.35
31 | 122.15 | 156.55 | 204.90 | 135.40 | 175.45 | 235.45 | 172.05 | 152.70
32 | 124.60 | 160.00 | 210.00 | 138.30 | 179.70 | 241.65 | 176.20 | 156.05
33 | 127.05 | 163.45 | 215.05 | 141.15 | 183.95 | 247.85 | 180.35 | 159.40
34 | 129.50 | 166.90 | 220.10 | 144.00 | 188.20 | 254.05 | 184.55 | 162.75
35 | 131.95 | 170.35 | 225.15 | 146.85 | 192.45 | 260.25 | 188.70 | 166.10
36 | 134.40 | 173.80 | 230.20 | 149.70 | 196.75 | 266.45 | 192.85 | 169.45
37 | 136.85 | 177.25 | 235.25 | 152.55 | 201.00 | 272.65 | 197.00 | 172.80
38 | 139.30 | 180.70 | 240.35 | 155.40 | 205.25 | 278.85 | 201.15 | 176.15
39 | 141.75 | 184.15 | 245.40 | 158.25 | 209.50 | 285.10 | 205.35 | 179.55
40 | 144.20 | 187.60 | 250.45 | 161.10 | 213.75 | 291.30 | 209.50 | 182.90
41 | 146.65 | 191.05 | 255.50 | 163.95 | 218.05 | 297.50 | 213.65 | 186.25
42 | 149.15 | 194.50 | 260.55 | 166.80 | 222.30 | 303.70 | 217.80 | 189.60
43 | 151.60 | 197.95 | 265.60 | 169.65 | 226.55 | 309.90 | 221.95 | 192.95
44 | 154.05 | 201.40 | 270.70 | 172.50 | 230.80 | 316.10 | 226.15 | 196.30
45 | 156.50 | 204.85 | 275.75 | 175.35 | 235.05 | 322.30 | 230.30 | 199.65
46 | 158.95 | 208.35 | 280.80 | 178.25 | 239.35 | 328.50 | 234.45 | 203.00
47 | 161.40 | 211.80 | 285.85 | 181.10 | 243.60 | 334.70 | 238.60 | 206.35
48 | 163.85 | 215.25 | 290.90 | 183.95 | 247.85 | 340.90 | 242.75 | 209.70
49 | 166.30 | 218.70 | 295.95 | 186.80 | 252.10 | 347.10 | 246.95 | 213.05
50 | 168.75 | 222.15 | 301.05 | 189.65 | 256.35 | 353.30 | 251.10 | 216.40

Priority Mail International Parcels Retail Prices (Continued)
Maximum weight (pounds) | Country price group: 10 ($) | Country price group: 11 ($) | Country price group: 12 ($) | Country price group: 13 ($) | Country price group: 14 ($) | Country price group: 15 ($) | Country price group: 16 ($) | Country price group: 17 ($)
26 | 180.50 | 140.00 | 132.70 | 119.00 | 145.55 | 149.30 | 109.70 | 116.10
27 | 185.75 | 143.25 | 135.85 | 121.65 | 149.00 | 153.55 | 111.75 | 118.75
28 | 191.05 | 146.50 | 139.00 | 124.30 | 152.45 | 157.85 | 113.80 | 121.40
29 | 196.30 | 149.75 | 142.15 | 126.95 | 155.95 | 162.10 | 115.85 | 124.05
30 | 201.55 | 153.00 | 145.30 | 129.60 | 159.40 | 166.35 | 117.90 | 126.70
31 | 206.80 | 156.25 | 148.45 | 132.25 | 162.85 | 170.60 | 119.95 | 129.35
32 | 212.05 | 159.50 | 151.60 | 134.90 | 166.30 | 174.85 | 122.00 | 132.00
33 | 217.30 | 162.75 | 154.75 | 137.55 | 169.75 | 179.15 | 124.05 | 134.65
34 | 222.60 | 166.00 | 157.90 | 140.20 | 173.20 | 183.40 | 126.10 | 137.30
35 | 227.85 | 169.30 | 161.05 | 142.85 | 176.65 | 187.65 | 128.15 | 139.95
36 | 233.10 | 172.55 | 164.20 | 145.50 | 180.10 | 191.90 | 130.20 | 142.60
37 | 238.35 | 175.80 | 167.35 | 148.15 | 183.55 | 196.15 | 132.25 | 145.25
38 | 243.60 | 179.05 | 170.50 | 150.80 | 187.00 | 200.45 | 134.30 | 147.95
39 | 248.85 | 182.30 | 173.65 | 153.45 | 190.45 | 204.70 | 136.35 | 150.60
40 | 254.15 | 185.55 | 176.80 | 156.10 | 193.90 | 208.95 | 138.40 | 153.25
41 | 259.40 | 188.90 | 180.00 | 158.75 | 197.35 | 213.20 | 140.45 | 155.90
42 | 264.65 | 192.25 | 183.15 | 161.40 | 200.80 | 217.50 | 142.50 | 158.55
43 | 269.90 | 195.60 | 186.30 | 164.05 | 204.25 | 221.75 | 144.55 | 161.20
44 | 275.15 | 199.00 | 189.45 | 166.70 | 207.70 | 226.00 | 146.60 | 163.85
45 | 280.40 | 202.35 | 192.60 | 169.35 | 211.15 | 230.25 | 148.65 | 166.50
46 | 285.70 | 205.70 | 195.75 | 171.95 | 214.60 | 234.50 | 150.70 | 169.15
47 | 290.95 | 209.05 | 198.90 | 174.60 | 218.10 | 238.80 | 152.75 | 171.80
48 | 296.20 | 212.45 | 202.05 | 177.25 | 221.55 | 243.05 | 154.80 | 174.45
49 | 301.45 | 215.80 | 205.20 | 179.90 | 225.00 | 247.30 | 156.80 | 177.10
50 | 306.70 | 219.15 | 208.35 | 182.55 | 228.45 | 251.55 | 158.85 | 179.75

Priority Mail International Parcels Retail Prices (Continued)
Maximum weight (pounds) | Country price group ¹: Origin Zone 1.1 &1.2 ($) | Country price group ¹: Origin Zone 1.3 ($) | Country price group ¹: Origin Zone 1.4 ($) | Country price group ¹: Origin Zone 1.5 ($) | Country price group ¹: Origin Zone 1.6 ($) | Country price group ¹: Origin Zone 1.7 ($) | Country price group ¹: Origin Zone 1.8 ($)
51 | 154.55 | 171.40 | 181.95 | 193.95 | 196.45 | 206.25 | 217.45
52 | 156.70 | 174.05 | 184.80 | 196.80 | 199.50 | 209.50 | 221.00
53 | 158.85 | 176.70 | 187.65 | 199.65 | 202.55 | 212.75 | 224.55
54 | 161.00 | 179.35 | 190.50 | 202.50 | 205.60 | 216.00 | 228.10
55 | 163.15 | 182.00 | 193.35 | 205.35 | 208.65 | 219.25 | 231.65
56 | 165.30 | 184.65 | 196.20 | 208.20 | 211.70 | 222.50 | 235.20
57 | 167.45 | 187.30 | 199.05 | 211.05 | 214.75 | 225.75 | 238.75
58 | 169.60 | 189.95 | 201.90 | 213.90 | 217.85 | 229.00 | 242.30
59 | 171.75 | 192.60 | 204.75 | 216.75 | 220.90 | 232.25 | 245.85
60 | 173.90 | 195.25 | 207.65 | 219.60 | 223.95 | 235.50 | 249.40
61 | 176.05 | 197.90 | 210.50 | 222.45 | 227.00 | 238.75 | 253.00
62 | 178.20 | 200.55 | 213.35 | 225.35 | 230.05 | 242.00 | 256.55
63 | 180.35 | 203.20 | 216.20 | 228.20 | 233.10 | 245.20 | 260.10
64 | 182.50 | 205.85 | 219.05 | 231.05 | 236.15 | 248.45 | 263.65
65 | 184.65 | 208.50 | 221.90 | 233.90 | 239.20 | 251.70 | 267.20
66 | 186.80 | 211.15 | 224.75 | 236.75 | 242.25 | 254.95 | 270.75
67 |  |  |  |  |  |  |
68 |  |  |  |  |  |  |
69 |  |  |  |  |  |  |
70 |  |  |  |  |  |  |

Priority Mail International Parcels Retail Prices (Continued)
Maximum weight (pounds) | Country price group: 2 ($) | Country price group: 3 ($) | Country price group: 4 ($) | Country price group: 5 ($) | Country price group: 6 ($) | Country price group: 7 ($) | Country price group: 8 ($) | Country price group: 9 ($)
51 | 171.20 | 225.60 | 306.10 | 192.50 | 260.65 | 359.50 | 255.25 | 219.75
52 | 173.65 | 229.05 | 311.15 | 195.35 | 264.90 | 365.70 | 259.40 | 223.10
53 | 176.15 | 232.50 | 316.20 | 198.20 | 269.15 | 371.95 | 263.60 | 226.45
54 | 178.60 | 235.95 | 321.25 | 201.05 | 273.40 | 378.15 | 267.75 | 229.80
55 | 181.05 | 239.40 | 326.30 | 203.90 | 277.70 | 384.35 | 271.90 | 233.20
56 | 183.50 | 242.85 | 331.40 | 206.75 | 281.95 | 390.55 | 276.05 | 236.55
57 | 185.95 | 246.30 | 336.45 | 209.60 | 286.20 | 396.75 | 280.20 | 239.90
58 | 188.40 | 249.75 | 341.50 | 212.45 | 290.45 | 402.95 | 284.40 | 243.25
59 | 190.85 | 253.20 | 346.55 | 215.35 | 294.70 | 409.15 | 288.55 | 246.60
60 | 193.30 | 256.65 | 351.60 | 218.20 | 299.00 | 415.35 | 292.70 | 249.95
61 | 195.75 | 260.10 | 356.70 | 221.05 | 303.25 | 421.55 | 296.85 | 253.30
62 | 198.20 | 263.60 | 361.75 | 223.90 | 307.50 | 427.75 | 301.00 | 256.65
63 | 200.65 | 267.05 | 366.80 | 226.75 | 311.75 | 433.95 | 305.20 | 260.00
64 | 203.15 | 270.50 | 371.85 | 229.60 | 316.00 | 440.15 | 309.35 | 263.35
65 | 205.60 | 273.95 | 376.90 | 232.45 | 320.30 | 446.35 | 313.50 | 266.70
66 | 208.05 | 277.40 | 381.95 | 235.30 | 324.55 | 452.55 | 317.65 | 270.05
67 | 210.50 | 280.85 | 387.05 | 238.15 | 328.80 | 458.80 | 321.80 | 273.40
68 | 212.95 | 284.30 | 392.10 | 241.00 | 333.05 | 465.00 | 326.00 | 276.75
69 | 215.40 | 287.75 | 397.15 | 243.85 | 337.30 | 471.20 | 330.15 | 280.10
70 | 217.85 | 291.20 | 402.20 | 246.70 | 341.60 | 477.40 | 334.30 | 283.45

Priority Mail International Parcels Retail Prices (Continued)
Maximum weight (pounds) | Country price group: 10 ($) | Country price group: 11 ($) | Country price group: 12 ($) | Country price group: 13 ($) | Country price group: 14 ($) | Country price group: 15 ($) | Country price group: 16 ($) | Country price group: 17 ($)
51 | 311.95 | 222.50 | 211.50 | 185.20 | 231.90 | 255.80 | 160.90 | 182.45
52 | 317.20 | 225.85 | 214.65 | 187.85 | 235.35 | 260.10 | 162.95 | 185.10
53 | 322.50 | 229.25 | 217.80 | 190.50 | 238.80 | 264.35 | 165.00 | 187.75
54 | 327.75 | 232.60 | 220.95 | 193.15 | 242.25 | 268.60 | 167.05 | 190.40
55 | 333.00 | 235.95 | 224.10 | 195.80 | 245.70 | 272.85 | 169.10 | 193.05
56 | 338.25 | 239.30 | 227.30 | 198.45 | 249.15 | 277.10 | 171.15 | 195.70
57 | 343.50 | 242.70 | 230.45 | 201.10 | 252.60 | 281.40 | 173.20 | 198.35
58 | 348.75 | 246.05 | 233.60 | 203.75 | 256.05 | 285.65 | 175.25 | 201.00
59 | 354.05 | 249.40 | 236.75 | 206.40 | 259.50 | 289.90 | 177.30 | 203.65
60 | 359.30 | 252.75 | 239.90 | 209.05 | 262.95 | 294.15 | 179.35 | 206.30
61 | 364.55 | 256.10 | 243.05 | 211.70 | 266.40 | 298.40 | 181.40 | 208.95
62 | 369.80 | 259.50 | 246.20 | 214.35 | 269.85 | 302.70 | 183.45 | 211.60
63 | 375.05 | 262.85 | 249.35 | 217.00 | 273.30 | 306.95 | 185.50 | 214.30
64 | 380.30 | 266.20 | 252.50 | 219.65 | 276.80 | 311.20 | 187.55 | 216.95
65 | 385.60 | 269.55 | 255.65 | 222.30 | 280.25 | 315.45 | 189.60 | 219.60
66 | 390.85 | 272.95 | 258.80 | 224.95 | 283.70 | 319.70 | 191.65 | 222.25
67 |  |  |  |  |  |  | 193.70 |
68 |  |  |  |  |  |  | 195.75 |
69 |  |  |  |  |  |  | 197.80 |
70 |  |  |  |  |  |  | 199.85 |
Notes:
1. The applicable Origin Zone for pieces destined to Canada is based on the applicable zone from the origin point to the serving International Service Center (ISC). In future releases, distance to and within Canada could be considered for application of the appropriate Origin Zone group.

Priority Mail International Parcels Commercial Base Prices
Maximum weight (pounds) | Country price group ¹: Origin Zone 1.1 &1.2 ($) | Country price group ¹: Origin Zone 1.3 ($) | Country price group ¹: Origin Zone 1.4 ($) | Country price group ¹: Origin Zone 1.5 ($) | Country price group ¹: Origin Zone 1.6 ($) | Country price group ¹: Origin Zone 1.7 ($) | Country price group ¹: Origin Zone 1.8 ($)
1 | 32.59 | 33.54 | 35.96 | 37.10 | 38.43 | 39.00 | 39.47
2 | 35.20 | 36.34 | 38.76 | 40.09 | 41.52 | 41.99 | 42.56
3 | 37.81 | 39.14 | 41.56 | 43.08 | 44.60 | 44.98 | 45.65
4 | 40.42 | 41.94 | 44.37 | 46.08 | 47.74 | 47.98 | 48.74
5 | 43.04 | 44.79 | 47.17 | 49.12 | 50.83 | 50.97 | 51.82
6 | 45.65 | 47.50 | 50.07 | 52.11 | 53.72 | 54.10 | 55.15
7 | 48.26 | 50.21 | 53.01 | 55.10 | 56.62 | 57.19 | 58.43
8 | 50.92 | 52.92 | 55.91 | 58.09 | 59.52 | 60.28 | 61.70
9 | 53.53 | 55.62 | 58.81 | 61.09 | 62.42 | 63.37 | 64.98
10 | 56.15 | 58.33 | 61.70 | 64.08 | 65.31 | 66.45 | 68.31
11 | 58.66 | 61.04 | 64.41 | 67.07 | 68.40 | 69.73 | 71.58
12 | 61.18 | 63.75 | 67.12 | 70.06 | 71.49 | 73.01 | 74.96
13 | 63.70 | 66.45 | 69.83 | 73.06 | 74.58 | 76.29 | 78.33
14 | 66.22 | 69.16 | 72.53 | 76.05 | 77.66 | 79.61 | 81.70
15 | 68.73 | 71.87 | 75.24 | 79.04 | 80.75 | 82.89 | 85.07
16 | 71.25 | 74.58 | 77.95 | 82.03 | 83.89 | 86.17 | 88.45
17 | 73.77 | 77.28 | 80.66 | 85.03 | 86.97 | 89.44 | 91.82
18 | 76.29 | 79.80 | 83.36 | 88.02 | 90.06 | 92.77 | 95.19
19 | 78.80 | 82.32 | 86.07 | 91.01 | 93.15 | 96.05 | 98.56
20 | 81.37 | 84.84 | 88.83 | 94.05 | 96.24 | 99.32 | 101.94
21 | 83.89 | 87.35 | 91.53 | 97.04 | 99.32 | 102.60 | 105.31
22 | 86.40 | 89.87 | 94.24 | 100.04 | 102.41 | 105.93 | 108.68
23 | 88.92 | 92.39 | 96.95 | 103.03 | 105.55 | 109.20 | 112.05
24 | 91.72 | 94.91 | 99.66 | 106.02 | 108.44 | 112.48 | 115.43
25 | 93.77 | 97.42 | 102.36 | 109.01 | 111.29 | 115.76 | 118.80

Priority Mail International Parcels Commercial Base Prices (Continued)
Maximum weight (pounds) | Country price group: 2 ($) | Country price group: 3 ($) | Country price group: 4 ($) | Country price group: 5 ($) | Country price group: 6 ($) | Country price group: 7 ($) | Country price group: 8 ($) | Country price group: 9 ($)
1 | 39.71 | 43.04 | 48.97 | 45.41 | 46.84 | 48.55 | 43.99 | 42.23
2 | 43.27 | 48.17 | 54.15 | 48.64 | 51.02 | 54.25 | 48.40 | 46.74
3 | 46.84 | 53.25 | 59.38 | 51.82 | 55.15 | 59.95 | 52.82 | 51.25
4 | 50.40 | 58.33 | 64.55 | 55.01 | 59.28 | 65.65 | 57.24 | 55.81
5 | 53.96 | 63.41 | 69.73 | 58.19 | 63.41 | 71.39 | 61.70 | 60.33
6 | 56.57 | 66.69 | 74.53 | 60.90 | 67.07 | 77.09 | 65.46 | 63.79
7 | 59.23 | 69.97 | 79.33 | 63.60 | 70.73 | 82.79 | 69.21 | 67.26
8 | 61.85 | 73.25 | 84.12 | 66.31 | 74.39 | 88.49 | 72.96 | 70.73
9 | 64.46 | 76.52 | 88.97 | 69.02 | 78.04 | 94.24 | 76.71 | 74.24
10 | 67.07 | 79.80 | 93.77 | 71.73 | 81.70 | 99.94 | 80.47 | 77.71
11 | 69.40 | 83.08 | 98.56 | 74.43 | 85.74 | 105.83 | 84.41 | 80.99
12 | 71.73 | 86.40 | 103.36 | 77.14 | 89.78 | 111.72 | 88.35 | 84.27
13 | 74.05 | 89.68 | 108.16 | 79.85 | 93.81 | 117.61 | 92.29 | 87.54
14 | 76.38 | 92.96 | 112.96 | 82.56 | 97.85 | 123.50 | 96.28 | 90.82
15 | 78.71 | 96.24 | 117.80 | 85.26 | 101.94 | 129.39 | 100.23 | 94.10
16 | 81.04 | 99.51 | 122.60 | 87.97 | 105.97 | 135.28 | 104.17 | 97.28
17 | 83.36 | 102.79 | 127.40 | 90.68 | 110.01 | 141.17 | 108.11 | 100.46
18 | 85.69 | 106.07 | 132.19 | 93.39 | 114.05 | 147.06 | 112.05 | 103.65
19 | 88.07 | 109.35 | 136.99 | 96.14 | 118.09 | 152.95 | 116.04 | 106.83
20 | 90.39 | 112.62 | 141.79 | 98.85 | 122.12 | 158.84 | 119.99 | 110.01
21 | 92.72 | 115.90 | 146.63 | 101.56 | 126.21 | 164.73 | 123.93 | 113.19
22 | 95.05 | 119.18 | 151.43 | 104.26 | 130.25 | 170.62 | 127.87 | 116.38
23 | 97.38 | 122.46 | 156.23 | 106.97 | 134.28 | 176.51 | 131.81 | 119.61
24 | 99.70 | 125.73 | 161.03 | 109.68 | 138.32 | 182.45 | 135.80 | 122.79
25 | 102.03 | 129.01 | 165.82 | 112.39 | 142.36 | 188.34 | 139.75 | 125.97

Priority Mail International Parcels Commercial Base Prices (Continued)
Maximum weight (pounds) | Country price group: 10 ($) | Country price group: 11 ($) | Country price group: 12 ($) | Country price group: 13 ($) | Country price group: 14 ($) | Country price group: 15 ($) | Country price group: 16 ($) | Country price group: 17 ($)
1 | 48.07 | 49.97 | 49.21 | 41.42 | 48.02 | 44.13 | 41.90 | 40.95
2 | 52.58 | 54.39 | 52.68 | 45.27 | 52.63 | 47.79 | 45.46 | 44.79
3 | 57.10 | 58.81 | 56.19 | 49.16 | 57.24 | 51.44 | 49.07 | 48.64
4 | 61.61 | 63.22 | 59.66 | 53.01 | 61.85 | 55.10 | 52.63 | 52.49
5 | 66.12 | 67.64 | 63.13 | 56.86 | 66.50 | 58.76 | 56.19 | 56.38
6 | 71.20 | 70.82 | 66.12 | 60.09 | 70.06 | 62.46 | 59.57 | 59.09
7 | 76.29 | 74.01 | 69.11 | 63.27 | 73.63 | 66.12 | 62.94 | 61.80
8 | 81.37 | 77.19 | 72.11 | 66.45 | 77.19 | 69.78 | 66.36 | 64.51
9 | 86.45 | 80.37 | 75.10 | 69.64 | 80.75 | 73.44 | 69.73 | 67.21
10 | 91.58 | 83.55 | 78.09 | 72.87 | 84.36 | 77.09 | 73.10 | 69.92
11 | 96.57 | 86.64 | 81.13 | 75.34 | 87.92 | 81.13 | 75.05 | 72.44
12 | 101.56 | 89.73 | 84.12 | 77.85 | 91.49 | 85.17 | 77.00 | 74.96
13 | 106.54 | 92.82 | 87.12 | 80.37 | 95.05 | 89.25 | 78.95 | 77.47
14 | 111.53 | 95.90 | 90.11 | 82.89 | 98.66 | 93.29 | 80.89 | 80.04
15 | 116.52 | 98.99 | 93.10 | 85.41 | 102.22 | 97.33 | 82.84 | 82.56
16 | 121.55 | 102.08 | 96.09 | 87.92 | 105.50 | 101.37 | 84.79 | 85.07
17 | 126.54 | 105.17 | 99.09 | 90.44 | 108.78 | 105.40 | 86.74 | 87.59
18 | 131.53 | 108.25 | 102.08 | 92.96 | 112.05 | 109.49 | 88.68 | 90.11
19 | 136.52 | 111.34 | 105.07 | 95.48 | 115.33 | 113.53 | 90.63 | 92.63
20 | 141.50 | 114.48 | 108.06 | 97.99 | 118.61 | 117.56 | 92.53 | 95.14
21 | 146.49 | 117.56 | 111.06 | 100.46 | 121.89 | 121.60 | 94.48 | 97.66
22 | 151.53 | 120.65 | 114.05 | 102.98 | 125.16 | 125.64 | 96.43 | 100.18
23 | 156.51 | 123.74 | 117.04 | 105.50 | 128.44 | 129.72 | 98.37 | 102.70
24 | 161.50 | 126.83 | 120.03 | 108.02 | 131.72 | 133.76 | 100.32 | 105.21
25 | 166.49 | 129.91 | 123.03 | 110.53 | 135.00 | 137.80 | 102.27 | 107.73

Priority Mail International Parcels Commercial Base Prices (Continued)
Maximum weight (pounds) | Country price group ¹: Origin zone 1.1 &1.2 ($) | Country price group ¹: Origin zone 1.3 ($) | Country price group ¹: Origin zone 1.4 ($) | Country price group ¹: Origin zone 1.5 ($) | Country price group ¹: Origin zone 1.6 ($) | Country price group ¹: Origin zone 1.7 ($) | Country price group ¹: Origin zone 1.8 ($)
26 | 95.81 | 99.94 | 105.07 | 111.91 | 114.19 | 118.85 | 122.22
27 | 97.85 | 102.46 | 107.78 | 114.81 | 117.09 | 121.93 | 125.59
28 | 99.89 | 104.98 | 110.49 | 117.71 | 119.99 | 125.02 | 128.96
29 | 101.94 | 107.49 | 113.19 | 120.60 | 122.88 | 128.11 | 132.34
30 | 103.98 | 110.01 | 115.90 | 123.50 | 125.78 | 131.20 | 135.71
31 | 106.02 | 112.53 | 118.61 | 126.40 | 128.68 | 134.24 | 139.08
32 | 108.06 | 115.05 | 121.32 | 129.30 | 131.58 | 137.32 | 142.45
33 | 110.11 | 117.56 | 124.02 | 132.19 | 134.47 | 140.41 | 145.83
34 | 112.15 | 120.08 | 126.78 | 135.09 | 137.37 | 143.50 | 149.20
35 | 114.19 | 122.60 | 129.49 | 138.04 | 140.27 | 146.59 | 152.57
36 | 116.23 | 125.07 | 132.19 | 140.93 | 143.17 | 149.67 | 155.94
37 | 118.28 | 127.59 | 134.90 | 143.83 | 146.06 | 152.76 | 159.32
38 | 120.27 | 130.10 | 137.61 | 146.73 | 148.96 | 155.85 | 162.69
39 | 122.31 | 132.62 | 140.32 | 149.63 | 151.86 | 158.94 | 166.06
40 | 124.36 | 135.14 | 143.02 | 152.52 | 154.76 | 162.02 | 169.43
41 | 126.40 | 137.66 | 145.73 | 155.42 | 157.65 | 165.11 | 172.81
42 | 128.44 | 140.17 | 148.44 | 158.32 | 160.55 | 168.20 | 176.18
43 | 130.48 | 142.69 | 151.15 | 161.22 | 163.45 | 171.24 | 179.60
44 | 132.53 | 145.21 | 153.85 | 164.11 | 166.35 | 174.33 | 182.97
45 | 134.57 | 147.73 | 156.56 | 167.01 | 169.24 | 177.41 | 186.34
46 | 136.61 | 150.24 | 159.27 | 169.91 | 172.14 | 180.50 | 189.72
47 | 138.65 | 152.76 | 162.02 | 172.81 | 175.04 | 183.59 | 193.09
48 | 140.70 | 155.28 | 164.73 | 175.70 | 177.94 | 186.68 | 196.46
49 | 142.74 | 157.80 | 167.44 | 178.65 | 180.83 | 189.76 | 199.83
50 | 144.78 | 160.31 | 170.15 | 181.55 | 183.73 | 192.85 | 203.21

Priority Mail International Parcels Commercial Base Prices (Continued)
Maximum weight (pounds) | Country price group: 2 ($) | Country price group: 3 ($) | Country price group: 4 ($) | Country price group: 5 ($) | Country price group: 6 ($) | Country price group: 7 ($) | Country price group: 8 ($) | Country price group: 9 ($)
26 | 104.36 | 132.29 | 170.62 | 115.09 | 146.44 | 194.23 | 143.69 | 129.15
27 | 106.69 | 135.57 | 175.47 | 117.80 | 150.48 | 200.12 | 147.63 | 132.34
28 | 109.01 | 138.84 | 180.26 | 120.51 | 154.52 | 206.01 | 151.57 | 135.52
29 | 111.34 | 142.17 | 185.06 | 123.22 | 158.56 | 211.90 | 155.56 | 138.70
30 | 113.67 | 145.45 | 189.86 | 125.92 | 162.59 | 217.79 | 159.51 | 141.88
31 | 116.04 | 148.72 | 194.66 | 128.63 | 166.68 | 223.68 | 163.45 | 145.07
32 | 118.37 | 152.00 | 199.50 | 131.39 | 170.72 | 229.57 | 167.39 | 148.25
33 | 120.70 | 155.28 | 204.30 | 134.09 | 174.75 | 235.46 | 171.33 | 151.43
34 | 123.03 | 158.56 | 209.10 | 136.80 | 178.79 | 241.35 | 175.32 | 154.61
35 | 125.35 | 161.83 | 213.89 | 139.51 | 182.83 | 247.24 | 179.27 | 157.80
36 | 127.68 | 165.11 | 218.69 | 142.22 | 186.91 | 253.13 | 183.21 | 160.98
37 | 130.01 | 168.39 | 223.49 | 144.92 | 190.95 | 259.02 | 187.15 | 164.16
38 | 132.34 | 171.67 | 228.33 | 147.63 | 194.99 | 264.91 | 191.09 | 167.34
39 | 134.66 | 174.94 | 233.13 | 150.34 | 199.03 | 270.85 | 195.08 | 170.57
40 | 136.99 | 178.22 | 237.93 | 153.05 | 203.06 | 276.74 | 199.03 | 173.76
41 | 139.32 | 181.50 | 242.73 | 155.75 | 207.15 | 282.63 | 202.97 | 176.94
42 | 141.69 | 184.78 | 247.52 | 158.46 | 211.19 | 288.52 | 206.91 | 180.12
43 | 144.02 | 188.05 | 252.32 | 161.17 | 215.22 | 294.41 | 210.85 | 183.30
44 | 146.35 | 191.33 | 257.17 | 163.88 | 219.26 | 300.30 | 214.84 | 186.49
45 | 148.68 | 194.61 | 261.96 | 166.58 | 223.30 | 306.19 | 218.79 | 189.67
46 | 151.00 | 197.93 | 266.76 | 169.34 | 227.38 | 312.08 | 222.73 | 192.85
47 | 153.33 | 201.21 | 271.56 | 172.05 | 231.42 | 317.97 | 226.67 | 196.03
48 | 155.66 | 204.49 | 276.36 | 174.75 | 235.46 | 323.86 | 230.61 | 199.22
49 | 157.99 | 207.77 | 281.15 | 177.46 | 239.50 | 329.75 | 234.60 | 202.40
50 | 160.31 | 211.04 | 286.00 | 180.17 | 243.53 | 335.64 | 238.55 | 205.58

Priority Mail International Parcels Commercial Base Prices (Continued)
Maximum Weight (pounds) | Country price group: 10 ($) | Country price group: 11 ($) | Country price group: 12 ($) | Country price group: 13 ($) | Country price group: 14 ($) | Country price group: 15 ($) | Country price group: 16 ($) | Country price group: 17 ($)
26 | 171.48 | 133.00 | 126.07 | 113.05 | 138.27 | 141.84 | 104.22 | 110.30
27 | 176.46 | 136.09 | 129.06 | 115.57 | 141.55 | 145.87 | 106.16 | 112.81
28 | 181.50 | 139.18 | 132.05 | 118.09 | 144.83 | 149.96 | 108.11 | 115.33
29 | 186.49 | 142.26 | 135.04 | 120.60 | 148.15 | 154.00 | 110.06 | 117.85
30 | 191.47 | 145.35 | 138.04 | 123.12 | 151.43 | 158.03 | 112.01 | 120.37
31 | 196.46 | 148.44 | 141.03 | 125.64 | 154.71 | 162.07 | 113.95 | 122.88
32 | 201.45 | 151.53 | 144.02 | 128.16 | 157.99 | 166.11 | 115.90 | 125.40
33 | 206.44 | 154.61 | 147.01 | 130.67 | 161.26 | 170.19 | 117.85 | 127.92
34 | 211.47 | 157.70 | 150.01 | 133.19 | 164.54 | 174.23 | 119.80 | 130.44
35 | 216.46 | 160.84 | 153.00 | 135.71 | 167.82 | 178.27 | 121.74 | 132.95
36 | 221.45 | 163.92 | 155.99 | 138.23 | 171.10 | 182.31 | 123.69 | 135.47
37 | 226.43 | 167.01 | 158.98 | 140.74 | 174.37 | 186.34 | 125.64 | 137.99
38 | 231.42 | 170.10 | 161.98 | 143.26 | 177.65 | 190.43 | 127.59 | 140.55
39 | 236.41 | 173.19 | 164.97 | 145.78 | 180.93 | 194.47 | 129.53 | 143.07
40 | 241.44 | 176.27 | 167.96 | 148.30 | 184.21 | 198.50 | 131.48 | 145.59
41 | 246.43 | 179.46 | 171.00 | 150.81 | 187.48 | 202.54 | 133.43 | 148.11
42 | 251.42 | 182.64 | 173.99 | 153.33 | 190.76 | 206.63 | 135.38 | 150.62
43 | 256.41 | 185.82 | 176.99 | 155.85 | 194.04 | 210.66 | 137.32 | 153.14
44 | 261.39 | 189.05 | 179.98 | 158.37 | 197.32 | 214.70 | 139.27 | 155.66
45 | 266.38 | 192.23 | 182.97 | 160.88 | 200.59 | 218.74 | 141.22 | 158.18
46 | 271.42 | 195.42 | 185.96 | 163.35 | 203.87 | 222.78 | 143.17 | 160.69
47 | 276.40 | 198.60 | 188.96 | 165.87 | 207.20 | 226.86 | 145.11 | 163.21
48 | 281.39 | 201.83 | 191.95 | 168.39 | 210.47 | 230.90 | 147.06 | 165.73
49 | 286.38 | 205.01 | 194.94 | 170.91 | 213.75 | 234.94 | 148.96 | 168.25
50 | 291.37 | 208.19 | 197.93 | 173.42 | 217.03 | 238.97 | 150.91 | 170.76

Priority Mail International Parcels Commercial Base Prices (Continued)
Maximum weight (pounds) | Country price group ¹: Origin zone 1.1 &1.2 ($) | Country price group ¹: Origin zone 1.3 ($) | Country price group ¹: Origin zone 1.4 ($) | Country price group ¹: Origin zone 1.5 ($) | Country price group ¹: Origin zone 1.6 ($) | Country price group ¹: Origin Zone 1.7 ($) | Country price group ¹: Origin Zone 1.8 ($)
51 | 146.82 | 162.83 | 172.85 | 184.25 | 186.63 | 195.94 | 206.58
52 | 148.87 | 165.35 | 175.56 | 186.96 | 189.53 | 199.03 | 209.95
53 | 150.91 | 167.87 | 178.27 | 189.67 | 192.42 | 202.11 | 213.32
54 | 152.95 | 170.38 | 180.98 | 192.38 | 195.32 | 205.20 | 216.70
55 | 154.99 | 172.90 | 183.68 | 195.08 | 198.22 | 208.29 | 220.07
56 | 157.04 | 175.42 | 186.39 | 197.79 | 201.12 | 211.38 | 223.44
57 | 159.08 | 177.94 | 189.10 | 200.50 | 204.01 | 214.46 | 226.81
58 | 161.12 | 180.45 | 191.81 | 203.21 | 206.96 | 217.55 | 230.19
59 | 163.16 | 182.97 | 194.51 | 205.91 | 209.86 | 220.64 | 233.56
60 | 165.21 | 185.49 | 197.27 | 208.62 | 212.75 | 223.73 | 236.93
61 | 167.25 | 188.01 | 199.98 | 211.33 | 215.65 | 226.81 | 240.35
62 | 169.29 | 190.52 | 202.68 | 214.08 | 218.55 | 229.90 | 243.72
63 | 171.33 | 193.04 | 205.39 | 216.79 | 221.45 | 232.94 | 247.10
64 | 173.38 | 195.56 | 208.10 | 219.50 | 224.34 | 236.03 | 250.47
65 | 175.42 | 198.08 | 210.81 | 222.21 | 227.24 | 239.12 | 253.84
66 | 177.46 | 200.59 | 213.51 | 224.91 | 230.14 | 242.20 | 257.21
67 |  |  |  |  |  |  |
68 |  |  |  |  |  |  |
69 |  |  |  |  |  |  |
70 |  |  |  |  |  |  |

Priority Mail International Parcels Commercial Base Prices (Continued)
Maximum weight (pounds) | Country price group: 2 ($) | Country price group: 3 ($) | Country price group: 4 ($) | Country price group: 5 ($) | Country price group: 6 ($) | Country price group: 7 ($) | Country price group: 8 ($) | Country price group: 9 ($)
51 | 162.64 | 214.32 | 290.80 | 182.88 | 247.62 | 341.53 | 242.49 | 208.76
52 | 164.97 | 217.60 | 295.59 | 185.58 | 251.66 | 347.42 | 246.43 | 211.95
53 | 167.34 | 220.88 | 300.39 | 188.29 | 255.69 | 353.35 | 250.42 | 215.13
54 | 169.67 | 224.15 | 305.19 | 191.00 | 259.73 | 359.24 | 254.36 | 218.31
55 | 172.00 | 227.43 | 309.99 | 193.71 | 263.82 | 365.13 | 258.31 | 221.54
56 | 174.33 | 230.71 | 314.83 | 196.41 | 267.85 | 371.02 | 262.25 | 224.72
57 | 176.65 | 233.99 | 319.63 | 199.12 | 271.89 | 376.91 | 266.19 | 227.91
58 | 178.98 | 237.26 | 324.43 | 201.83 | 275.93 | 382.80 | 270.18 | 231.09
59 | 181.31 | 240.54 | 329.22 | 204.58 | 279.97 | 388.69 | 274.12 | 234.27
60 | 183.64 | 243.82 | 334.02 | 207.29 | 284.05 | 394.58 | 278.07 | 237.45
61 | 185.96 | 247.10 | 338.87 | 210.00 | 288.09 | 400.47 | 282.01 | 240.64
62 | 188.29 | 250.42 | 343.66 | 212.71 | 292.13 | 406.36 | 285.95 | 243.82
63 | 190.62 | 253.70 | 348.46 | 215.41 | 296.16 | 412.25 | 289.94 | 247.00
64 | 192.99 | 256.98 | 353.26 | 218.12 | 300.20 | 418.14 | 293.88 | 250.18
65 | 195.32 | 260.25 | 358.06 | 220.83 | 304.29 | 424.03 | 297.83 | 253.37
66 | 197.65 | 263.53 | 362.85 | 223.54 | 308.32 | 429.92 | 301.77 | 256.55
67 | 199.98 | 266.81 | 367.70 | 226.24 | 312.36 | 435.86 | 305.71 | 259.73
68 | 202.30 | 270.09 | 372.50 | 228.95 | 316.40 | 441.75 | 309.70 | 262.91
69 | 204.63 | 273.36 | 377.29 | 231.66 | 320.44 | 447.64 | 313.64 | 266.10
70 | 206.96 | 276.64 | 382.09 | 234.37 | 324.52 | 453.53 | 317.59 | 269.28

Priority Mail International Parcels Commercial Base Prices (Continued)
Maximum weight (pounds) | Country price group: 10 ($) | Country price group: 11 ($) | Country price group: 12 ($) | Country price group: 13 ($) | Country price group: 14 ($) | Country price group: 15 ($) | Country price group: 16 ($) | Country price group: 17 ($)
51 | 296.35 | 211.38 | 200.93 | 175.94 | 220.31 | 243.01 | 152.86 | 173.33
52 | 301.34 | 214.56 | 203.92 | 178.46 | 223.58 | 247.10 | 154.80 | 175.85
53 | 306.38 | 217.79 | 206.91 | 180.98 | 226.86 | 251.13 | 156.75 | 178.36
54 | 311.36 | 220.97 | 209.90 | 183.49 | 230.14 | 255.17 | 158.70 | 180.88
55 | 316.35 | 224.15 | 212.90 | 186.01 | 233.42 | 259.21 | 160.65 | 183.40
56 | 321.34 | 227.34 | 215.94 | 188.53 | 236.69 | 263.25 | 162.59 | 185.92
57 | 326.33 | 230.57 | 218.93 | 191.05 | 239.97 | 267.33 | 164.54 | 188.43
58 | 331.31 | 233.75 | 221.92 | 193.56 | 243.25 | 271.37 | 166.49 | 190.95
59 | 336.35 | 236.93 | 224.91 | 196.08 | 246.53 | 275.41 | 168.44 | 193.47
60 | 341.34 | 240.11 | 227.91 | 198.60 | 249.80 | 279.44 | 170.38 | 195.99
61 | 346.32 | 243.30 | 230.90 | 201.12 | 253.08 | 283.48 | 172.33 | 198.50
62 | 351.31 | 246.53 | 233.89 | 203.63 | 256.36 | 287.57 | 174.28 | 201.02
63 | 356.30 | 249.71 | 236.88 | 206.15 | 259.64 | 291.60 | 176.23 | 203.59
64 | 361.29 | 252.89 | 239.88 | 208.67 | 262.96 | 295.64 | 178.17 | 206.10
65 | 366.32 | 256.07 | 242.87 | 211.19 | 266.24 | 299.68 | 180.12 | 208.62
66 | 371.31 | 259.30 | 245.86 | 213.70 | 269.52 | 303.72 | 182.07 | 211.14
67 |  |  |  |  |  |  | 184.02 |
68 |  |  |  |  |  |  | 185.96 |
69 |  |  |  |  |  |  | 187.91 |
70 |  |  |  |  |  |  | 189.86 |
Notes:
1. The applicable Origin Zone for pieces destined to Canada is based on the applicable zone from the origin point to the serving International Service Center (ISC). In future releases, distance to and within Canada could be considered for application of the appropriate Origin Zone group.

Priority Mail International Parcels Commercial Plus Prices
Maximum weight (pounds) | Country price group ¹: Origin zone 1.1 &1.2 ($) | Country price group ¹: Origin zone 1.3 ($) | Country price group ¹: Origin zone 1.4 ($) | Country price group ¹: Origin zone 1.5 ($) | Country price group ¹: Origin zone 1.6 ($) | Country price group ¹: Origin zone 1.7 ($) | Country price group ¹: Origin zone 1.8 ($)
1 | 32.59 | 33.54 | 35.96 | 37.10 | 38.43 | 39.00 | 39.47
2 | 35.20 | 36.34 | 38.76 | 40.09 | 41.52 | 41.99 | 42.56
3 | 37.81 | 39.14 | 41.56 | 43.08 | 44.60 | 44.98 | 45.65
4 | 40.42 | 41.94 | 44.37 | 46.08 | 47.74 | 47.98 | 48.74
5 | 43.04 | 44.79 | 47.17 | 49.12 | 50.83 | 50.97 | 51.82
6 | 45.65 | 47.50 | 50.07 | 52.11 | 53.72 | 54.10 | 55.15
7 | 48.26 | 50.21 | 53.01 | 55.10 | 56.62 | 57.19 | 58.43
8 | 50.92 | 52.92 | 55.91 | 58.09 | 59.52 | 60.28 | 61.70
9 | 53.53 | 55.62 | 58.81 | 61.09 | 62.42 | 63.37 | 64.98
10 | 56.15 | 58.33 | 61.70 | 64.08 | 65.31 | 66.45 | 68.31
11 | 58.66 | 61.04 | 64.41 | 67.07 | 68.40 | 69.73 | 71.58
12 | 61.18 | 63.75 | 67.12 | 70.06 | 71.49 | 73.01 | 74.96
13 | 63.70 | 66.45 | 69.83 | 73.06 | 74.58 | 76.29 | 78.33
14 | 66.22 | 69.16 | 72.53 | 76.05 | 77.66 | 79.61 | 81.70
15 | 68.73 | 71.87 | 75.24 | 79.04 | 80.75 | 82.89 | 85.07
16 | 71.25 | 74.58 | 77.95 | 82.03 | 83.89 | 86.17 | 88.45
17 | 73.77 | 77.28 | 80.66 | 85.03 | 86.97 | 89.44 | 91.82
18 | 76.29 | 79.80 | 83.36 | 88.02 | 90.06 | 92.77 | 95.19
19 | 78.80 | 82.32 | 86.07 | 91.01 | 93.15 | 96.05 | 98.56
20 | 81.37 | 84.84 | 88.83 | 94.05 | 96.24 | 99.32 | 101.94
21 | 83.89 | 87.35 | 91.53 | 97.04 | 99.32 | 102.60 | 105.31
22 | 86.40 | 89.87 | 94.24 | 100.04 | 102.41 | 105.93 | 108.68
23 | 88.92 | 92.39 | 96.95 | 103.03 | 105.55 | 109.20 | 112.05
24 | 91.72 | 94.91 | 99.66 | 106.02 | 108.44 | 112.48 | 115.43
25 | 93.77 | 97.42 | 102.36 | 109.01 | 111.29 | 115.76 | 118.80

Priority Mail International Parcels Commercial Plus Prices (Continued)
Maximum weight (pounds) | Country price group: 2 ($) | Country price group: 3 ($) | Country price group: 4 ($) | Country price group: 5 ($) | Country price group: 6 ($) | Country price group: 7 ($) | Country price group: 8 ($) | Country price group: 9 ($)
1 | 39.71 | 43.04 | 48.97 | 45.41 | 46.84 | 48.55 | 43.99 | 42.23
2 | 43.27 | 48.17 | 54.15 | 48.64 | 51.02 | 54.25 | 48.40 | 46.74
3 | 46.84 | 53.25 | 59.38 | 51.82 | 55.15 | 59.95 | 52.82 | 51.25
4 | 50.40 | 58.33 | 64.55 | 55.01 | 59.28 | 65.65 | 57.24 | 55.81
5 | 53.96 | 63.41 | 69.73 | 58.19 | 63.41 | 71.39 | 61.70 | 60.33
6 | 56.57 | 66.69 | 74.53 | 60.90 | 67.07 | 77.09 | 65.46 | 63.79
7 | 59.23 | 69.97 | 79.33 | 63.60 | 70.73 | 82.79 | 69.21 | 67.26
8 | 61.85 | 73.25 | 84.12 | 66.31 | 74.39 | 88.49 | 72.96 | 70.73
9 | 64.46 | 76.52 | 88.97 | 69.02 | 78.04 | 94.24 | 76.71 | 74.24
10 | 67.07 | 79.80 | 93.77 | 71.73 | 81.70 | 99.94 | 80.47 | 77.71
11 | 69.40 | 83.08 | 98.56 | 74.43 | 85.74 | 105.83 | 84.41 | 80.99
12 | 71.73 | 86.40 | 103.36 | 77.14 | 89.78 | 111.72 | 88.35 | 84.27
13 | 74.05 | 89.68 | 108.16 | 79.85 | 93.81 | 117.61 | 92.29 | 87.54
14 | 76.38 | 92.96 | 112.96 | 82.56 | 97.85 | 123.50 | 96.28 | 90.82
15 | 78.71 | 96.24 | 117.80 | 85.26 | 101.94 | 129.39 | 100.23 | 94.10
16 | 81.04 | 99.51 | 122.60 | 87.97 | 105.97 | 135.28 | 104.17 | 97.28
17 | 83.36 | 102.79 | 127.40 | 90.68 | 110.01 | 141.17 | 108.11 | 100.46
18 | 85.69 | 106.07 | 132.19 | 93.39 | 114.05 | 147.06 | 112.05 | 103.65
19 | 88.07 | 109.35 | 136.99 | 96.14 | 118.09 | 152.95 | 116.04 | 106.83
20 | 90.39 | 112.62 | 141.79 | 98.85 | 122.12 | 158.84 | 119.99 | 110.01
21 | 92.72 | 115.90 | 146.63 | 101.56 | 126.21 | 164.73 | 123.93 | 113.19
22 | 95.05 | 119.18 | 151.43 | 104.26 | 130.25 | 170.62 | 127.87 | 116.38
23 | 97.38 | 122.46 | 156.23 | 106.97 | 134.28 | 176.51 | 131.81 | 119.61
24 | 99.70 | 125.73 | 161.03 | 109.68 | 138.32 | 182.45 | 135.80 | 122.79
25 | 102.03 | 129.01 | 165.82 | 112.39 | 142.36 | 188.34 | 139.75 | 125.97

Priority Mail International Parcels Commercial Plus Prices (Continued)
Maximum weight (pounds) | Country price group: 10 ($) | Country price group: 11 ($) | Country price group: 12 ($) | Country price group: 13 ($) | Country price group: 14 ($) | Country price group: 15 ($) | Country price group: 16 ($) | Country price group: 17 ($)
1 | 48.07 | 49.97 | 49.21 | 41.42 | 48.02 | 44.13 | 41.90 | 40.95
2 | 52.58 | 54.39 | 52.68 | 45.27 | 52.63 | 47.79 | 45.46 | 44.79
3 | 57.10 | 58.81 | 56.19 | 49.16 | 57.24 | 51.44 | 49.07 | 48.64
4 | 61.61 | 63.22 | 59.66 | 53.01 | 61.85 | 55.10 | 52.63 | 52.49
5 | 66.12 | 67.64 | 63.13 | 56.86 | 66.50 | 58.76 | 56.19 | 56.38
6 | 71.20 | 70.82 | 66.12 | 60.09 | 70.06 | 62.46 | 59.57 | 59.09
7 | 76.29 | 74.01 | 69.11 | 63.27 | 73.63 | 66.12 | 62.94 | 61.80
8 | 81.37 | 77.19 | 72.11 | 66.45 | 77.19 | 69.78 | 66.36 | 64.51
9 | 86.45 | 80.37 | 75.10 | 69.64 | 80.75 | 73.44 | 69.73 | 67.21
10 | 91.58 | 83.55 | 78.09 | 72.87 | 84.36 | 77.09 | 73.10 | 69.92
11 | 96.57 | 86.64 | 81.13 | 75.34 | 87.92 | 81.13 | 75.05 | 72.44
12 | 101.56 | 89.73 | 84.12 | 77.85 | 91.49 | 85.17 | 77.00 | 74.96
13 | 106.54 | 92.82 | 87.12 | 80.37 | 95.05 | 89.25 | 78.95 | 77.47
14 | 111.53 | 95.90 | 90.11 | 82.89 | 98.66 | 93.29 | 80.89 | 80.04
15 | 116.52 | 98.99 | 93.10 | 85.41 | 102.22 | 97.33 | 82.84 | 82.56
16 | 121.55 | 102.08 | 96.09 | 87.92 | 105.50 | 101.37 | 84.79 | 85.07
17 | 126.54 | 105.17 | 99.09 | 90.44 | 108.78 | 105.40 | 86.74 | 87.59
18 | 131.53 | 108.25 | 102.08 | 92.96 | 112.05 | 109.49 | 88.68 | 90.11
19 | 136.52 | 111.34 | 105.07 | 95.48 | 115.33 | 113.53 | 90.63 | 92.63
20 | 141.50 | 114.48 | 108.06 | 97.99 | 118.61 | 117.56 | 92.53 | 95.14
21 | 146.49 | 117.56 | 111.06 | 100.46 | 121.89 | 121.60 | 94.48 | 97.66
22 | 151.53 | 120.65 | 114.05 | 102.98 | 125.16 | 125.64 | 96.43 | 100.18
23 | 156.51 | 123.74 | 117.04 | 105.50 | 128.44 | 129.72 | 98.37 | 102.70
24 | 161.50 | 126.83 | 120.03 | 108.02 | 131.72 | 133.76 | 100.32 | 105.21
25 | 166.49 | 129.91 | 123.03 | 110.53 | 135.00 | 137.80 | 102.27 | 107.73

Priority Mail International Parcels Commercial Plus Prices (Continued)
Maximum weight (pounds) | Country price group ¹: Origin zone 1.1 &1.2 ($) | Country price group ¹: Origin zone 1.3 ($) | Country price group ¹: Origin zone 1.4 ($) | Country price group ¹: Origin zone 1.5 ($) | Country price group ¹: Origin zone 1.6 ($) | Country price group ¹: Origin zone 1.7 ($) | Country price group ¹: Origin zone 1.8 ($)
26 | 95.81 | 99.94 | 105.07 | 111.91 | 114.19 | 118.85 | 122.22
27 | 97.85 | 102.46 | 107.78 | 114.81 | 117.09 | 121.93 | 125.59
28 | 99.89 | 104.98 | 110.49 | 117.71 | 119.99 | 125.02 | 128.96
29 | 101.94 | 107.49 | 113.19 | 120.60 | 122.88 | 128.11 | 132.34
30 | 103.98 | 110.01 | 115.90 | 123.50 | 125.78 | 131.20 | 135.71
31 | 106.02 | 112.53 | 118.61 | 126.40 | 128.68 | 134.24 | 139.08
32 | 108.06 | 115.05 | 121.32 | 129.30 | 131.58 | 137.32 | 142.45
33 | 110.11 | 117.56 | 124.02 | 132.19 | 134.47 | 140.41 | 145.83
34 | 112.15 | 120.08 | 126.78 | 135.09 | 137.37 | 143.50 | 149.20
35 | 114.19 | 122.60 | 129.49 | 138.04 | 140.27 | 146.59 | 152.57
36 | 116.23 | 125.07 | 132.19 | 140.93 | 143.17 | 149.67 | 155.94
37 | 118.28 | 127.59 | 134.90 | 143.83 | 146.06 | 152.76 | 159.32
38 | 120.27 | 130.10 | 137.61 | 146.73 | 148.96 | 155.85 | 162.69
39 | 122.31 | 132.62 | 140.32 | 149.63 | 151.86 | 158.94 | 166.06
40 | 124.36 | 135.14 | 143.02 | 152.52 | 154.76 | 162.02 | 169.43
41 | 126.40 | 137.66 | 145.73 | 155.42 | 157.65 | 165.11 | 172.81
42 | 128.44 | 140.17 | 148.44 | 158.32 | 160.55 | 168.20 | 176.18
43 | 130.48 | 142.69 | 151.15 | 161.22 | 163.45 | 171.24 | 179.60
44 | 132.53 | 145.21 | 153.85 | 164.11 | 166.35 | 174.33 | 182.97
45 | 134.57 | 147.73 | 156.56 | 167.01 | 169.24 | 177.41 | 186.34
46 | 136.61 | 150.24 | 159.27 | 169.91 | 172.14 | 180.50 | 189.72
47 | 138.65 | 152.76 | 162.02 | 172.81 | 175.04 | 183.59 | 193.09
48 | 140.70 | 155.28 | 164.73 | 175.70 | 177.94 | 186.68 | 196.46
49 | 142.74 | 157.80 | 167.44 | 178.65 | 180.83 | 189.76 | 199.83
50 | 144.78 | 160.31 | 170.15 | 181.55 | 183.73 | 192.85 | 203.21

Priority Mail International Parcels Commercial Plus Prices (Continued)
Maximum weight (pounds) | Country price group: 2 ($) | Country price group: 3 ($) | Country price group: 4 ($) | Country price group: 5 ($) | Country price group: 6 ($) | Country price group: 7 ($) | Country price group: 8 ($) | Country price group: 9 ($)
26 | 104.36 | 132.29 | 170.62 | 115.09 | 146.44 | 194.23 | 143.69 | 129.15
27 | 106.69 | 135.57 | 175.47 | 117.80 | 150.48 | 200.12 | 147.63 | 132.34
28 | 109.01 | 138.84 | 180.26 | 120.51 | 154.52 | 206.01 | 151.57 | 135.52
29 | 111.34 | 142.17 | 185.06 | 123.22 | 158.56 | 211.90 | 155.56 | 138.70
30 | 113.67 | 145.45 | 189.86 | 125.92 | 162.59 | 217.79 | 159.51 | 141.88
31 | 116.04 | 148.72 | 194.66 | 128.63 | 166.68 | 223.68 | 163.45 | 145.07
32 | 118.37 | 152.00 | 199.50 | 131.39 | 170.72 | 229.57 | 167.39 | 148.25
33 | 120.70 | 155.28 | 204.30 | 134.09 | 174.75 | 235.46 | 171.33 | 151.43
34 | 123.03 | 158.56 | 209.10 | 136.80 | 178.79 | 241.35 | 175.32 | 154.61
35 | 125.35 | 161.83 | 213.89 | 139.51 | 182.83 | 247.24 | 179.27 | 157.80
36 | 127.68 | 165.11 | 218.69 | 142.22 | 186.91 | 253.13 | 183.21 | 160.98
37 | 130.01 | 168.39 | 223.49 | 144.92 | 190.95 | 259.02 | 187.15 | 164.16
38 | 132.34 | 171.67 | 228.33 | 147.63 | 194.99 | 264.91 | 191.09 | 167.34
39 | 134.66 | 174.94 | 233.13 | 150.34 | 199.03 | 270.85 | 195.08 | 170.57
40 | 136.99 | 178.22 | 237.93 | 153.05 | 203.06 | 276.74 | 199.03 | 173.76
41 | 139.32 | 181.50 | 242.73 | 155.75 | 207.15 | 282.63 | 202.97 | 176.94
42 | 141.69 | 184.78 | 247.52 | 158.46 | 211.19 | 288.52 | 206.91 | 180.12
43 | 144.02 | 188.05 | 252.32 | 161.17 | 215.22 | 294.41 | 210.85 | 183.30
44 | 146.35 | 191.33 | 257.17 | 163.88 | 219.26 | 300.30 | 214.84 | 186.49
45 | 148.68 | 194.61 | 261.96 | 166.58 | 223.30 | 306.19 | 218.79 | 189.67
46 | 151.00 | 197.93 | 266.76 | 169.34 | 227.38 | 312.08 | 222.73 | 192.85
47 | 153.33 | 201.21 | 271.56 | 172.05 | 231.42 | 317.97 | 226.67 | 196.03
48 | 155.66 | 204.49 | 276.36 | 174.75 | 235.46 | 323.86 | 230.61 | 199.22
49 | 157.99 | 207.77 | 281.15 | 177.46 | 239.50 | 329.75 | 234.60 | 202.40
50 | 160.31 | 211.04 | 286.00 | 180.17 | 243.53 | 335.64 | 238.55 | 205.58

Priority Mail International Parcels Commercial Plus Prices (Continued)
Maximum Weight (pounds) | Country price group: 10 ($) | Country price group: 11 ($) | Country price group: 12 ($) | Country price group: 13 ($) | Country price group: 14 ($) | Country price group: 15 ($) | Country price group: 16 ($) | Country price group: 17 ($)
26 | 171.48 | 133.00 | 126.07 | 113.05 | 138.27 | 141.84 | 104.22 | 110.30
27 | 176.46 | 136.09 | 129.06 | 115.57 | 141.55 | 145.87 | 106.16 | 112.81
28 | 181.50 | 139.18 | 132.05 | 118.09 | 144.83 | 149.96 | 108.11 | 115.33
29 | 186.49 | 142.26 | 135.04 | 120.60 | 148.15 | 154.00 | 110.06 | 117.85
30 | 191.47 | 145.35 | 138.04 | 123.12 | 151.43 | 158.03 | 112.01 | 120.37
31 | 196.46 | 148.44 | 141.03 | 125.64 | 154.71 | 162.07 | 113.95 | 122.88
32 | 201.45 | 151.53 | 144.02 | 128.16 | 157.99 | 166.11 | 115.90 | 125.40
33 | 206.44 | 154.61 | 147.01 | 130.67 | 161.26 | 170.19 | 117.85 | 127.92
34 | 211.47 | 157.70 | 150.01 | 133.19 | 164.54 | 174.23 | 119.80 | 130.44
35 | 216.46 | 160.84 | 153.00 | 135.71 | 167.82 | 178.27 | 121.74 | 132.95
36 | 221.45 | 163.92 | 155.99 | 138.23 | 171.10 | 182.31 | 123.69 | 135.47
37 | 226.43 | 167.01 | 158.98 | 140.74 | 174.37 | 186.34 | 125.64 | 137.99
38 | 231.42 | 170.10 | 161.98 | 143.26 | 177.65 | 190.43 | 127.59 | 140.55
39 | 236.41 | 173.19 | 164.97 | 145.78 | 180.93 | 194.47 | 129.53 | 143.07
40 | 241.44 | 176.27 | 167.96 | 148.30 | 184.21 | 198.50 | 131.48 | 145.59
41 | 246.43 | 179.46 | 171.00 | 150.81 | 187.48 | 202.54 | 133.43 | 148.11
42 | 251.42 | 182.64 | 173.99 | 153.33 | 190.76 | 206.63 | 135.38 | 150.62
43 | 256.41 | 185.82 | 176.99 | 155.85 | 194.04 | 210.66 | 137.32 | 153.14
44 | 261.39 | 189.05 | 179.98 | 158.37 | 197.32 | 214.70 | 139.27 | 155.66
45 | 266.38 | 192.23 | 182.97 | 160.88 | 200.59 | 218.74 | 141.22 | 158.18
46 | 271.42 | 195.42 | 185.96 | 163.35 | 203.87 | 222.78 | 143.17 | 160.69
47 | 276.40 | 198.60 | 188.96 | 165.87 | 207.20 | 226.86 | 145.11 | 163.21
48 | 281.39 | 201.83 | 191.95 | 168.39 | 210.47 | 230.90 | 147.06 | 165.73
49 | 286.38 | 205.01 | 194.94 | 170.91 | 213.75 | 234.94 | 148.96 | 168.25
50 | 291.37 | 208.19 | 197.93 | 173.42 | 217.03 | 238.97 | 150.91 | 170.76

Priority Mail International Parcels Commercial Plus Prices (Continued)
Maximum weight (pounds) | Country price group ¹: Origin zone 1.1 &1.2 ($) | Country price group ¹: Origin zone 1.3 ($) | Country price group ¹: Origin zone 1.4 ($) | Country price group ¹: Origin zone 1.5 ($) | Country price group ¹: Origin zone 1.6 ($) | Country price group ¹: Origin zone 1.7 ($) | Country price group ¹: Origin zone 1.8 ($)
51 | 146.82 | 162.83 | 172.85 | 184.25 | 186.63 | 195.94 | 206.58
52 | 148.87 | 165.35 | 175.56 | 186.96 | 189.53 | 199.03 | 209.95
53 | 150.91 | 167.87 | 178.27 | 189.67 | 192.42 | 202.11 | 213.32
54 | 152.95 | 170.38 | 180.98 | 192.38 | 195.32 | 205.20 | 216.70
55 | 154.99 | 172.90 | 183.68 | 195.08 | 198.22 | 208.29 | 220.07
56 | 157.04 | 175.42 | 186.39 | 197.79 | 201.12 | 211.38 | 223.44
57 | 159.08 | 177.94 | 189.10 | 200.50 | 204.01 | 214.46 | 226.81
58 | 161.12 | 180.45 | 191.81 | 203.21 | 206.96 | 217.55 | 230.19
59 | 163.16 | 182.97 | 194.51 | 205.91 | 209.86 | 220.64 | 233.56
60 | 165.21 | 185.49 | 197.27 | 208.62 | 212.75 | 223.73 | 236.93
61 | 167.25 | 188.01 | 199.98 | 211.33 | 215.65 | 226.81 | 240.35
62 | 169.29 | 190.52 | 202.68 | 214.08 | 218.55 | 229.90 | 243.72
63 | 171.33 | 193.04 | 205.39 | 216.79 | 221.45 | 232.94 | 247.10
64 | 173.38 | 195.56 | 208.10 | 219.50 | 224.34 | 236.03 | 250.47
65 | 175.42 | 198.08 | 210.81 | 222.21 | 227.24 | 239.12 | 253.84
66 | 177.46 | 200.59 | 213.51 | 224.91 | 230.14 | 242.20 | 257.21
67 |  |  |  |  |  |  |
68 |  |  |  |  |  |  |
69 |  |  |  |  |  |  |
70 |  |  |  |  |  |  |

Priority Mail International Parcels Commercial Plus Prices (Continued)
Maximum weight (pounds) | Country price group: 2 ($) | Country price group: 3 ($) | Country price group: 4 ($) | Country price group: 5 ($) | Country price group: 6 ($) | Country price group: 7 ($) | Country price group: 8 ($) | Country price group: 9 ($)
51 | 162.64 | 214.32 | 290.80 | 182.88 | 247.62 | 341.53 | 242.49 | 208.76
52 | 164.97 | 217.60 | 295.59 | 185.58 | 251.66 | 347.42 | 246.43 | 211.95
53 | 167.34 | 220.88 | 300.39 | 188.29 | 255.69 | 353.35 | 250.42 | 215.13
54 | 169.67 | 224.15 | 305.19 | 191.00 | 259.73 | 359.24 | 254.36 | 218.31
55 | 172.00 | 227.43 | 309.99 | 193.71 | 263.82 | 365.13 | 258.31 | 221.54
56 | 174.33 | 230.71 | 314.83 | 196.41 | 267.85 | 371.02 | 262.25 | 224.72
57 | 176.65 | 233.99 | 319.63 | 199.12 | 271.89 | 376.91 | 266.19 | 227.91
58 | 178.98 | 237.26 | 324.43 | 201.83 | 275.93 | 382.80 | 270.18 | 231.09
59 | 181.31 | 240.54 | 329.22 | 204.58 | 279.97 | 388.69 | 274.12 | 234.27
60 | 183.64 | 243.82 | 334.02 | 207.29 | 284.05 | 394.58 | 278.07 | 237.45
61 | 185.96 | 247.10 | 338.87 | 210.00 | 288.09 | 400.47 | 282.01 | 240.64
62 | 188.29 | 250.42 | 343.66 | 212.71 | 292.13 | 406.36 | 285.95 | 243.82
63 | 190.62 | 253.70 | 348.46 | 215.41 | 296.16 | 412.25 | 289.94 | 247.00
64 | 192.99 | 256.98 | 353.26 | 218.12 | 300.20 | 418.14 | 293.88 | 250.18
65 | 195.32 | 260.25 | 358.06 | 220.83 | 304.29 | 424.03 | 297.83 | 253.37
66 | 197.65 | 263.53 | 362.85 | 223.54 | 308.32 | 429.92 | 301.77 | 256.55
67 | 199.98 | 266.81 | 367.70 | 226.24 | 312.36 | 435.86 | 305.71 | 259.73
68 | 202.30 | 270.09 | 372.50 | 228.95 | 316.40 | 441.75 | 309.70 | 262.91
69 | 204.63 | 273.36 | 377.29 | 231.66 | 320.44 | 447.64 | 313.64 | 266.10
70 | 206.96 | 276.64 | 382.09 | 234.37 | 324.52 | 453.53 | 317.59 | 269.28

Priority Mail International Parcels Commercial Plus Prices (Continued)
Maximum weight (pounds) | Country price group: 10 ($) | Country price group: 11 ($) | Country price group: 12 ($) | Country price group: 13 ($) | Country price group: 14 ($) | Country price group: 15 ($) | Country price group: 16 ($) | Country price group: 17 ($)
51 | 296.35 | 211.38 | 200.93 | 175.94 | 220.31 | 243.01 | 152.86 | 173.33
52 | 301.34 | 214.56 | 203.92 | 178.46 | 223.58 | 247.10 | 154.80 | 175.85
53 | 306.38 | 217.79 | 206.91 | 180.98 | 226.86 | 251.13 | 156.75 | 178.36
54 | 311.36 | 220.97 | 209.90 | 183.49 | 230.14 | 255.17 | 158.70 | 180.88
55 | 316.35 | 224.15 | 212.90 | 186.01 | 233.42 | 259.21 | 160.65 | 183.40
56 | 321.34 | 227.34 | 215.94 | 188.53 | 236.69 | 263.25 | 162.59 | 185.92
57 | 326.33 | 230.57 | 218.93 | 191.05 | 239.97 | 267.33 | 164.54 | 188.43
58 | 331.31 | 233.75 | 221.92 | 193.56 | 243.25 | 271.37 | 166.49 | 190.95
59 | 336.35 | 236.93 | 224.91 | 196.08 | 246.53 | 275.41 | 168.44 | 193.47
60 | 341.34 | 240.11 | 227.91 | 198.60 | 249.80 | 279.44 | 170.38 | 195.99
61 | 346.32 | 243.30 | 230.90 | 201.12 | 253.08 | 283.48 | 172.33 | 198.50
62 | 351.31 | 246.53 | 233.89 | 203.63 | 256.36 | 287.57 | 174.28 | 201.02
63 | 356.30 | 249.71 | 236.88 | 206.15 | 259.64 | 291.60 | 176.23 | 203.59
64 | 361.29 | 252.89 | 239.88 | 208.67 | 262.96 | 295.64 | 178.17 | 206.10
65 | 366.32 | 256.07 | 242.87 | 211.19 | 266.24 | 299.68 | 180.12 | 208.62
66 | 371.31 | 259.30 | 245.86 | 213.70 | 269.52 | 303.72 | 182.07 | 211.14
67 |  |  |  |  |  |  | 184.02 |
68 |  |  |  |  |  |  | 185.96 |
69 |  |  |  |  |  |  | 187.91 |
70 |  |  |  |  |  |  | 189.86 |
Notes:
1. The applicable Origin Zone for pieces destined to Canada is based on the applicable zone from the origin point to the serving International Service Center (ISC). In future releases, distance to and within Canada could be considered for application of the appropriate Origin Zone group.

Pickup On Demand Service

Add $23.00 for each Pickup On Demand stop.

International Service Center (ISC) Zone Chart

The International Service Center (ISC) Zone Chart identifies the appropriate distance code assigned to each origin.

| Annual fee ($)
Zone Chart concerning appropriate International Service Center and partner Induction Facility from every ZIP Code in the nation (per year) | 68.00

2320 International Priority Airmail (IPA)

* * *

2320.6 Prices

International Priority Airmail Letters and Postcards

The price to be paid is the applicable per-piece price plus the applicable per-pound price. The per-piece price applies to each mailpiece regardless of weight. The per-pound price applies to the net weight (gross weight of the container minus the tare weight of the container) of the mail for the specific Country Price Group.

a. Presort Mail (Full Service and ISC Drop Shipment)

i. Per Piece

| Price group: 1 ($) | Price group: 2 ($) | Price group: 3 ($) | Price group: 4 ($) | Price group: 5 ($) | Price group: 6 ($) | Price group: 7 ($) | Price group: 8 ($) | Price group: 9 ($) | Price group: 10 ($)
Direct Country Containers | 0.74 | 0.24 | 0.72 | 0.73 | 0.72 | 0.71 | 0.76 | 0.67 | 0.61 | 0.28
Mixed Country Containers |  |  |  |  |  |  |  |  | 0.72 | 0.30

| Price group: 11 ($) | Price group: 12 ($) | Price group: 13 ($) | Price group: 14 ($) | Price group: 15 ($) | Price group: 16 ($) | Price group: 17 ($) | Price group: 18 ($) | Price group: 19 ($)
Direct Country Containers | 0.26 | 0.66 | 0.62 | 0.24 | 0.67 | 0.28 | 0.28 | 0.26 | 0.22
Mixed Country Containers | 0.28 | 0.68 | 0.66 | 0.25 | 0.72 | 0.30 | 0.30 | 0.28 | 0.24

ii. Per Pound

| Price group: 1 ($) | Price group: 2 ($) | Price group: 3 ($) | Price group: 4 ($) | Price group: 5 ($) | Price group: 6 ($) | Price group: 7 ($) | Price group: 8 ($) | Price group: 9 ($) | Price group: 10 ($)
Direct Country Containers (Full Service) | 9.40 | 11.03 | 11.34 | 11.82 | 11.53 | 12.45 | 11.82 | 12.03 | 12.61 | 13.93
Direct Country Containers (ISC Drop Shipment) | 6.37 | 6.89 | 8.42 | 8.91 | 8.64 | 9.32 | 8.84 | 8.69 | 9.45 | 9.20
Mixed Country Containers (ISC Drop Shipment) |  |  |  |  |  |  |  |  | 9.90 | 9.64

| Price group: 11 ($) | Price group: 12 ($) | Price group: 13 ($) | Price group: 14 ($) | Price group: 15 ($) | Price group: 16 ($) | Price group: 17 ($) | Price group: 18 ($) | Price group: 19 ($)
Direct Country Containers (Full Service) | 12.33 | 11.98 | 12.22 | 12.95 | 12.07 | 12.51 | 13.99 | 12.39 | 13.73
Direct Country Containers (ISC Drop Shipment) | 9.38 | 8.78 | 8.91 | 10.01 | 8.73 | 9.33 | 9.24 | 9.42 | 10.80
Mixed Country Containers (ISC Drop Shipment) | 9.78 | 9.23 | 9.42 | 10.50 | 9.36 | 9.41 | 9.69 | 9.82 | 11.37

b. Worldwide Nonpresort Mail (Full Service and ISC Drop Shipment)

i. Per Piece

| ($)
Worldwide Nonpresorted Containers | 0.79

ii. Per Pound

| ($)
Worldwide Nonpresorted Containers (Full Service) | 16.04
Worldwide Nonpresorted Containers (ISC Drop Shipment) | 12.64

International Priority Airmail Large Envelopes (Flats)

The price to be paid is the applicable per-piece price plus the applicable per-pound price. The per-piece price applies to each mailpiece regardless of weight. The per-pound price applies to the net weight (gross weight of the container minus the tare weight of the container) of the mail for the specific Country Price Group.

a. Presort Mail (Full Service and ISC Drop Shipment)

i. Per Piece

| Price group: 1 ($) | Price group: 2 ($) | Price group: 3 ($) | Price group: 4 ($) | Price group: 5 ($) | Price group: 6 ($) | Price group: 7 ($) | Price group: 8 ($) | Price group: 9 ($) | Price group: 10 ($)
Direct Country Containers | 0.74 | 0.24 | 0.72 | 0.73 | 0.72 | 0.71 | 0.76 | 0.67 | 0.61 | 0.28
Mixed Country Containers |  |  |  |  |  |  |  |  | 0.72 | 0.30

| Price group: 11 ($) | Price group: 12 ($) | Price group: 13 ($) | Price group: 14 ($) | Price group: 15 ($) | Price group: 16 ($) | Price group: 17 ($) | Price group: 18 ($) | Price group: 19 ($)
Direct Country Containers | 0.26 | 0.66 | 0.62 | 0.24 | 0.67 | 0.28 | 0.28 | 0.26 | 0.22
Mixed Country Containers | 0.28 | 0.68 | 0.66 | 0.25 | 0.72 | 0.30 | 0.30 | 0.28 | 0.24

ii. Per Pound

| Price group: 1 ($) | Price group: 2 ($) | Price group: 3 ($) | Price group: 4 ($) | Price group: 5 ($) | Price group: 6 ($) | Price group: 7 ($) | Price group: 8 ($) | Price group: 9 ($) | Price group: 10 ($)
Direct Country Containers (Full Service) | 8.02 | 9.42 | 9.69 | 10.14 | 9.89 | 10.66 | 10.13 | 10.28 | 10.78 | 11.91
Direct Country Containers (ISC Drop Shipment) | 5.47 | 5.91 | 7.22 | 7.65 | 7.40 | 7.99 | 7.57 | 7.41 | 8.07 | 7.87
Mixed Country Containers (ISC Drop Shipment) |  |  |  |  |  |  |  |  | 8.45 | 8.27

| Price group: 11 ($) | Price group: 12 ($) | Price group: 13 ($) | Price group: 14 ($) | Price group: 15 ($) | Price group: 16 ($) | Price group: 17 ($) | Price group: 18 ($) | Price group: 19 ($)
Direct Country Containers (Full Service) | 10.55 | 10.23 | 10.45 | 11.08 | 12.07 | 12.51 | 13.99 | 12.39 | 13.73
Direct Country Containers (ISC Drop Shipment) | 8.03 | 7.53 | 7.63 | 8.57 | 8.73 | 9.33 | 9.24 | 9.42 | 10.80
Mixed Country Containers (ISC Drop Shipment) | 8.37 | 7.90 | 8.08 | 8.97 | 9.36 | 9.41 | 9.69 | 9.82 | 11.37

b. Worldwide Nonpresort Mail (Full Service and ISC Drop Shipment)

i. Per Piece

| ($)
Worldwide Nonpresorted Containers | 0.79

ii. Per Pound

| ($)
Worldwide Nonpresorted Containers (Full Service) | 16.04
Worldwide Nonpresorted Containers (ISC Drop Shipment) | 12.64

International Priority Airmail Packages (Small Packets and Rolls)

The price to be paid is the applicable per-piece price plus the applicable per-pound price. The per-piece price applies to each mailpiece regardless of weight. The per-pound price applies to the net weight (gross weight of the container minus the tare weight of the container) of the mail for the specific Country Price Group.

a. Presort Mail (Full Service and ISC Drop Shipment)

i. Per Piece

| Price group: 1 ($) | Price group: 2 ($) | Price group: 3 ($) | Price group: 4 ($) | Price group: 5 ($) | Price group: 6 ($) | Price group: 7 ($) | Price group: 8 ($) | Price group: 9 ($) | Price group: 10 ($)
Direct Country Containers | 0.74 | 0.24 | 0.72 | 0.73 | 0.72 | 0.71 | 0.77 | 0.67 | 0.61 | 0.28
Mixed Country Containers |  |  |  |  |  |  |  |  | 0.72 | 0.30

| Price group: 11 ($) | Price group: 12 ($) | Price group: 13 ($) | Price group: 14 ($) | Price group: 15 ($) | Price group: 16 ($) | Price group: 17 ($) | Price group: 18 ($) | Price group: 19 ($)
Direct Country Containers | 0.26 | 0.66 | 0.62 | 0.24 | 0.67 | 0.28 | 0.28 | 0.26 | 0.22
Mixed Country Containers | 0.28 | 0.68 | 0.66 | 0.25 | 0.72 | 0.30 | 0.30 | 0.28 | 0.24

ii. Per Pound

| Price group: 1 ($) | Price group: 2 ($) | Price group: 3 ($) | Price group: 4 ($) | Price group: 5 ($) | Price group: 6 ($) | Price group: 7 ($) | Price group: 8 ($) | Price group: 9 ($) | Price group: 10 ($)
Direct Country Containers (Full Service) | 7.66 | 9.00 | 9.26 | 9.64 | 9.42 | 10.18 | 9.64 | 9.81 | 10.30 | 11.35
Direct Country Containers (ISC Drop Shipment) | 5.20 | 5.65 | 6.87 | 7.28 | 7.06 | 7.61 | 7.21 | 7.09 | 7.70 | 7.49
Mixed Country Containers (ISC Drop Shipment) |  |  |  |  |  |  |  |  | 8.09 | 7.85

| Price group: 11 ($) | Price group: 12 ($) | Price group: 13 ($) | Price group: 14 ($) | Price group: 15 ($) | Price group: 16 ($) | Price group: 17 ($) | Price group: 18 ($) | Price group: 19 ($)
Direct Country Containers (Full Service) | 10.05 | 9.77 | 9.97 | 10.56 | 12.07 | 12.51 | 13.99 | 12.39 | 13.73
Direct Country Containers (ISC Drop Shipment) | 7.66 | 7.18 | 7.27 | 8.17 | 8.73 | 9.33 | 9.24 | 9.42 | 10.80
Mixed Country Containers (ISC Drop Shipment) | 8.00 | 7.51 | 7.70 | 8.55 | 9.36 | 9.41 | 9.69 | 9.82 | 11.37

b. Worldwide Nonpresort Mail (Full Service and ISC Drop Shipment)

i. Per Piece

| ($)
Worldwide Nonpresorted Containers | 0.79

ii. Per Pound

| ($)
Worldwide Nonpresorted Containers (Full Service) | 16.04
Worldwide Nonpresorted Containers (ISC Drop Shipment) | 12.64

International Priority Airmail M-Bag

The price to be paid is the applicable per-pound price. The per-pound price applies to the total weight of the sack (M-bag) for the specific Country Price Group.

a. International Priority Airmail M-Bag (Full Service)

Maximum weight (pounds) | Price group: 1 ($) | Price group: 2 ($) | Price group: 3 ($) | Price group: 4 ($) | Price group: 5 ($) | Price group: 6 ($) | Price group: 7 ($) | Price group: 8 ($) | Price group: 9 ($) | Price group: 10 ($)
11 | 75.13 | 84.92 | 99.95 | 99.95 | 99.95 | 125.18 | 99.95 | 99.95 | 119.24 | 109.34
For each additional pound or fraction thereof | 6.83 | 7.72 | 9.05 | 9.05 | 9.05 | 11.38 | 9.05 | 9.05 | 10.84 | 9.94

Maximum weight (pounds) | Price group: 11 ($) | Price group: 12 ($) | Price group: 13 ($) | Price group: 14 ($) | Price group: 15 ($) | Price group: 16 ($) | Price group: 17 ($) | Price group: 18 ($) | Price group: 19 ($)
11 | 121.77 | 103.18 | 99.95 | 121.33 | 99.95 | 112.75 | 109.34 | 121.77 | 119.90
For each additional pound or fraction thereof | 11.07 | 9.38 | 9.05 | 11.03 | 9.05 | 10.25 | 9.94 | 11.07 | 10.90

b. International Priority Airmail M-Bag (ISC Drop Shipment)

Maximum weight (pounds) | Price group: 1 ($) | Price group: 2 ($) | Price group: 3 ($) | Price group: 4 ($) | Price group: 5 ($) | Price group: 6 ($) | Price group: 7 ($) | Price group: 8 ($) | Price group: 9 ($) | Price group: 10 ($)
5 | 29.46 | 36.44 | 45.75 | 45.75 | 45.75 | 66.66 | 45.75 | 45.75 | 61.02 | 57.80
6 | 29.98 | 37.47 | 47.25 | 47.25 | 47.25 | 69.15 | 47.25 | 47.25 | 63.25 | 58.92
7 | 30.50 | 38.50 | 48.75 | 48.75 | 48.75 | 71.64 | 48.75 | 48.75 | 65.48 | 60.04
8 | 31.02 | 39.53 | 50.25 | 50.25 | 50.25 | 74.13 | 50.25 | 50.25 | 67.71 | 61.16
9 | 31.54 | 40.56 | 51.75 | 51.75 | 51.75 | 76.62 | 51.75 | 51.75 | 69.94 | 62.28
10 | 32.06 | 41.59 | 53.25 | 53.25 | 53.25 | 79.11 | 53.25 | 53.25 | 72.17 | 63.40
11 | 32.58 | 42.62 | 54.75 | 54.75 | 54.75 | 81.60 | 54.75 | 54.75 | 74.40 | 64.52
For each additional pound or fraction thereof | 2.97 | 3.87 | 4.99 | 4.99 | 4.99 | 7.41 | 4.99 | 4.99 | 6.76 | 5.86

Maximum weight (pounds) | Price group: 11 ($) | Price group: 12 ($) | Price group: 13 ($) | Price group: 14 ($) | Price group: 15 ($) | Price group: 16 ($) | Price group: 17 ($) | Price group: 18 ($) | Price group: 19 ($)
5 | 66.26 | 49.54 | 45.75 | 66.56 | 45.75 | 57.92 | 57.80 | 66.26 | 64.15
6 | 68.03 | 51.01 | 47.25 | 68.18 | 47.25 | 59.55 | 58.92 | 68.03 | 65.98
7 | 69.80 | 52.48 | 48.75 | 69.80 | 48.75 | 61.18 | 60.04 | 69.80 | 67.81
8 | 71.57 | 53.95 | 50.25 | 71.42 | 50.25 | 62.81 | 61.16 | 71.57 | 69.64
9 | 73.34 | 55.42 | 51.75 | 73.04 | 51.75 | 64.44 | 62.28 | 73.34 | 71.47
10 | 75.11 | 56.89 | 53.25 | 74.66 | 53.25 | 66.07 | 63.40 | 75.11 | 73.30
11 | 76.88 | 58.36 | 54.75 | 76.28 | 54.75 | 67.70 | 64.52 | 76.88 | 75.13
For each additional pound or fraction thereof | 6.98 | 5.30 | 4.99 | 6.94 | 4.99 | 6.16 | 5.86 | 6.98 | 6.83

2325 International Surface Air Lift (ISAL)

* * *

2325.6 Prices

International Surface Air Lift Letters and Postcards

The price to be paid is the applicable per-piece price plus the applicable per-pound price. The per-piece price applies to each mailpiece regardless of weight. The per-pound price applies to the net weight (gross weight of the container minus the tare weight of the container) of the mail for the specific price group.

a. Presort Mail (Full Service and ISC Drop Shipment)

i. Per Piece

| Price group: 1 ($) | Price group: 2 ($) | Price group: 3 ($) | Price group: 4 ($) | Price group: 5 ($) | Price group: 6 ($) | Price group: 7 ($) | Price group: 8 ($) | Price group: 9 ($) | Price group: 10 ($)
Direct Country Containers | 0.68 | 0.22 | 0.65 | 0.68 | 0.68 | 0.65 | 0.69 | 0.62 | 0.55 | 0.26
Mixed Country Containers |  |  |  |  |  |  |  |  | 0.67 | 0.28

| Price group: 11 ($) | Price group: 12 ($) | Price group: 13 ($) | Price group: 14 ($) | Price group: 15 ($) | Price group: 16 ($) | Price group: 17 ($) | Price group: 18 ($) | Price group: 19 ($)
Direct Country Containers | 0.24 | 0.56 | 0.61 | 0.22 | 0.62 | 0.26 | 0.26 | 0.24 | 0.20
Mixed Country Containers | 0.25 | 0.58 | 0.65 | 0.24 | 0.67 | 0.28 | 0.28 | 0.25 | 0.22

ii. Per Pound

| Price group: 1 ($) | Price group: 2 ($) | Price group: 3 ($) | Price group: 4 ($) | Price group: 5 ($) | Price group: 6 ($) | Price group: 7 ($) | Price group: 8 ($) | Price group: 9 ($) | Price group: 10 ($)
Direct Country Containers (Full Service) | 9.15 | 10.60 | 10.27 | 10.97 | 10.77 | 11.63 | 10.97 | 10.78 | 11.65 | 13.13
Direct Country Containers (ISC Drop Shipment) | 6.18 | 6.65 | 7.66 | 8.25 | 8.06 | 8.70 | 8.17 | 7.79 | 8.71 | 8.67
Mixed Country Containers (ISC Drop Shipment) |  |  |  |  |  |  |  |  | 8.84 | 9.10

| Price group: 11 ($) | Price group: 12 ($) | Price group: 13 ($) | Price group: 14 ($) | Price group: 15 ($) | Price group: 16 ($) | Price group: 17 ($) | Price group: 18 ($) | Price group: 19 ($)
Direct Country Containers (Full Service) | 11.12 | 11.00 | 10.52 | 11.97 | 10.85 | 11.64 | 12.97 | 11.17 | 12.73
Direct Country Containers (ISC Drop Shipment) | 8.47 | 8.05 | 7.60 | 9.28 | 7.82 | 8.66 | 8.55 | 8.51 | 10.03
Mixed Country Containers (ISC Drop Shipment) | 8.77 | 8.47 | 8.44 | 9.52 | 8.69 | 8.73 | 8.99 | 8.81 | 10.21

b. Worldwide Nonpresort Mail (Full Service and ISC Drop Shipment)

i. Per Piece

| ($)
Worldwide Nonpresorted Containers | 0.73

ii. Per Pound

| ($)
Worldwide Nonpresorted Containers (Full Service) | 14.77
Worldwide Nonpresorted Containers (ISC Drop Shipment) | 11.64

International Surface Air Lift Large Envelopes (Flats)

The price to be paid is the applicable per-piece price plus the applicable per-pound price. The per-piece price applies to each mailpiece regardless of weight. The per-pound price applies to the net weight (gross weight of the container minus the tare weight of the container) of the mail for the specific price group.

a. Presort Mail (Full Service and ISC Drop Shipment)

i. Per Piece

| Price group: 1 ($) | Price group: 2 ($) | Price group: 3 ($) | Price group: 4 ($) | Price group: 5 ($) | Price group: 6 ($) | Price group: 7 ($) | Price group: 8 ($) | Price group: 9 ($) | Price group: 10 ($)
Direct Country Containers | 0.68 | 0.23 | 0.65 | 0.68 | 0.68 | 0.65 | 0.69 | 0.62 | 0.57 | 0.26
Mixed Country Containers |  |  |  |  |  |  |  |  | 0.67 | 0.28

| Price group: 11 ($) | Price group: 12 ($) | Price group: 13 ($) | Price group: 14 ($) | Price group: 15 ($) | Price group: 16 ($) | Price group: 17 ($) | Price group: 18 ($) | Price group: 19 ($)
Direct Country Containers | 0.24 | 0.58 | 0.61 | 0.22 | 0.62 | 0.26 | 0.26 | 0.24 | 0.20
Mixed Country Containers | 0.25 | 0.59 | 0.65 | 0.24 | 0.67 | 0.28 | 0.28 | 0.25 | 0.22

ii. Per Pound

| Price group: 1 ($) | Price group: 2 ($) | Price group: 3 ($) | Price group: 4 ($) | Price group: 5 ($) | Price group: 6 ($) | Price group: 7 ($) | Price group: 8 ($) | Price group: 9 ($) | Price group: 10 ($)
Direct Country Containers (Full Service) | 7.80 | 9.11 | 8.79 | 9.39 | 9.21 | 9.94 | 9.39 | 9.22 | 9.98 | 11.24
Direct Country Containers (ISC Drop Shipment) | 5.30 | 5.70 | 6.53 | 7.07 | 6.90 | 7.45 | 7.01 | 6.67 | 7.43 | 7.43
Mixed Country Containers (ISC Drop Shipment) |  |  |  |  |  |  |  |  | 7.57 | 7.80

| Price group: 11 ($) | Price group: 12 ($) | Price group: 13 ($) | Price group: 14 ($) | Price group: 15 ($) | Price group: 16 ($) | Price group: 17 ($) | Price group: 18 ($) | Price group: 19 ($)
Direct Country Containers (Full Service) | 9.52 | 9.38 | 9.00 | 10.23 | 10.85 | 11.64 | 12.97 | 11.17 | 12.73
Direct Country Containers (ISC Drop Shipment) | 7.26 | 6.89 | 6.51 | 7.94 | 7.82 | 8.66 | 8.55 | 8.51 | 10.03
Mixed Country Containers (ISC Drop Shipment) | 7.50 | 7.24 | 7.21 | 8.13 | 8.69 | 8.73 | 8.99 | 8.81 | 10.21

b. Worldwide Nonpresort Mail (Full Service and ISC Drop Shipment)

i. Per Piece

| ($)
Worldwide Nonpresorted Containers | 0.73

ii. Per Pound

| ($)
Worldwide Nonpresorted Containers (Full Service) | 14.77
Worldwide Nonpresorted Containers (ISC Drop Shipment) | 11.64

International Surface Air Lift Packages (Small Packets and Rolls)

The price to be paid is the applicable per-piece price plus the applicable per-pound price. The per-piece price applies to each mailpiece regardless of weight. The per-pound price applies to the net weight (gross weight of the container minus the tare weight of the container) of the mail for the specific price group.

a. Presort Mail (Full Service and ISC Drop Shipment)

i. Per Piece

| Price group: 1 ($) | Price group: 2 ($) | Price group: 3 ($) | Price group: 4 ($) | Price group: 5 ($) | Price group: 6 ($) | Price group: 7 ($) | Price group: 8 ($) | Price group: 9 ($) | Price group: 10 ($)
Direct Country Containers | 0.68 | 0.22 | 0.65 | 0.68 | 0.68 | 0.65 | 0.69 | 0.62 | 0.57 | 0.26
Mixed Country Containers |  |  |  |  |  |  |  |  | 0.67 | 0.28

| Price group: 11 ($) | Price group: 12 ($) | Price group: 13 ($) | Price group: 14 ($) | Price group: 15 ($) | Price group: 16 ($) | Price group: 17 ($) | Price group: 18 ($) | Price group: 19 ($)
Direct Country Containers | 0.24 | 0.58 | 0.61 | 0.22 | 0.62 | 0.26 | 0.26 | 0.24 | 0.20
Mixed Country Containers | 0.25 | 0.59 | 0.65 | 0.24 | 0.67 | 0.28 | 0.28 | 0.25 | 0.22

ii. Per Pound

| Price group: 1 ($) | Price group: 2 ($) | Price group: 3 ($) | Price group: 4 ($) | Price group: 5 ($) | Price group: 6 ($) | Price group: 7 ($) | Price group: 8 ($) | Price group: 9 ($) | Price group: 10 ($)
Direct Country Containers (Full Service) | 7.45 | 8.65 | 8.39 | 8.95 | 8.78 | 9.48 | 8.95 | 8.79 | 9.48 | 10.73
Direct Country Containers (ISC Drop Shipment) | 5.04 | 5.43 | 6.21 | 6.72 | 6.58 | 7.10 | 6.67 | 6.36 | 7.10 | 7.08
Mixed Country Containers (ISC Drop Shipment) |  |  |  |  |  |  |  |  | 7.22 | 7.44

| Price group: 11 ($) | Price group: 12 ($) | Price group: 13 ($) | Price group: 14 ($) | Price group: 15 ($) | Price group: 16 ($) | Price group: 17 ($) | Price group: 18 ($) | Price group: 19 ($)
Direct Country Containers (Full Service) | 9.09 | 8.99 | 8.58 | 9.78 | 10.85 | 11.64 | 12.97 | 11.17 | 12.73
Direct Country Containers (ISC Drop Shipment) | 6.94 | 6.56 | 6.21 | 7.61 | 7.82 | 8.66 | 8.55 | 8.51 | 10.03
Mixed Country Containers (ISC Drop Shipment) | 7.18 | 6.91 | 6.87 | 7.78 | 8.69 | 8.73 | 8.99 | 8.81 | 10.21

b. Worldwide Nonpresort Mail (Full Service and ISC Drop Shipment)

i. Per Piece

| ($)
Worldwide Nonpresorted Containers | 0.73

ii. Per Pound

| ($)
Worldwide Nonpresorted Containers (Full Service) | 14.77
Worldwide Nonpresorted Containers (ISC Drop Shipment) | 11.64

International Surface Air Lift M-Bags

The price to be paid is applicable per-pound price. The per-pound price applies to the total weight of the sack (M-bag) for the specific price group.

a. International Surface Air Lift M-Bag (Full Service)

Maximum weight (pounds) | Price group: 1 ($) | Price group: 2 ($) | Price group: 3 ($) | Price group: 4 ($) | Price group: 5 ($) | Price group: 6 ($) | Price group: 7 ($) | Price group: 8 ($) | Price group: 9 ($) | Price group: 10 ($)
11 | 26.07 | 27.94 | 32.67 | 32.67 | 32.67 | 45.54 | 32.67 | 33.22 | 42.57 | 38.28
For each additional pound or fraction thereof | 2.37 | 2.54 | 2.97 | 2.97 | 2.97 | 4.14 | 2.97 | 3.02 | 3.87 | 3.48

Maximum weight (pounds) | Price group: 11 ($) | Price group: 12 ($) | Price group: 13 ($) | Price group: 14 ($) | Price group: 15 ($) | Price group: 16 ($) | Price group: 17 ($) | Price group: 18 ($) | Price group: 19 ($)
11 | 42.57 | 34.32 | 33.22 | 44.88 | 33.22 | 38.28 | 38.28 | 42.57 | 53.24
For each additional pound or fraction thereof | 3.87 | 3.12 | 3.02 | 4.08 | 3.02 | 3.48 | 3.48 | 3.87 | 4.84

b. International Surface Air Lift M-Bag (ISC Drop Shipment)

Maximum weight (pounds) | Price group: 1 ($) | Price group: 2 ($) | Price group: 3 ($) | Price group: 4 ($) | Price group: 5 ($) | Price group: 6 ($) | Price group: 7 ($) | Price group: 8 ($) | Price group: 9 ($) | Price group: 10 ($)
5 | 24.09 | 22.15 | 17.29 | 17.29 | 17.29 | 24.50 | 17.29 | 17.58 | 23.72 | 22.34
6 | 24.26 | 22.90 | 19.27 | 19.27 | 19.27 | 27.79 | 19.27 | 19.62 | 26.33 | 24.42
7 | 24.43 | 23.65 | 21.25 | 21.25 | 21.25 | 31.08 | 21.25 | 21.66 | 28.94 | 26.50
8 | 24.60 | 24.40 | 23.23 | 23.23 | 23.23 | 34.37 | 23.23 | 23.70 | 31.55 | 28.58
9 | 24.77 | 25.15 | 25.21 | 25.21 | 25.21 | 37.66 | 25.21 | 25.74 | 34.16 | 30.66
10 | 24.94 | 25.90 | 27.19 | 27.19 | 27.19 | 40.95 | 27.19 | 27.78 | 36.77 | 32.74
11 | 25.11 | 26.65 | 29.17 | 29.17 | 29.17 | 44.24 | 29.17 | 29.82 | 39.38 | 34.82
For each additional pound or fraction thereof | 2.28 | 2.42 | 2.65 | 2.65 | 2.65 | 4.03 | 2.65 | 2.70 | 3.59 | 3.18

Maximum weight (pounds) | Price group: 11 ($) | Price group: 12 ($) | Price group: 13 ($) | Price group: 14 ($) | Price group: 15 ($) | Price group: 16 ($) | Price group: 17 ($) | Price group: 18 ($) | Price group: 19 ($)
5 | 18.80 | 18.51 | 17.58 | 19.69 | 17.58 | 20.20 | 22.34 | 18.80 | 25.33
6 | 22.17 | 20.57 | 19.62 | 23.31 | 19.62 | 22.65 | 24.42 | 22.17 | 29.44
7 | 25.54 | 22.63 | 21.66 | 26.93 | 21.66 | 25.10 | 26.50 | 25.54 | 33.55
8 | 28.91 | 24.69 | 23.70 | 30.55 | 23.70 | 27.55 | 28.58 | 28.91 | 37.66
9 | 32.28 | 26.75 | 25.74 | 34.17 | 25.74 | 30.00 | 30.66 | 32.28 | 41.77
10 | 35.65 | 28.81 | 27.78 | 37.79 | 27.78 | 32.45 | 32.74 | 35.65 | 45.88
11 | 39.02 | 30.87 | 29.82 | 41.41 | 29.82 | 34.90 | 34.82 | 39.02 | 49.99
For each additional pound or fraction thereof | 3.56 | 2.81 | 2.70 | 3.76 | 2.70 | 3.18 | 3.18 | 3.56 | 4.54

2330 International Direct Sacks—Airmail M-Bags

* * *

2330.6 Prices

Outbound International Direct Sacks—Airmail M-Bags

The price is based on the applicable per-pound price. The per-pound price applies to the total weight of the sack (M-Bag) for the specific price group.

Maximum weight (pounds) | Price group: 1 ($) | Price group: 2 ($) | Price group: 3 ($) | Price group: 4 ($) | Price group: 5 ($) | Price group: 6 ($) | Price group: 7 ($) | Price group: 8 ($) | Price group: 9 ($)
11 | 49.50 | 46.75 | 88.00 | 70.95 | 60.50 | 85.25 | 73.70 | 73.70 | 72.05
For each additional pound or fraction thereof | 4.50 | 4.25 | 8.00 | 6.45 | 5.50 | 7.75 | 6.70 | 6.70 | 6.55
Notes
1. Same as Price Groups 1-9 for Single-Piece First-Class Mail International (SPFCMI).

Inbound International Direct Sacks—M-Bags

Payment is made in accordance with Part III of the Universal Postal Convention and associated UPU Letter Post Regulations. This information is available in the Letter Post Manual at www.upu.int.

2335 Outbound Single-Piece First-Class Package International Service

* * *

2335.6 Prices

Outbound Single-Piece First-Class Package International Service Retail Prices

Maximum weight (ounces) | Country price group: 1 ($) | Country price group: 2 ($) | Country price group: 3 ($) | Country price group: 4 ($) | Country price group: 5 ($) | Country price group: 6 ($) | Country price group: 7 ($) | Country price group: 8 ($) | Country price group: 9 ($)
1 | 10.50 | 12.25 | 14.25 | 14.25 | 14.25 | 14.50 | 13.75 | 13.50 | 14.50
2 | 10.50 | 12.25 | 14.25 | 14.25 | 14.25 | 14.50 | 13.75 | 13.50 | 14.50
3 | 10.50 | 12.25 | 14.25 | 14.25 | 14.25 | 14.50 | 13.75 | 13.50 | 14.50
4 | 10.50 | 12.25 | 14.25 | 14.25 | 14.25 | 14.50 | 13.75 | 13.50 | 14.50
5 | 10.50 | 12.25 | 14.25 | 14.25 | 14.25 | 14.50 | 13.75 | 13.50 | 14.50
6 | 10.50 | 12.25 | 14.25 | 14.25 | 14.25 | 14.50 | 13.75 | 13.50 | 14.50
7 | 10.50 | 12.25 | 14.25 | 14.25 | 14.25 | 14.50 | 13.75 | 13.50 | 14.50
8 | 10.50 | 12.25 | 14.25 | 14.25 | 14.25 | 14.50 | 13.75 | 13.50 | 14.50
12 | 17.25 | 21.50 | 23.50 | 24.00 | 24.00 | 24.50 | 23.25 | 22.75 | 24.50
16 | 17.25 | 21.50 | 23.50 | 24.00 | 24.00 | 24.50 | 23.25 | 22.75 | 24.50
20 | 17.25 | 21.50 | 23.50 | 24.00 | 24.00 | 24.50 | 23.25 | 22.75 | 24.50
24 | 17.25 | 21.50 | 23.50 | 24.00 | 24.00 | 24.50 | 23.25 | 22.75 | 24.50
28 | 17.25 | 21.50 | 23.50 | 24.00 | 24.00 | 24.50 | 23.25 | 22.75 | 24.50
32 | 17.25 | 21.50 | 23.50 | 24.00 | 24.00 | 24.50 | 23.25 | 22.75 | 24.50
36 | 26.25 | 33.00 | 35.00 | 36.75 | 37.50 | 38.75 | 37.00 | 34.75 | 38.50
40 | 26.25 | 33.00 | 35.00 | 36.75 | 37.50 | 38.75 | 37.00 | 34.75 | 38.50
44 | 26.25 | 33.00 | 35.00 | 36.75 | 37.50 | 38.75 | 37.00 | 34.75 | 38.50
48 | 26.25 | 33.00 | 35.00 | 36.75 | 37.50 | 38.75 | 37.00 | 34.75 | 38.50
52 | 39.00 | 47.50 | 52.75 | 59.50 | 61.00 | 63.00 | 59.50 | 55.25 | 62.50
56 | 39.00 | 47.50 | 52.75 | 59.50 | 61.00 | 63.00 | 59.50 | 55.25 | 62.50
60 | 39.00 | 47.50 | 52.75 | 59.50 | 61.00 | 63.00 | 59.50 | 55.25 | 62.50
64 | 39.00 | 47.50 | 52.75 | 59.50 | 61.00 | 63.00 | 59.50 | 55.25 | 62.50

Outbound Single-Piece First-Class Package International Service Commercial Base Prices

Maximum weight (ounces) | Country price group: 1 ($) | Country price group: 2 ($) | Country price group: 3 ($) | Country price group: 4 ($) | Country price group: 5 ($) | Country price group: 6 ($) | Country price group: 7 ($) | Country price group: 8 ($) | Country price group: 9 ($)
1 | 9.98 | 11.64 | 13.54 | 13.54 | 13.54 | 13.78 | 13.06 | 12.83 | 13.78
2 | 9.98 | 11.64 | 13.54 | 13.54 | 13.54 | 13.78 | 13.06 | 12.83 | 13.78
3 | 9.98 | 11.64 | 13.54 | 13.54 | 13.54 | 13.78 | 13.06 | 12.83 | 13.78
4 | 9.98 | 11.64 | 13.54 | 13.54 | 13.54 | 13.78 | 13.06 | 12.83 | 13.78
5 | 9.98 | 11.64 | 13.54 | 13.54 | 13.54 | 13.78 | 13.06 | 12.83 | 13.78
6 | 9.98 | 11.64 | 13.54 | 13.54 | 13.54 | 13.78 | 13.06 | 12.83 | 13.78
7 | 9.98 | 11.64 | 13.54 | 13.54 | 13.54 | 13.78 | 13.06 | 12.83 | 13.78
8 | 9.98 | 11.64 | 13.54 | 13.54 | 13.54 | 13.78 | 13.06 | 12.83 | 13.78
12 | 16.39 | 20.43 | 22.33 | 22.80 | 22.80 | 23.28 | 22.09 | 21.61 | 23.28
16 | 16.39 | 20.43 | 22.33 | 22.80 | 22.80 | 23.28 | 22.09 | 21.61 | 23.28
20 | 16.39 | 20.43 | 22.33 | 22.80 | 22.80 | 23.28 | 22.09 | 21.61 | 23.28
24 | 16.39 | 20.43 | 22.33 | 22.80 | 22.80 | 23.28 | 22.09 | 21.61 | 23.28
28 | 16.39 | 20.43 | 22.33 | 22.80 | 22.80 | 23.28 | 22.09 | 21.61 | 23.28
32 | 16.39 | 20.43 | 22.33 | 22.80 | 22.80 | 23.28 | 22.09 | 21.61 | 23.28
36 | 24.94 | 31.35 | 33.25 | 34.91 | 35.63 | 36.81 | 35.15 | 33.01 | 36.58
40 | 24.94 | 31.35 | 33.25 | 34.91 | 35.63 | 36.81 | 35.15 | 33.01 | 36.58
44 | 24.94 | 31.35 | 33.25 | 34.91 | 35.63 | 36.81 | 35.15 | 33.01 | 36.58
48 | 24.94 | 31.35 | 33.25 | 34.91 | 35.63 | 36.81 | 35.15 | 33.01 | 36.58
52 | 37.05 | 45.13 | 50.11 | 56.53 | 57.95 | 59.85 | 56.53 | 52.49 | 59.38
56 | 37.05 | 45.13 | 50.11 | 56.53 | 57.95 | 59.85 | 56.53 | 52.49 | 59.38
60 | 37.05 | 45.13 | 50.11 | 56.53 | 57.95 | 59.85 | 56.53 | 52.49 | 59.38
64 | 37.05 | 45.13 | 50.11 | 56.53 | 57.95 | 59.85 | 56.53 | 52.49 | 59.38

Outbound Single-Piece First-Class Package International Service Commercial Plus Prices

Maximum weight (ounces) | Country price group: 1 ($) | Country price group: 2 ($) | Country price group: 3 ($) | Country price group: 4 ($) | Country price group: 5 ($) | Country price group: 6 ($) | Country price group: 7 ($) | Country price group: 8 ($) | Country price group: 9 ($)
1 | 9.98 | 11.64 | 13.54 | 13.54 | 13.54 | 13.78 | 13.06 | 12.83 | 13.78
2 | 9.98 | 11.64 | 13.54 | 13.54 | 13.54 | 13.78 | 13.06 | 12.83 | 13.78
3 | 9.98 | 11.64 | 13.54 | 13.54 | 13.54 | 13.78 | 13.06 | 12.83 | 13.78
4 | 9.98 | 11.64 | 13.54 | 13.54 | 13.54 | 13.78 | 13.06 | 12.83 | 13.78
5 | 9.98 | 11.64 | 13.54 | 13.54 | 13.54 | 13.78 | 13.06 | 12.83 | 13.78
6 | 9.98 | 11.64 | 13.54 | 13.54 | 13.54 | 13.78 | 13.06 | 12.83 | 13.78
7 | 9.98 | 11.64 | 13.54 | 13.54 | 13.54 | 13.78 | 13.06 | 12.83 | 13.78
8 | 9.98 | 11.64 | 13.54 | 13.54 | 13.54 | 13.78 | 13.06 | 12.83 | 13.78
12 | 16.39 | 20.43 | 22.33 | 22.80 | 22.80 | 23.28 | 22.09 | 21.61 | 23.28
16 | 16.39 | 20.43 | 22.33 | 22.80 | 22.80 | 23.28 | 22.09 | 21.61 | 23.28
20 | 16.39 | 20.43 | 22.33 | 22.80 | 22.80 | 23.28 | 22.09 | 21.61 | 23.28
24 | 16.39 | 20.43 | 22.33 | 22.80 | 22.80 | 23.28 | 22.09 | 21.61 | 23.28
28 | 16.39 | 20.43 | 22.33 | 22.80 | 22.80 | 23.28 | 22.09 | 21.61 | 23.28
32 | 16.39 | 20.43 | 22.33 | 22.80 | 22.80 | 23.28 | 22.09 | 21.61 | 23.28
36 | 24.94 | 31.35 | 33.25 | 34.91 | 35.63 | 36.81 | 35.15 | 33.01 | 36.58
40 | 24.94 | 31.35 | 33.25 | 34.91 | 35.63 | 36.81 | 35.15 | 33.01 | 36.58
44 | 24.94 | 31.35 | 33.25 | 34.91 | 35.63 | 36.81 | 35.15 | 33.01 | 36.58
48 | 24.94 | 31.35 | 33.25 | 34.91 | 35.63 | 36.81 | 35.15 | 33.01 | 36.58
52 | 37.05 | 45.13 | 50.11 | 56.53 | 57.95 | 59.85 | 56.53 | 52.49 | 59.38
56 | 37.05 | 45.13 | 50.11 | 56.53 | 57.95 | 59.85 | 56.53 | 52.49 | 59.38
60 | 37.05 | 45.13 | 50.11 | 56.53 | 57.95 | 59.85 | 56.53 | 52.49 | 59.38
64 | 37.05 | 45.13 | 50.11 | 56.53 | 57.95 | 59.85 | 56.53 | 52.49 | 59.38

Fee for Return of Undeliverable as Addressed Outbound U.S. Origin Mail Posted Through a Foreign Postal Administration or Operator

A fee is charged for the return of an undeliverable-as-addressed Outbound Single-Piece First-Class Mail International item bearing a U.S. return address which was originally posted to an international addressee through a foreign postal administration, consolidator, or operator. The fee for each returned item is equal to the First-Class Mail International postage which would have been charged if the item had been posted through the Postal Service as First-Class Mail International. The fee is charged to the return addressee.

Pickup On Demand Service

Add $23.00 for each Pickup On Demand stop.

2600 Special Services

* * *

2605 Address Enhancement Services

* * *

2605.2 Prices

| ($)
AEC:
Per record processed | 0.26
Minimum charge per list | 26.00
AMS API Address Matching System Application Program Interface (per year, per platform): ¹
Developer's Kit, one platform | 5,600.00
Each Additional, per platform | 1,950.00
Resell License, one platform | 24,650.00
Each Additional, per platform | 12,400.00
Additional Database License
Number of Additional Licenses:
1-100 | 2,950.00
101-200 | 6,000.00
201-300 | 9,000.00
301-400 | 12,000.00
401-500 | 15,150.00
501-600 | 18,200.00
601-700 | 21,050.00
701-800 | 24,250.00
801-900 | 27,500.00
901-1,000 | 30,250.00
1,001-10,000 | 39,150.00
10,001-20,000 | 48,150.00
20,001-30,000 | 57,650.00
30,001-40,000 | 66,650.00
RDI API Developer's Kit: ¹
Each, per platform | 450.00
Resell License, one platform | 1,700.00
Each Additional, per platform | 960.00
Notes
1. Above API License Fees prorated during the first year based on the date of the license agreement.

* * *

2615 International Ancillary Services

2615.1 International Certificate of Mailing

* * *

2615.1.2 Prices

Individual Pieces Prices

| ($)
Original certificate of mailing for listed pieces of ordinary Outbound Single-Piece First-Class Package International Service | 1.45
Three or more pieces individually listed in a firm mailing book or an approved customer provided manifest (per piece) | 0.50
Each additional copy of original certificate of mailing or firm mailing bills (each copy) | 1.45

Multiple Pieces Prices

| ($)
Up to 1,000 identical-weight pieces (one certificate for total number) | 8.55
Each additional 1,000 identical-weight pieces or fraction thereof | 1.07
Duplicate copy | 1.45

2615.2 Outbound Competitive International Registered Mail

* * *

2615.2.2 Prices

| ($)
Per Piece | 16.00

2615.3 Outbound International Return Receipt

* * *

2615.3.2 Prices

Outbound International Return Receipt

| ($)
Per Piece | 4.10

Inbound International Return Receipt

No additional payment.

2615.5 Outbound International Insurance

* * *

2615.5.3 Prices

Outbound International Insurance

a. Priority Mail International Insurance and Priority Mail Express International Merchandise Insurance

Indemnity limit not over ($) | Price ($)
200 ¹ | 0.00
300 | 6.50
400 | 8.05
500 | 9.60
600 | 11.15
700 | 12.70
800 | 14.25
900 | 15.80
Over 900 | 15.80 plus 1.55 for each 100.00 or fraction thereof over 900.00. Maximum indemnity varies by country.
Notes
¹ Insurance coverage is provided, for no additional charge, up to $200.00 for merchandise, and up to $100.00 for document reconstruction.

b. Global Express Guaranteed Insurance

($) |  | ($) | ($)
Amount of coverage:
0.01 | to | 100.00 | 0.00
100.01 | to | 200.00 | 1.05
200.01 | to | 300.00 | 2.10
300.01 | to | 400.00 | 3.15
400.01 | to | 500.00 | 4.20
For document reconstruction insurance or non-document insurance coverage above 500.00, add 1.05 per 100.00 or fraction thereof, up to a maximum of 2,499.00 per shipment. Maximum indemnity varies by country.
Up to | 2,499.00 | 25.20

2615.6 Custom Clearance and Delivery Fee

* * *

2615.6.2 Prices

| ($)
Per Dutiable Item | 6.40

2620 International Money Transfer Service—Outbound

* * *

2620.3 Prices

International Money Order

| ($)
Per International Money Order | 9.50
Inquiry Fee | 7.25

Vendor Assisted Electronic Money Transfer

| Transfer Amount: Minimum amount ($) | Transfer Amount: Maximum amount ($) | Per transfer ($)
Electronic Money Transfer | 0.01 | 750.00 | 13.95
| 750.01 | 1,500.00 | 19.95
Refund | 0.01 | 1,500.00 | 29.95
Change of Recipient | 0.01 | 1,500.00 | 15.50

Electronic Money Transfer

[Reserved]

* * *

2630 Premium Forwarding Service

2630.1 Description

a. Premium Forwarding Service Residential: provides residential delivery customers, and certain Post Office Box customers, the option to receive substantially all mail addressed to a primary address instead at a temporary address by means of a weekly Priority Mail shipment. Parcels that are too large for the weekly shipment, mail pieces that require a scan upon delivery or arrive postage due at the office serving the customer's primary address, and certain Priority Mail pieces may be rerouted as specified in the Domestic Mail Manual. Rerouted Priority Mail Express, First-Class Mail, and Priority Mail pieces incur no additional reshipping charges. Rerouted USPS Marketing Mail and Package Service pieces may be rerouted postage due. Mail sent to a primary address for which an addressee has activated Premium Forwarding Service Residential is not treated as undeliverable-as-addressed. Premium Forwarding Service Residential is available for a period of at least two weeks and not more than twelve months, may not be used simultaneously with temporary or permanent forwarding orders, and is not available to customers whose primary address consists of a size three, four, or five Post Office Box, subject to exceptions allowed by the Postal Service, or a centralized delivery point. Customers must pay the appropriate enrollment fee at the time the service is requested.

b. Premium Forwarding Service Commercial: provides commercial customers the option to have mail addressed to business Post Office Boxes or business street addresses within the same servicing postal facility reshipped as Priority Mail Express or Priority Mail to a new address, for a period of time specified by the customer. Mail pieces that are accountable, require a scan, or arrive postage due at the customer's primary address will be rerouted separately as specified in the Domestic Mail Manual. Containers are used based on volumes and are charged the appropriate Priority Mail Express or Priority Mail postage. Flat rate tray boxes may be used, when available. Customers must pay the Online Enrollment fee annually.

c. Premium Forwarding Service Local: provides certain Post Office Box customers (excludes No-Fee Group E box customers) the option to have mail for delivery to their Post Office Box, reshipped to their deliverable physical street address, when both addresses are serviced by the same postal facility, according to a frequency set by the customer. The Per-Container Reshipment fee will be charged for each Local container received by the customer. Customers must pay the Online Enrollment fee annually. Some packages will be reshipped separately from the main Local container to the customer's deliverable physical street address as specified in the Domestic Mail Manual.

2645 Competitive Ancillary Services

2645.1 Adult Signature

* * *

2645.1.2 Prices

| ($)
Adult Signature Required | 6.40
Adult Signature Restricted Delivery | 6.66

2645.2 Package Intercept Service

* * *

2645.2.2 Prices

| ($)
Package Intercept Service | 14.10

[FR Doc. 2018-22410 Filed 10-16-18; 8:45 am]

BILLING CODE 7710-12-P